ENVIRONMENTAL PROTECTION AGENCY

40 CFR Part 81

[EPA-HQ-OAR-2017-0003; FRL-9972-73-OAR]

Air Quality Designations for the 2010 Sulfur Dioxide (SO2) Primary National Ambient Air Quality Standard—Round 3

AGENCY: Environmental Protection Agency (EPA).

ACTION: Final rule.

SUMMARY: This final rule establishes the initial air quality designations for certain areas in the United States (U.S.) for the 2010 sulfur dioxide (SO2) primary National Ambient Air Quality Standard (NAAQS). The Environmental Protection Agency (EPA) is designating the areas as either Nonattainment, Attainment/Unclassifiable, or Unclassifiable. The designations are based on application of the EPA's nationwide analytical approach and technical analysis, including evaluation of monitoring data and air quality modeling, to determine the appropriate designation based on the weight of evidence for each area. The Clean Air Act (CAA or Act) directs areas designated Nonattainment by this rule to undertake certain planning and pollution control activities to attain the SO2 NAAQS as expeditiously as practicable. This is the third of four expected sets of actions to designate areas of the U.S. for the 2010 SO2 NAAQS.

DATES: The final rule is effective on April 9, 2018.

ADDRESSES: The EPA has established a docket for this action under Docket ID No. EPA-HQ-OAR-2017-0003. All documents in the docket are listed in the index at http://www.regulations.gov website. Although listed in the index, some information is not publicly available, e.g., Confidential Business Information or other information whose disclosure is restricted by statute. Certain other material, such as copyrighted material, is not placed on the internet and will be publicly available only in hard copy form. Publicly available docket materials are available either electronically in the docket or in hard copy at the Docket, WJC West Building, Room 3334, 1301 Constitution Avenue NW, Washington, DC 20004. The hours of operation at the EPA Docket Center are 8:30 a.m.-4:30 p.m., Monday-Friday. The telephone number for the Public Reading Room is (202) 566-1744. Air dispersion modeling input and output files are too large to post in the docket or on the website and must be requested from the EPA Docket Office or the Regional office contacts listed in the FURTHER INFORMATION section.

In addition, the EPA has established a website for the initial SO2 designations rulemakings at: https://www.epa.gov/sulfur-dioxide-designations. The website includes the EPA's final SO2 designations, as well as state and tribal recommendation letters, the EPA's modification letters, technical support documents, responses to comments and other related technical information.

FOR FURTHER INFORMATION CONTACT: For general questions concerning this action, please contact Liz Etchells, U.S. EPA, Office of Air Quality Planning and Standards, Air Quality Policy Division, C539-01, Research Triangle Park, NC 27709, telephone (919) 541-0253, email at etchells.elizabeth@epa.gov. The EPA contacts listed at the beginning of the Supplementary Information can answer questions regarding areas in a particular EPA Regional office.

SUPPLEMENTARY INFORMATION:

U.S. EPA Regional Office Contacts:

Region I—Leiran Biton, telephone (617) 918-1267, email at biton.leiran@epa.gov.

Region II—Ken Fradkin, telephone (212) 637-3702, email at fradkin.kenneth@epa.gov.

Region III—Ruth Knapp, telephone (215) 814-2191, email at knapp.ruth@epa.gov.

Region IV—Twunjala Bradley, telephone (404) 562-9352, email at bradley.twunjala@epa.gov.

Region V—John Summerhays, telephone (312) 886-6067, email at summerhays.john@epa.gov.

Region VI—Bob Imhoff, telephone (214) 665-7262, email at imhoff.robert@epa.gov.

Region VII—David Peter, telephone (913) 551-7397, email at peter.david@epa.gov.

Region VIII—Adam Clark, telephone (303) 312-7104, email at clark.adam@epa.gov.

Region IX—Anita Lee, telephone (415) 972-3958, email at lee.anita@epa.gov.

Region X—John Chi, telephone (206) 553-1185, email at chi.john@epa.gov.

The public may inspect the recommendations from the states, territories and tribes, our recent letters notifying the affected states, territories, and tribes of our intended designations, and area-specific technical support information at the following locations:

Regional offices | States
Dave Conroy, Chief, Air Programs Branch, EPA New England, 5 Post Office Square, Suite 100, Boston, MA 02109-3912, (617) 918-1661 | Connecticut, Maine, Massachusetts, New Hampshire, Rhode Island and Vermont.
Richard Ruvo, Chief, Air Programs Branch, EPA Region II, 290 Broadway, 25th Floor, New York, NY 10007-1866, (212) 637-4014 | New Jersey, New York, Puerto Rico and Virgin Islands.
Maria A. Pino, Acting Associate Director, Office of Air Program Planning, EPA Region III, 1650 Arch Street, Philadelphia, PA 19103-2187, (215) 814-2181 | Delaware, District of Columbia, Maryland, Pennsylvania, Virginia and West Virginia.
R. Scott Davis, Chief, Air Planning and Implementation Branch, EPA Region IV, Sam Nunn Atlanta Federal Center, 61 Forsyth, Street, SW, 12th Floor, Atlanta, GA 30303, (404) 562-9127 | Alabama, Florida, Georgia, Kentucky, Mississippi, North Carolina, South Carolina and Tennessee.
John Mooney, Chief, Air Programs Branch, EPA Region V, 77 West Jackson Street, Chicago, IL 60604, (312) 886-6043 | Illinois, Indiana, Michigan, Minnesota, Ohio and Wisconsin.
Alan Shar, Acting Chief, Air Planning Section, EPA Region VI, 1445 Ross Avenue, Dallas, TX 75202, (214) 665-6691 | Arkansas, Louisiana, New Mexico, Oklahoma and Texas.
Mike Jay, Chief, Air Programs Branch, EPA Region VII, 11201 Renner Blvd., Lenexa, KS 66129, (913) 551-7460 | Iowa, Kansas, Missouri and Nebraska.
Monica Morales, Air Program Director, EPA Region VIII, 1595 Wynkoop Street, Denver, CO 80202-1129, (303) 312-6936 | Colorado, Montana, North Dakota, South Dakota, Utah and Wyoming.
Anita Lee, Air Planning Office, EPA Region IX, 75 Hawthorne Street, San Francisco, CA 94105, (415) 972-3958 | American Samoa, Arizona, California, Guam, Hawaii, Nevada, Northern Mariana Islands, Navajo Nation and the Hopi Tribe.
Debra Suzuki, Manager, State and Tribal Air Programs, EPA Region X, Office of Air, Waste, and Toxics, Mail Code OAQ-107, 1200 Sixth Avenue, Seattle, WA 98101, (206) 553-0985 | Alaska, Idaho, Oregon and Washington.

The information can also be reviewed online at https://www.epa.gov/sulfur-dioxide-designations and in the public docket for these SO2 designations at https://www.regulations.gov under Docket ID No. EPA-HQ-OAR-2017-0003.

Table of Contents

The following is an outline of the Preamble.

I. Preamble Glossary of Terms and Acronyms

II. What is the purpose of this action?

III. What is the 2010 SO2 NAAQS and what are the health concerns that it addresses?

IV. What are the CAA requirements for air quality designations and what action has the EPA taken to meet these requirements?

V. What guidance did the EPA issue and how did the EPA apply the statutory requirements and applicable guidance to determine area designations and boundaries?

VI. What air quality information has the EPA used for these designations?

VII. How do the Round 3 designations affect Indian country?

VIII. Where can I find information forming the basis for this rule and exchanges between the EPA, states and tribes related to this rule?

IX. Environmental Justice Concerns

X. Statutory and Executive Order Reviews

A. Executive Order 12866: Regulatory Planning and Review and Executive Order 13563: Improving Regulation and Regulatory Review

B. Executive Order 13771: Reducing Regulations and Controlling Regulatory Costs

C. Paperwork Reduction Act (PRA)

D. Regulatory Flexibility Act (RFA)

E. Unfunded Mandates Reform Act (UMRA)

F. Executive Order 13132: Federalism

G. Executive Order 13175: Consultation and Coordination With Indian Tribal Government

H. Executive Order 13045: Protection of Children From Environmental Health and Safety Risks

I. Executive Order 13211: Actions That Significantly Affect Energy Supply, Distribution or Use

J. National Technology Transfer and Advancement Act (NTTAA)

K. Executive Order 12898: Federal Actions To Address Environmental Justice in Minority Populations and Low-Income Populations

L. Congressional Review Act (CRA)

M. Judicial Review

I. Preamble Glossary of Terms and Acronyms

The following are abbreviations of terms used in the preamble.

APA Administrative Procedure Act

CAA Clean Air Act

CFR Code of Federal Regulations

DC District of Columbia

EO Executive Order

EPA Environmental Protection Agency

FR Federal Register

NAAQS National Ambient Air Quality Standards

NTTAA National Technology Transfer and Advancement Act

OMB Office of Management and Budget

SO2 Sulfur Dioxide

SOX Sulfur Oxides

RFA Regulatory Flexibility Act

UMRA Unfunded Mandate Reform Act of 1995

TAR Tribal Authority Rule

TAD Technical Assistance Document

TSD Technical Support Document

U.S. United States

II. What is the purpose of this action?

The purpose of this final action is to announce and promulgate initial air quality designations for certain areas in the U.S. for the 2010 SO2 NAAQS, in accordance with the requirements of the CAA. The EPA is designating areas as either Nonattainment, Attainment/Unclassifiable, or Unclassifiable, based on the definitions described in Section IV in this preamble, and based on evaluating any available information, including (but not limited to) appropriate modeling analyses and/or monitoring data.

This is the third round of designations for the 2010 SO2 NAAQS. As discussed in Section IV of this document, the EPA is designating SO2 areas in multiple rounds. The EPA completed the first round of SO2 designations in an action signed on July 25, 2013 (78 FR 47191; August 5, 2013). In that action, the EPA designated 29 areas in 16 states as Nonattainment, based on air quality monitoring data. In the second round of SO2 designations, in actions published on July 12, 2016 (81 FR 45039), and December 13, 2016 (81 FR 89870), the EPA designated 65 additional areas in 24 states: 7 Nonattainment areas, 41 Unclassifiable/Attainment areas and 17 Unclassifiable areas. In this third round, 6 areas are being designated Nonattainment; 23 areas are being designated Unclassifiable; and the rest of the areas covered by this round in all states, territories, and tribal lands are being designated Attainment/Unclassifiable. In a future fourth round, the EPA expects to designate all remaining undesignated areas (approximately 50 areas) where states have installed and begun timely operation of a new SO2 monitoring network.

The list of areas being designated in the affected states and the boundaries of each area appear in the tables for each state within the regulatory text at the end of this document. For areas in this action that meet our definition of “Attainment/Unclassifiable,” the EPA notes this inversion, from previous rounds, of the order of the words “Attainment” and “Unclassifiable” in the amended term “Attainment/Unclassifiable area” has no consequence itself, and that there are no regulatory consequences of this change in, or clarified interpretation of, terminology to the areas in which the terms “Attainment/Unclassifiable” or “Unclassifiable” are applied. For consistency, we are also inverting the order of “Attainment” and “Unclassifiable” for areas previously designated in Round 2 (81 FR 45039 and 81 FR 89870). This re-ordering of the terms has no regulatory consequence and does not revisit the determinations made in Round 2 for these areas. The EPA believes this change is consistent with Congress's definition of “Attainment area” in CAA section 107(d)(1)(A)(ii), and will improve public understanding and make clearer what regulations apply to areas designated in this way, which states have commented they believe is important for the economic development of such areas.

These designations are based on the EPA's nationwide analytical approach and technical assessment of and conclusions regarding the weight of evidence for each area, including but not limited to available air quality monitoring data or air quality modeling. With respect to air quality monitoring data, the EPA considered data from at least the most recent three calendar years 2014-2016 as available. In the modeling runs conducted by states or third parties, the impacts of the actual emissions for recent 3-year periods (e.g., 2012-2014, 2013-2015, 2014-2016) were considered. In some cases, the modeling evaluated current allowable emissions limits in lieu of or as a supplement to modeling of actual emissions. As described in Section VI and in limited circumstances, the EPA may consider early certified 2015-2017 monitoring data or other documentation that demonstrates Attainment. This information would need to be submitted to the EPA by February 28, 2018. For the areas being designated Nonattainment, the CAA directs states to develop and submit to the EPA State Implementation Plans (SIPs) within 18 months of the effective date of this final rule, that meet the requirements of sections 172(c) and 191-192 of the CAA and provide for Attainment of the NAAQS as expeditiously as practicable, but not later than 5 years from the effective date of this final rule.

In 2010, the EPA issued a notice of final rulemaking that revised the primary SO2 NAAQS (75 FR 35520; June 22, 2010) after review of the existing primary SO2 standards promulgated on April 30, 1971 (36 FR 8187). The EPA established the revised primary SO2 NAAQS at 75 parts per billion (ppb) which is attained when the 3-year average of the annual 99th percentile of 1-hour daily maximum concentrations does not exceed 75 ppb.

The process for designating areas following promulgation of a new or revised NAAQS is contained in the CAA section 107(d) (42 U.S.C. 7407(d)). After promulgation of a new or revised NAAQS, each governor or tribal leader has an opportunity to recommend air quality designations, including the appropriate boundaries for Nonattainment areas, to the EPA. The EPA considers these recommendations as part of its duty to promulgate the formal area designations and boundaries for the new or revised NAAQS. By no later than 120 days prior to promulgating designations, the EPA is required to notify states, territories, and tribes, as appropriate, of any intended modifications to an area designation or boundary recommendation that the EPA deems necessary.

After invoking a 1-year extension of the deadlines to designate areas, as provided for in section 107 of the Act, the EPA completed an initial round of SO2 designations for certain areas of the country on July 25, 2013 (referred to as “Round 1”).¹ Following the initial designations, three lawsuits were filed against the EPA in different U.S. District Courts, alleging the agency had failed to perform a nondiscretionary duty under the CAA by not designating all portions of the country by the June 2, 2013, deadline. In one of those cases, the U.S. District Court for the Northern District of California on March 2, 2015, entered an enforceable order for the EPA to complete the area designations by three specific deadlines according to the court-ordered schedule.

¹ A total of 29 areas throughout the U.S. were designated in this action published on August 5, 2013 (78 FR 47191). The EPA designated all 29 areas Nonattainment based on violating monitored SO2 concentrations from Federal Reference Method and Federal Equivalent Method monitors that are sited and operated in accordance with 40 CFR parts 50 and 58, and did not at that time designate any other areas.

To meet the first court-ordered deadline, additional areas were designated on June 30, 2016, and November 29, 2016 (collectively referred to as “Round 2”).² Pursuant to the court-ordered schedule,³ the EPA must complete SO2 designations for the remaining areas of the country by two specific deadlines: December 31, 2017, and December 31, 2020. This current third round of designations addresses all remaining undesignated areas except those where a state has installed and begun timely operating a new SO2 monitoring network meeting EPA specifications referenced in EPA's SO2 Data Requirements Rule.⁴

² A total of 65 areas throughout the U.S. were designated in these actions published on July 12, 2016 (81 FR 45039), and December 13, 2016 (81 FR 89870). Of these 65 areas, seven were designated Nonattainment.

³ Sierra Club v. McCarthy, No. 3-13-cv-3953 (SI) (N.D. Cal. Mar. 2, 2015).

⁴ 40 CFR part 51, subpart BB (80 FR 51052; August 21, 2015).

On or about August 22, 2017, consistent with section 107(d)(1)(b)(ii) of the CAA, the EPA notified affected states, territories, and tribes of its intended designation of certain specific areas as either Nonattainment, Attainment/Unclassifiable, or Unclassifiable for the SO2 NAAQS. These states then had the opportunity to demonstrate why they believed an intended modification of their updated recommendations by the EPA may be inappropriate. Although not required under the CAA, as the EPA had done for the first and second rounds of SO2 designations, the EPA also chose to provide an opportunity for members of the public to comment on the EPA's August 2017 letters. The EPA published a notice of availability and public comment period for the intended designations on September 5, 2017 (82 FR 41903). The public comment period closed on October 5, 2017. The recommendations, the EPA's August 2017 letters, and the subsequent state and public comment letters, are in the docket for this third round of SO2 designations at Docket ID No. EPA-HQ-OAR-2017-0003 and are available on the SO2 designations website.

III. What is the 2010 SO2 NAAQS and what are the health concerns that it addresses?

The EPA revised the primary SO2 NAAQS in a final rule published in the Federal Register on June 22, 2010 (75 FR 35520), which became effective on August 23, 2010. Based on review of the air quality criteria for oxides of sulfur and the primary NAAQS for oxides of sulfur as measured by SO2, the EPA revised the primary SO2 NAAQS to provide requisite protection of public health with an adequate margin of safety. Specifically, the EPA established a new 1-hour SO2 standard at a level of 75 ppb, which is met at an ambient air quality monitoring site when the 3-year average of the annual 99th percentile of 1-hour daily maximum concentrations is less than or equal to 75 ppb, as determined in accordance with Appendix T of 40 CFR part 50. 40 CFR 50.17(a) and (b). The EPA also established provisions to revoke both the existing 24-hour and annual primary SO2 standards, subject to certain conditions. 40 CFR 50.4(e).

Current scientific evidence links short-term exposures to SO2, ranging from 5 minutes to 24 hours, with an array of adverse respiratory effects including bronchoconstriction and increased asthma symptoms. These effects are particularly important for asthmatics at elevated ventilation rates (e.g., while exercising or playing). Studies also show a connection between short-term exposure and increased visits to emergency departments and hospital admissions for respiratory illnesses, particularly in at-risk populations including children, the elderly and asthmatics.

IV. What are the CAA requirements for air quality designations and what action has the EPA taken to meet these requirements?

After the EPA promulgates a new or revised NAAQS, the EPA is required to designate all areas of the country as either “Nonattainment,” “Attainment,” or “Unclassifiable,” for that NAAQS pursuant to section 107(d)(1) of the CAA. As part of these Round 3 designations, the EPA is implementing its interpretation of statutory terms under CAA section 107(d) nationwide and is basing these designations on the EPA's nationwide analytical approach and technical analysis, including evaluation of monitoring data and air quality modeling, applied to the available evidence for each area.

Regarding statutory definitions and the EPA's interpretations of such, section 107(d)(1)(A)(i) of the CAA defines a Nonattainment area as an area that does not meet the NAAQS or that contributes to a nearby area that does not meet the NAAQS. An Attainment area is defined by the CAA as any area that meets the NAAQS and does not contribute to a nearby area that does not meet the NAAQS. Unclassifiable areas are defined by the CAA as those that cannot be classified on the basis of available information as meeting or not meeting the NAAQS.

For the purpose of this action for the 2010 SO2 NAAQS, the EPA has interpreted and applied the statutory definitions as follows. The EPA defines a Nonattainment area as an area that the EPA has determined violates the 2010 SO2 NAAQS or contributes to a violation in a nearby area, based on the most recent 3 years of air quality monitoring data, appropriate dispersion modeling analysis, and any other relevant information.

In this action, an Attainment/Unclassifiable area is defined by the EPA as an area that either: (1) Was not required to be characterized under 40 CFR 51.1203(c) or (d) for which available information does not indicate that the area violates the NAAQS or contributes to ambient air quality in a nearby area that does not meet the NAAQS; or (2) was required to be characterized under 40 CFR 51.1203(c) or (d) for which the EPA has determined the available information indicates the area meets the NAAQS and does not indicate the area contributes to ambient air quality in a nearby area that does not meet the NAAQS.

In this action, an Unclassifiable area is defined by the EPA as an area for which the available information does not allow the EPA to determine whether the area meets the definition of a Nonattainment area or the definition of an Attainment/Unclassifiable area.

This nationwide analytical approach also includes but is not limited to: (1) EPA's interpretations of other terms in the context of Round 3 of the 2010 SO2 NAAQS; (2) the appropriate basis for characterizing the air quality of an area; (3) the five-factor analysis to determine the boundaries for each air quality area under the NAAQS; and (4) the methodology for appropriately characterizing SO2 air quality through monitoring or modeling.

The EPA notes that CAA section 107(d) provides the agency with discretion to determine how best to interpret the terms in the definition of a Nonattainment area (e.g., “contributes to” and “nearby”) for a new or revised NAAQS, given considerations such as the nature of a specific pollutant, the types of sources that may contribute to violations, the form of the standards for the pollutant, and other relevant information. In particular, the EPA's position is that the statute does not require the agency to establish bright line tests or thresholds for what constitutes “contribution” or “nearby” for purposes of designations.⁵

⁵ This view was confirmed in Catawba County v. EPA, 571 F.3d 20 (D.C. Cir. 2009).

Similarly, the EPA's position is that the statute permits the EPA to evaluate the appropriate application of the term “area” to include geographic areas based upon full or partial county boundaries, as may be appropriate for a particular NAAQS. For example, CAA section 107(d)(1)(B)(ii) explicitly provides that the EPA can make modifications to designation recommendations for an area “or portions thereof,” and under CAA section 107(d)(1)(B)(iv) a designation remains in effect for an area “or portion thereof” until the EPA redesignates it.

By no later than 1 year after the promulgation of a new or revised NAAQS, CAA section 107(d)(1)(A) provides that each state governor is required to recommend air quality designations, including the appropriate boundaries for areas, to the EPA.⁶ The EPA reviews those recommendations and is authorized to make any modifications the Administrator deems necessary. The statute does not define the term “necessary,” but the EPA interprets this to authorize the Administrator to modify designations that did not meet the statutory requirements or were otherwise inconsistent with the facts or analysis deemed appropriate by the Administrator. If the EPA is considering modifications to a recommendation, we are required by CAA section 107(d)(1)(B)(ii) to notify the state of any such intended modifications not less than 120 days prior to our promulgation of the final designation. These notifications are commonly known as the “120-day letters.” During this period, if the state or territory does not agree with the EPA's proposed modification, it has an opportunity to respond to the EPA and to demonstrate why it believes the modification proposed by the EPA is inappropriate. If a state or territory fails to provide any recommendation for an area, in whole or in part, the EPA still must promulgate a designation that the Administrator deems appropriate, pursuant to CAA section 107(d)(1)(B)(ii). While CAA section 107(d) specifically addresses the designations process between the EPA and states and territories, the EPA followed the same process to the extent practicable for tribes that submitted designation recommendations.

⁶ Tribes are invited to submit recommendations following promulgation of a new or revised NAAQS, but are not required to do so.

V. What guidance did the EPA issue and how did the EPA apply the statutory requirements and applicable guidance to determine area designations and boundaries?

In the notice of proposed rulemaking for the revised SO2 NAAQS (74 FR 64810; December 8, 2009), the EPA issued proposed guidance on our approach to implementing the standard, including our approach to initial area designations. The EPA solicited comment on that guidance and, in the notice of final rulemaking (75 FR 35520; June 22, 2010), provided further guidance concerning implementation of the standard and how to identify Nonattainment areas and boundaries for the SO2 NAAQS. Subsequently, on March 24, 2011, the EPA provided additional designations guidance to assist states with making their recommendations for area designations and boundaries.⁷ That guidance recommended, among other things, that monitoring data from the most recent 3 consecutive years be used to identify a violation of the SO2 NAAQS. This is appropriate because the form of the SO2 NAAQS is calculated as a 3-year average of the 99th percentile of the yearly distribution of 1-hour daily maximum SO2 concentrations (specifically the most recent 3 consecutive years). The EPA based the first round of final SO2 designations in 2013 solely on violating monitored SO2 concentrations for the years 2010-2012 from Federal Reference Method and Federal Equivalent Method monitors that are sited and operated in accordance with 40 CFR parts 50 and 58, and did not at that time designate any other areas.

⁷ See, “Area Designations for the 2010 Revised Primary Sulfur Dioxide National Ambient Air Quality Standards,” memorandum to Regional Air Division Directors, Regions I-X, from Stephen D. Page, dated March 24, 2011.

In the March 24, 2011, guidance, the EPA stated that the perimeter of a county containing a violation would be the initial presumptive boundary for Nonattainment areas, but also stated that the state, tribe and/or the EPA could conduct additional area-specific analyses that could justify establishing either a larger or smaller area. The EPA indicated that the following factors should be considered in an analysis of whether to exclude portions of a county and whether to include additional nearby areas outside the county as part of the designated Nonattainment area: (1) Air quality data; (2) emissions-related data; (3) meteorology; (4) geography/topography; and (5) jurisdictional boundaries, as well as other available data. States and tribes may identify and evaluate other relevant factors or circumstances specific to a particular area.

Following entry of the March 2, 2015, court order setting forth the schedule for the EPA to complete SO2 designations, the EPA issued updated designations guidance.⁸ This guidance superseded the March 24, 2011, designation guidance for the 2010 SO2 NAAQS, and identified factors that the EPA intended to evaluate in determining whether areas are in violation of the 2010 SO2 NAAQS or contribute to air quality in nearby areas that are in violation of the 2010 SO2 NAAQS. The guidance also contained the factors the EPA intended to evaluate in determining the boundaries for all remaining areas in the country, consistent with the court's order and schedule. These factors include: (1) Air quality characterization via ambient monitoring or dispersion modeling results; (2) emissions-related data; (3) meteorology; (4) geography and topography; and (5) jurisdictional boundaries.⁹

⁸ See, “Updated Guidance for Area Designations for the 2010 Primary Sulfur Dioxide National Ambient Air Quality Standard,” memorandum to Regional Air Division Directors, Regions I-X, from Stephen D. Page, dated March 20, 2015.

⁹ The EPA supplemented this guidance with documents first made available to states and other interested parties in 2013 and updated in 2016. See SO2 NAAQS Designations Source-Oriented Monitoring Technical Assistance Document (February 2016), available at https://www.epa.gov/sites/production/files/2016-06/documents/so2monitoringtad.pdf, and SO2 NAAQS Designations Modeling Technical Assistance Document (August 2016), available at https://www.epa.gov/sites/production/files/2016-06/documents/so2modelingtad.pdf.

On March 8, 2017, the EPA issued a memo to clarify what version of the AERMOD modeling system is the most appropriate for consideration by the agency in the SO2 designations process.¹⁰

¹⁰ See “Clarification on the AERMOD Modeling System Version for Use in SO2 Implementation Efforts and Other Regulatory Actions,” memorandum to EPA Regional Air Division Directors from Richard A. Wayland, dated March 8, 2017. This memo is available at https://www3.epa.gov/ttn/scram/guidance/clarification/SO2_DRR_Designation_Modeling_Clarification_Memo-03082017.pdf.

VI. What air quality information has the EPA used for these designations?

For designations for the SO2 NAAQS, air agencies have the flexibility to characterize air quality using either appropriately sited ambient air quality monitors or modeling of actual or current allowable source emissions. These designations are based on the EPA's application of the nationwide analytical approach to, and technical assessment of, the weight of evidence for each area, including but not limited to available air quality monitoring data and air quality modeling results. The 1-hour primary SO2 standard is violated at an ambient air quality monitoring site (or in the case of dispersion modeling, at an ambient air quality receptor location) when the 3-year average of the annual 99th percentile of the daily maximum 1-hour average concentrations exceeds 75 ppb, as determined in accordance with Appendix T of 40 CFR part 50. With respect to air quality monitoring data, the EPA has considered data from at least the most recent 3 calendar years, i.e., 2014-2016, as available. In most of the modeling runs available for EPA's review, the impacts of the actual emissions for one or more of the recent 3-year periods (e.g., 2012-2014, 2013-2015, 2014-2016) were considered, and in some cases the modeling was of currently effective limits on allowable emissions in lieu of or as a supplement to modeling of actual emissions.

The deadline for Round 3 designations and the practical difficulties of obtaining source emissions data for modeling, and complete, quality-assured, certified SO2 monitoring data for the entirety of calendar year 2017 in December 2017, make the EPA's use of final 2017 emissions and monitoring data for this action generally impracticable. Under normal circumstances, the full year of such data would not be available to support regulatory determinations until after the end of the calendar year, and under the applicable regulations, the deadline for states to certify monitoring data is May 1, 2018. However, because these designations are being promulgated at the end of calendar year 2017, and because states can obtain source emissions information and make complete, quality-assured, certified 2017 data available for some areas quickly in 2018, in order to address the impracticability problem, the EPA is providing a process by which state-certified 2017 monitoring or emissions data that become available early in 2018 could be used in the designation process. We have provided that the final SO2 designation decisions announced in this action will be effective on the date 90 days following the date of publication of this action in the Federal Register. If any state submits complete, quality-assured, certified 2017 data or related information about 2017 air quality to the EPA by February 28, 2018, supporting a change of the designation status for any area within that state, and the EPA agrees that a change of designation status is appropriate, then we will withdraw the designation announced in this action for such area and issue another designation that reflects the inclusion and analysis of such information. We emphasize that we will conduct this process only for those states that submit the information by the deadline of February 28, 2018, and in those instances where we can complete our analysis of the information and effect the change of designation status before the original effective date established by this final action.

If these submissions cause an area to change from Nonattainment to Attainment or Unclassifiable, the EPA will change the designation for the area following the process described in the preceding paragraph. If inclusion of 2017 data or related information about 2017 air quality indicates Nonattainment in an area that was designated Attainment or Unclassifiable, we will evaluate the reasons for the violation in the area and determine the appropriate course of action, which could include additional future action to change the designation for the area to Nonattainment.

VII. How do the Round 3 designations affect Indian country?

For areas of Indian country, there are no violating monitors. The Navajo Nation submitted modeling analyses for the areas around two SO2 emission sources located in the Navajo Nation, the Navajo Generating Station and the Four Corners Power Plant, neither of which indicated a violation of the NAAQS. The Navajo Nation, the lands of the Hopi Tribe, and the Southern Ute Indian Reservation are being designated as separate areas. All other parts of Indian country are being designated as Attainment/Unclassifiable or Unclassifiable along with the surrounding state area. No areas of Indian country are being designated as Nonattainment in this round.

VIII. Where can I find information forming the basis for this rule and exchanges between the EPA, states and tribes related to this rule?

Information providing the basis for this final action are provided in a final technical support document (TSD) ¹¹ included in the docket. The final TSD, intended designations TSD, modeling files, technical assistance documents, applicable EPA guidance memoranda, public comments, and copies of correspondence regarding this process between the EPA and the states, territories, tribes, and other parties, are available for review at the public docket for these SO2 designations at https://www.regulations.gov under Docket ID No. EPA-HQ-OAR-2017-0003, at the EPA Docket Center listed above in the ADDRESSES section of this document and on the agency's SO2 Designations website at https://www.epa.gov/sulfur-dioxide-designations. Area-specific questions can be addressed to the EPA Regional offices (see contact information provided at the beginning of this document).

¹¹ The single final TSD for this action consists of a few sections with information that applies to all affected areas or to certain groups of areas with some common features, and many sections that are specific to individual states, territories, or tribal areas. For convenience, the term “TSD” is also used generically to refer to these state/territory/tribe-specific sections. For informational purposes, these individual state/territory/tribe-specific sections/TSDs are available for separate downloading from the indicated EPA website.

IX. Environmental Justice Concerns

When the EPA establishes a new or revised NAAQS, the CAA requires the EPA to designate all areas of the U.S. as either Nonattainment, Attainment, or Unclassifiable. This action addresses designation determinations for certain areas for the 2010 SO2 NAAQS. Area designations address environmental justice concerns by ensuring that the public is properly informed about the air quality in an area. In locations where air quality does not meet the NAAQS, the CAA requires relevant state authorities to initiate appropriate air quality management actions to ensure that all those residing, working, attending school, or otherwise present in those areas are protected, regardless of minority and economic status.

X. Statutory and Executive Order Reviews

A. Executive Order 12866: Regulatory Planning and Review and Executive Order 13563: Improving Regulation and Regulatory Review

This action is exempt from review by the Office of Management and Budget because it responds to the CAA requirement to promulgate air quality designations after promulgation of a new or revised NAAQS.

B. Executive Order 13771: Reducing Regulations and Controlling Regulatory Costs

This action is not an Executive Order 13771 regulatory action because actions such as air quality designations after promulgating a new revised NAAQS are exempt under Executive Order 12866.

C. Paperwork Reduction Act (PRA)

This action does not impose an information collection burden under the PRA. This action fulfills the non-discretionary duty for the EPA to promulgate air quality designations after promulgation of a new or revised NAAQS and does not contain any information collection activities.

D. Regulatory Flexibility Act (RFA)

This designation action under CAA section 107(d) is not subject to the RFA. The RFA applies only to rules subject to notice-and-comment rulemaking requirements under the APA, 5 U.S.C. 553, or any other statute. Section 107(d)(2)(B) of the CAA explicitly provides that designations are exempt from the notice-and-comment provisions of the APA. In addition, designations under CAA section 107(d) are not among the list of actions that are subject to the notice-and-comment rulemaking requirements of CAA section 307(d).

E. Unfunded Mandates Reform Act (UMRA)

This action does not contain any unfunded mandate as described in UMRA, 2 U.S.C. 1531-1538 and does not significantly or uniquely affect small governments. The action imposes no enforceable duty on any state, local, or tribal governments or the private sector.

F. Executive Order 13132: Federalism

This action does not have federalism implications. It will not have substantial direct effects on the states, on the relationship between the national government and the states, or on the distribution of power and responsibilities among the various levels of government. The division of responsibility between the federal government and the states for purposes of implementing the NAAQS is established under the CAA.

G. Executive Order 13175: Consultation and Coordination With Indian Tribal Government

This action does not have tribal implications, as specified in Executive Order 13175. This action concerns the designation of certain areas in the U.S. for the 2010 SO2 NAAQS. The CAA provides for states, territories, and eligible tribes to develop plans to regulate emissions of air pollutants within their areas, as necessary, based on the designations. The Tribal Authority Rule (TAR) provides tribes the opportunity to apply for eligibility to develop and implement CAA programs, such as programs to attain and maintain the SO2 NAAQS, but it leaves to the discretion of the tribe the decision of whether to apply to develop these programs and which programs, or appropriate elements of a program, the tribe will seek to adopt. This rule does not have a substantial direct effect on one or more Indian tribes. It would not create any additional requirements beyond those of the SO2 NAAQS. This rule establishes the designations for certain areas of the country for the SO2 NAAQS, but no areas of Indian country are being designated as Nonattainment by this action. Furthermore, this rule does not affect the relationship or distribution of power and responsibilities between the federal government and Indian tribes. The CAA and the TAR establish the relationship of the federal government and tribes in developing plans to attain the NAAQS, and this rule does nothing to modify that relationship. Thus, Executive Order 13175 does not apply.

Although Executive Order 13175 does not apply to this rule, after the EPA promulgated the 2010 primary SO2 NAAQS, the EPA communicated with tribal leaders and environmental staff regarding the designations process. In 2011, the EPA also sent individualized letters to all federally recognized tribes to explain the designation process for the 2010 primary SO2 NAAQS, to provide the EPA designations guidance, and to offer consultation with the EPA. The EPA provided further information to tribes through presentations at the National Tribal Forum and through participation in National Tribal Air Association conference calls. The EPA also sent individualized letters to all federally recognized tribes that submitted recommendations to the EPA about the EPA's intended Round 1 designations for the SO2 standard and offered tribal leaders the opportunity for consultation.¹² These communications provided opportunities for tribes to voice concerns to the EPA about the general designations process for the 2010 SO2 NAAQS, as well as concerns specific to a tribe, and informed the EPA about key tribal concerns regarding designations as the designations process was under development and through its implementation up to that point. For the second round of SO2 designations, the EPA sent additional letters to tribes that could potentially be affected and offered additional opportunities for participation in the designations process. For this third round of SO2 designations, the EPA has sent similar letters to affected tribes.

¹² These communication letters to the tribes are provided in the dockets for Round 1 (Docket ID No. EPA-HQ-OAR-2012-0233 and Round 2 (Docket ID No. EPA-HQ-OAR-2014-0464).

H. Executive Order 13045: Protection of Children From Environmental Health and Safety Risks

The EPA interprets Executive Order 13045 as applying to those regulatory actions that concern environmental health or safety risks that the EPA has reason to believe may disproportionately affect children, per the definition of “covered regulatory action” in section 2-202 of the Executive Order. This action is not subject to Executive Order 13045 because it does not establish an environmental standard intended to mitigate health or safety risks.

I. Executive Order 13211: Actions That Significantly Affect Energy Supply, Distribution or Use

This action is not subject to Executive Order 13211 because it is not a significant regulatory action under Executive Order 12866.

J. National Technology Transfer and Advancement Act (NTTAA)

This rulemaking does not involve technical standards.

K. Executive Order 12898: Federal Actions To Address Environmental Justice in Minority Populations and Low-Income Populations

The EPA believes that this action does not have disproportionately high and adverse human health or environmental effects on minority populations, low-income populations and/or indigenous peoples, as specified in Executive Order 12898 (59 FR 7629, February 16, 1994). The documentation for this determination is contained in Section IX of this preamble, “Environmental Justice Concerns.”

L. Congressional Review Act (CRA)

This action is subject to the CRA, and the EPA will submit a rule report to each House of the Congress and to the Comptroller General of the U.S. This action is not a “major rule” as defined by 5 U.S.C. 804(2).

M. Judicial Review

Section 307(b)(1) of the CAA indicates which Federal Courts of Appeal have venue for petitions of review of final actions by the EPA. This section provides, in part, that petitions for review must be filed in the Court of Appeals for the District of Columbia Circuit: (i) When the agency action consists of “nationally applicable regulations promulgated, or final actions taken, by the Administrator,” or (ii) when such action is locally or regionally applicable, if “such action is based on a determination of nationwide scope or effect and if in taking such action the Administrator finds and publishes that such action is based on such a determination.”

This final action to designate certain areas for the 2010 SO2 NAAQS is “nationally applicable” within the meaning of section 307(b)(1). The final action establishes designations for areas across the U.S. for the 2010 SO2 NAAQS. At the core of this action is the EPA's nationwide analytical approach and technical analysis, including evaluation of monitoring data and air quality modeling, applied to the available evidence for each area, including the EPA's interpretation of statutory terms in the CAA such as the definitions of Nonattainment, Attainment, and Unclassifiable under section 107(d)(1) of the CAA, and its application of that interpretation to areas across the country. Accordingly, the Administrator has determined that the final action is nationally applicable and is hereby publishing that finding in the Federal Register.

For the same reasons discussed above that make the final rule nationally applicable, the Administrator also has determined that the final designations are of nationwide scope and effect for the purposes of section 307(b)(1). This is particularly appropriate because, in the report on the 1977 Amendments that revised section 307(b)(1) of the CAA, Congress noted that the Administrator's determination that an action is of “nationwide scope or effect” would be appropriate for any action that has a scope or effect beyond a single judicial circuit. H.R. Rep. No. 95-294 at 323, 324, reprinted in 1977 U.S.C.C.A.N. 1402-03. Here, the scope and effect of the action will extend to numerous judicial circuits since the designations will apply to areas across the country. In these circumstances, section 307(b)(1) and its legislative history calls for the Administrator to find the action to be of “nationwide scope or effect” and for venue to be in the D.C. Circuit. Therefore, the Administrator has determined that the final action is based on a determination by the Administrator of nationwide scope or effect, and is hereby publishing that finding in the Federal Register.

List of Subjects in 40 CFR Part 81

Air pollution control, National parks, Wilderness areas.

Dated: December 21, 2017.
E. Scott Pruitt,
Administrator.

For the reasons set forth in the preamble, 40 CFR part 81 is amended as follows:

PART 81—DESIGNATIONS OF AREAS FOR AIR QUALITY PLANNING PURPOSES

1. The authority citation for part 81 continues to read as follows:

Authority: 42 U.S.C. 7401, et seq.

Subpart C—Section 107 Attainment Status Designations

2. Section 81.301 is amended by adding a table titled “Alabama—2010 Sulfur Dioxide NAAQS (Primary)” following the table titled “Alabama—1971 Sulfur Dioxide NAAQS (Primary and Secondary)” to read as follows:

§ 81.301 Alabama.

* * * * *

Alabama—2010 Sulfur Dioxide NAAQS (Primary)
Designated area ¹ | Designation: Date ² | Designation: Type
Escambia County |  | Unclassifiable.
Mobile County |  | Unclassifiable.
Morgan County |  | Unclassifiable.
Pike County |  | Unclassifiable.
Shelby County |  | Unclassifiable.
Shelby County (part) ³
2016 US Census Block Groups 011170308001 and 011170308002
Washington County |  | Unclassifiable.
Rest of State:
Autauga County |  | Attainment/Unclassifiable.
Baldwin County |  | Attainment/Unclassifiable.
Barbour County |  | Attainment/Unclassifiable.
Bibb County |  | Attainment/Unclassifiable.
Blount County |  | Attainment/Unclassifiable.
Bullock County |  | Attainment/Unclassifiable.
Butler County |  | Attainment/Unclassifiable.
Calhoun County |  | Attainment/Unclassifiable.
Chambers County |  | Attainment/Unclassifiable.
Cherokee County |  | Attainment/Unclassifiable.
Chilton County |  | Attainment/Unclassifiable.
Choctaw County |  | Attainment/Unclassifiable.
Clarke County |  | Attainment/Unclassifiable.
Clay County |  | Attainment/Unclassifiable.
Cleburne County |  | Attainment/Unclassifiable.
Coffee County |  | Attainment/Unclassifiable.
Colbert County |  | Attainment/Unclassifiable.
Conecuh County |  | Attainment/Unclassifiable.
Coosa County |  | Attainment/Unclassifiable.
Covington County |  | Attainment/Unclassifiable.
Crenshaw County |  | Attainment/Unclassifiable.
Cullman County |  | Attainment/Unclassifiable.
Dale County |  | Attainment/Unclassifiable.
Dallas County |  | Attainment/Unclassifiable.
DeKalb County |  | Attainment/Unclassifiable.
Elmore County |  | Attainment/Unclassifiable.
Etowah County |  | Attainment/Unclassifiable.
Fayette County |  | Attainment/Unclassifiable.
Franklin County |  | Attainment/Unclassifiable.
Geneva County |  | Attainment/Unclassifiable.
Greene County |  | Attainment/Unclassifiable.
Hale County |  | Attainment/Unclassifiable.
Henry County |  | Attainment/Unclassifiable.
Houston County |  | Attainment/Unclassifiable.
Jackson County |  | Attainment/Unclassifiable.
Jefferson County |  | Attainment/Unclassifiable.
Lamar County |  | Attainment/Unclassifiable.
Lauderdale County |  | Attainment/Unclassifiable.
Lawrence County |  | Attainment/Unclassifiable.
Lee County |  | Attainment/Unclassifiable.
Limestone County |  | Attainment/Unclassifiable.
Lowndes County |  | Attainment/Unclassifiable.
Macon County |  | Attainment/Unclassifiable.
Madison County |  | Attainment/Unclassifiable.
Marengo County |  | Attainment/Unclassifiable.
Marion County |  | Attainment/Unclassifiable.
Marshall County |  | Attainment/Unclassifiable.
Monroe County |  | Attainment/Unclassifiable.
Montgomery County |  | Attainment/Unclassifiable.
Perry County |  | Attainment/Unclassifiable.
Pickens County |  | Attainment/Unclassifiable.
Randolph County |  | Attainment/Unclassifiable.
Russell County |  | Attainment/Unclassifiable.
St. Clair County |  | Attainment/Unclassifiable.
Sumter County |  | Attainment/Unclassifiable.
Talladega County |  | Attainment/Unclassifiable.
Tallapoosa County |  | Attainment/Unclassifiable.
Tuscaloosa County |  | Attainment/Unclassifiable.
Walker County |  | Attainment/Unclassifiable.
Wilcox County |  | Attainment/Unclassifiable.
Winston County |  | Attainment/Unclassifiable.
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is April 9, 2018, unless otherwise noted.
³ The remainder of Shelby County will be designated by December 31, 2020.

* * * * *

3. Section 81.302 is amended by adding a table titled “Alaska—2010 Sulfur Dioxide NAAQS (Primary)” following the table titled “Alaska—1971 Sulfur Dioxide NAAQS (Primary and Secondary)” to read as follows:

§ 81.302 Alaska.

* * * * *

Alaska—2010 Sulfur Dioxide NAAQS (Primary)
Designated area ¹ | Designation: Date ² | Designation: Type
Entire State |  | Attainment/Unclassifiable.
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is April 9, 2018, unless otherwise noted.

* * * * *

4. Section 81.303 is amended by revising the table entitled “Arizona—2010 Sulfur Dioxide NAAQS (Primary)” to read as follows:

§ 81.303 Arizona.

* * * * *

Arizona—2010 Sulfur Dioxide NAAQS (Primary)
Designated area ¹ | Designation: Date ² | Designation: Type
Hayden, AZ ³ | 10-4-13 | Nonattainment.
Gila County (part)
The portions of Gila County that are bounded by: T4S, R14E; T4S, R15E; T4S, R16E; T5S, R15E; T5S, R16E
Pinal County (part)
The portions of Pinal County that are bounded by: T4S, R14E; T4S, R15E; T4S, R16E; T5S, R14E; T5S, R15E; T5S, R16E; T6S, R14E; T6S, R15E; T6S, R16E
Miami, AZ ³ | 10-4-13 | Nonattainment.
Gila County (part)
The portions of Gila County that are bounded by: T2N, R14E; T2N, R15E; T1N, R13E; T1N, R14E; T1N, R15E; T1S, R14E; T1S, R14 1/2E; T1S, R15E
Coconino County (part) |  | Unclassifiable.
The portions of Coconino County located within the Navajo Nation areas of Indian country within a 50-km radius of the Navajo Generating Station at the coordinates 39.904006 decimal degrees latitude and −111.389435 decimal degrees longitude, using the 1984 World Geodetic Survey datum.
Rest of State:
Apache County (part) ⁴ |  | Attainment/Unclassifiable.
Cochise County |  | Attainment/Unclassifiable.
Coconino County (part) ⁵ |  | Attainment/Unclassifiable.
Gila County (part) ⁶ |  | Attainment/Unclassifiable.
Graham County |  | Attainment/Unclassifiable.
Greenlee County |  | Attainment/Unclassifiable.
Lands of the Hopi Tribe |  | Attainment/Unclassifiable.
La Paz County |  | Attainment/Unclassifiable.
Maricopa County |  | Attainment/Unclassifiable.
Mohave County |  | Attainment/Unclassifiable.
Navajo County (part) ⁷ |  | Attainment/Unclassifiable.
Lands of the Navajo Nation (part) ⁸ |  | Attainment/Unclassifiable.
Pima County |  | Attainment/Unclassifiable.
Pinal County (part) ⁹ |  | Attainment/Unclassifiable.
Santa Cruz County |  | Attainment/Unclassifiable.
Yavapai County |  | Attainment/Unclassifiable.
Yuma County |  | Attainment/Unclassifiable.
¹ Includes Indian country in each county or area, unless otherwise specified. EPA is not determining the boundaries of any area of Indian country in this table, including any area of Indian country located in the larger designation area. The inclusion of any Indian country in the designation area is not a determination that the state has regulatory authority under the Clean Air Act for such Indian country.
² This date is April 9, 2018, unless otherwise noted.
³ Excludes Indian country located in each area, if any, unless otherwise specified.
⁴ Excludes lands of the White Mountain Apache Tribe.
⁵ Excludes lands of the Hopi Tribe and lands of the Navajo Nation.
⁶ Excludes the lands of the White Mountain Apache Tribe and the Hayden, AZ and Miami, AZ Nonattainment areas.
⁷ Includes all lands of the White Mountain Apache Tribe, including those lands of the White Mountain Apache Tribe geographically located in Apache County and Gila County, and excludes lands of the Hopi Tribe and lands of the Navajo Nation.
⁸ Includes all lands of the Navajo Nation except for the portions of the Navajo Nation lands designated Unclassifiable. Includes the lands of the Navajo Nation geographically located within the states of New Mexico and Utah.
⁹ Excludes the Hayden, AZ Nonattainment area.

* * * * *

5. Section 81.304 is amended by revising the table entitled “Arkansas—2010 Sulfur Dioxide NAAQS (Primary)” to read as follows:

§ 81.304 Arkansas.

* * * * *

Arkansas—2010 Sulfur Dioxide NAAQS (Primary)
Designated area ¹ | Designation: Date ² | Designation: Type
Independence County | 9/12/16 | Unclassifiable.
Arkansas County |  | Attainment/Unclassifiable.
Ashley County |  | Attainment/Unclassifiable.
Baxter County |  | Attainment/Unclassifiable.
Benton County |  | Attainment/Unclassifiable.
Boone County |  | Attainment/Unclassifiable.
Bradley County |  | Attainment/Unclassifiable.
Calhoun County |  | Attainment/Unclassifiable.
Carroll County |  | Attainment/Unclassifiable.
Chicot County |  | Attainment/Unclassifiable.
Clark County |  | Attainment/Unclassifiable.
Clay County |  | Attainment/Unclassifiable.
Cleburne County |  | Attainment/Unclassifiable.
Cleveland County |  | Attainment/Unclassifiable.
Columbia County |  | Attainment/Unclassifiable.
Conway County |  | Attainment/Unclassifiable.
Craighead County |  | Attainment/Unclassifiable.
Crawford County |  | Attainment/Unclassifiable.
Crittenden County |  | Attainment/Unclassifiable.
Cross County |  | Attainment/Unclassifiable.
Dallas County |  | Attainment/Unclassifiable.
Desha County |  | Attainment/Unclassifiable.
Drew County |  | Attainment/Unclassifiable.
Faulkner County |  | Attainment/Unclassifiable.
Franklin County |  | Attainment/Unclassifiable.
Fulton County |  | Attainment/Unclassifiable.
Garland County |  | Attainment/Unclassifiable.
Grant County |  | Attainment/Unclassifiable.
Greene County |  | Attainment/Unclassifiable.
Hempstead County |  | Attainment/Unclassifiable.
Hot Spring County |  | Attainment/Unclassifiable.
Howard County |  | Attainment/Unclassifiable.
Izard County |  | Attainment/Unclassifiable.
Jackson County |  | Attainment/Unclassifiable.
Jefferson County | 9/12/16 | Attainment/Unclassifiable.
Johnson County |  | Attainment/Unclassifiable.
Lafayette County |  | Attainment/Unclassifiable.
Lawrence County |  | Attainment/Unclassifiable.
Lee County |  | Attainment/Unclassifiable.
Lincoln County |  | Attainment/Unclassifiable.
Little River County |  | Attainment/Unclassifiable.
Logan County |  | Attainment/Unclassifiable.
Lonoke County |  | Attainment/Unclassifiable.
Madison County |  | Attainment/Unclassifiable.
Marion County |  | Attainment/Unclassifiable.
Miller County |  | Attainment/Unclassifiable.
Mississippi County |  | Attainment/Unclassifiable.
Monroe County |  | Attainment/Unclassifiable.
Montgomery County |  | Attainment/Unclassifiable.
Nevada County |  | Attainment/Unclassifiable.
Newton County |  | Attainment/Unclassifiable.
Ouachita County |  | Attainment/Unclassifiable.
Perry County |  | Attainment/Unclassifiable.
Phillips County |  | Attainment/Unclassifiable.
Pike County |  | Attainment/Unclassifiable.
Poinsett County |  | Attainment/Unclassifiable.
Polk County |  | Attainment/Unclassifiable.
Pope County |  | Attainment/Unclassifiable.
Prairie County |  | Attainment/Unclassifiable.
Pulaski County |  | Attainment/Unclassifiable.
Randolph County |  | Attainment/Unclassifiable.
St. Francis County |  | Attainment/Unclassifiable.
Saline County |  | Attainment/Unclassifiable.
Scott County |  | Attainment/Unclassifiable.
Searcy County |  | Attainment/Unclassifiable.
Sebastian County |  | Attainment/Unclassifiable.
Sevier County |  | Attainment/Unclassifiable.
Sharp County |  | Attainment/Unclassifiable.
Stone County |  | Attainment/Unclassifiable.
Union County |  | Attainment/Unclassifiable.
Van Buren County |  | Attainment/Unclassifiable.
Washington County |  | Attainment/Unclassifiable.
White County |  | Attainment/Unclassifiable.
Woodruff County |  | Attainment/Unclassifiable.
Yell County |  | Attainment/Unclassifiable.
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is April 9, 2018, unless otherwise noted.

* * * * *

6. Section 81.305 is amended by adding a table titled “California—2010 Sulfur Dioxide NAAQS (Primary)” following the table “California—1971 Sulfur Dioxide NAAQS (Primary and Secondary)” to read as follows:

§ 81.305 California.

* * * * *

California—2010 Sulfur Dioxide NAAQS (Primary)
Designated area ¹ | Designation: Date ² | Designation: Type
Great Basin Valleys Air Basin |  | Attainment/Unclassifiable.
Alpine County
Inyo County
Mono County
Lake County Air Basin |  | Attainment/Unclassifiable.
Lake County
Lake Tahoe Air Basin |  | Attainment/Unclassifiable.
El Dorado County (part)
That portion of El Dorado County within the drainage area naturally tributary to Lake Tahoe including said Lake
Placer County (part)
That portion of Placer County within the drainage area naturally tributary to Lake Tahoe including said Lake, plus that area in the vicinity of the head of the Truckee River described as follows: Commencing at the point common to the aforementioned drainage area crestline and the line common to Townships 15 North and 16 North, M.D.B. & M., and following that line in a westerly direction to the northwest corner of Section 3, Township 15 North, Range 16 East, M.D.B. & M., thence south along the west line of Sections 3 and 10, Township 15 North, Range 16 East, M.D.B. & M., to the intersection with the said drainage area crestline, thence following the said drainage area boundary in a southeasterly direction, then northeasterly direction to and along the Lake Tahoe Dam, thence following the said drainage area crestline in a northeasterly, then northwesterly direction to the point of beginning
Mojave Desert Air Basin |  | Attainment/Unclassifiable.
Kern County (part)
That portion of Kern County east and south of a line described as follows: Beginning at the Kern-Los Angeles County boundary and running north and east along the northwest boundary of the Rancho La Libre Land Grant to the point of intersection with the range line common to R. 16 W. and R. 17 W., San Bernardino Base and Meridian; north along the range line to the point of intersection with the Rancho El Tejon Land Grant boundary; then southeast, northeast, and northwest along the boundary of the Rancho El Tejon Land Grantto the northwest corner of S. 3, T. 11 N., R. 17 W.; then west 1.2 miles; then north to the Rancho El Tejon Land Grant boundary; then northwest along the Rancho El Tejon line to the southeast corner of S. 34, T. 32 S., R. 30 E., Mount Diablo Base and Meridian; then north to the northwest corner of S. 35, T. 31 S., R. 30 E.; then northeast along the boundary of the Rancho El Tejon Land Grantto the southwest corner of S. 18, T. 31 S., R. 31 E.; then east to the southeast corner of S. 13, T. 31 S., R. 31 E.; then north along the range line common to R. 31 E. and R. 32 E., Mount Diablo Base and Meridian, to the northwest corner of S. 6, T. 29 S., R. 32 E.; then east to the southwest corner of S. 31 T. 28 S., R. 32E.; then north along the range line common to R. 31 E. and R. 32 E. to the northwest corner of S. 6, T. 28 S., R. 32 E., then west to the southeast corner of S. 36, T. 27 S., R. 31 E., then north along the range line common to R. 31 E. and R. 32 E. to the Kern-Tulare County boundary
Los Angeles County (part)
That portion of Los Angeles County which lies north and east of a line described as follows: Beginning at the Los Angeles-San Bernardino County boundary and running west along the township line common to T. 3 N and T. 2 N, San Bernardino Base and Meridian; then north along the range line common to R. 8 W and R. 9 W; then west along the township line common to T. 4 N and T. 3 N; then north along the range line common to R. 12 W and R. 13 W to the southeast corner of Section 12, T. 5 N, R. 13 W; then west along the south boundaries of Sections 12, 11, 10, 9, 8, 7, T. 5 N, R. 13 W to the boundary of the Angeles National Forest which is collinear with the range line common to R. 13 W and R. 14 W; then north and west along the Angeles National Forest boundary to the point of intersection with the township line common to T. 7 N and T. 6 N (point is at the northwest corner of Section 4 in T. 6 N, R. 14 W); then west along the township line common to T. 7 N and T. 6 N; then north along the range line common to R. 15 W and R. 16 W to the southeast corner of Section 13, T. 7 N, R. 16 W; then along the south boundaries of Sections 13, 14, 15, 16, 17, 18, T. 7 N, R. 16 W; then north along the range line common to R. 16 W and R. 17 W to the north boundary of the Angeles National Forest (collinear with township line common to T. 8 N and T. 7 N) then west and north along the Angeles National Forest boundary to the point of intersection with the south boundary of the Rancho La Liebre Land Grant; then west and north along this land grant boundary to the Los Angeles-Kern County boundary
Riverside County (part)
That portion of Riverside County which lies east of a line described as follows: That segment of the southwestern boundary line of Hydrologic Unit Number 18100100 within Riverside County, further described as follows: Beginning at the Riverside-Imperial County boundary and running north along the range line common to R. 17 E. and R. 16 E., San Bernardino Base and Meridian; then northwest along the ridge line of the Chuckwalla Mountains, through T. 8 S., R. 16 E. and T. 7 S., R. 16 E., until the Black Butte Mountain, elev. 4504′; then west and northwest along the ridge line to the southwest corner of T. 5 S., R. 14 E.; then north along the range line common to R. 14 E. and R. 13 E.; then west and northwest along the ridge line to Monument Mountain, elev. 4834′; then southwest and then northwest along the ridge line of the Little San Bernardino Mountains to Quail Mountain, elev. 5814′; then northwest along the ridge line to the Riverside-San Bernardino County line
San Bernardino County (part)
That portion of San Bernardino County east and north of a line described as follows: Beginning at the San Bernardino-Riverside County boundary and running north along the range line common to R. 3 E and R. 2 E, San Bernardino Base and Meridian; then west along the township line common to T. 3 N and T. 2 N to the San Bernardino-Los Angeles County boundary
Mountain Counties Air Basin |  | Attainment/Unclassifiable.
Amador County
Calaveras County
El Dorado County (part)
All of El Dorado County except that portion included in the Lake Tahoe Air Basin
Mariposa County
Nevada County
Placer County (part)
All of Placer County except that portion included in the Lake Tahoe Air Basin and that portion included in the Sacramento Valley Air Basin
Plumas County
Sierra County
Tuolumne County
North Central Air Basin |  | Attainment/Unclassifiable.
Monterey County
San Benito County
Santa Cruz County
North Coast Air Basin |  | Attainment/Unclassifiable.
Del Norte County
Humboldt County
Mendocino County
Sonoma County (part)
That portion of Sonoma County which lies north and west of a line described as follows: Beginning at the southeasterly corner of the Rancho Estero Americano, being on the boundary line between Marin and Sonoma Counties, California; thence running northerly along the easterly boundary line of said Rancho Estero Americano to the northeasterly corner thereof, being an angle corner in the westerly boundary line of Rancho Canada de Jonive; thence running along said boundary of Rancho Canada de Jonive westerly, northerly and easterly to its intersection with the easterly line of Graton Road; thence running along the easterly and southerly line of Graton Road, northerly and easterly to its intersection with the easterly line of Sullivan Road; thence running northerly along said easterly line of Sullivan Road to the southerly line of Green Valley Road; thence running easterly along the said southerly line of Green Valley Road and easterly along the southerly line of State Highway 116, to the westerly line of Vine Hill Road; thence running along the westerly and northerly line of Vine Hill Road, northerly and easterly to its intersection with the westerly line of Laguna Road; thence running northerly along the westerly line of Laguna Road and the northerly projection thereof to the northerly line of Trenton Road; thence running westerly along the northerly line of said Trenton Road to the easterly line of Trenton-Healdsburg Road; thence running northerly along said easterly line of Trenton-Healdsburg Road to the easterly line of Eastside Road; thence running northerly along said easterly line of Eastside Road to its intersection with the southerly line of Rancho Sotoyome; thence running easterly along said southerly line of Rancho Sotoyome to its intersection with the Township line common to Townships 8 and 9 North, M.D.M.; thence running easterly along said township line to its intersection with the boundary line between Sonoma and Napa Counties, State of California
Trinity County
Northeast Plateau Air Basin |  | Attainment/Unclassifiable.
Lassen County
Modoc County
Siskiyou County
Sacramento Valley Air Basin |  | Attainment/Unclassifiable.
Butte County
Colusa County
Glenn County
Placer County (part)
That portion of Placer County which lies west of Range 9 east, M.D.B. & M
Sacramento County
Shasta County
Solano County (part)
That portion of Solano County which lies north and east of a line described as follows: Beginning at the intersection of the westerly boundary of Solano County and the 1/4 section line running east and west through the center of Section 34, T6N, R2W, M.D.B. & M., thence east along said 1/4 section line to the east boundary of Section 36, T6N, R2W, thence south 1/2 mile and east 2.0 miles, more or less, along the west and south boundary of Los Putos Rancho to the northwest corner of Section 4, T5N, R1W, thence east along a line common to T5N and T6N to the northeast corner of Section 3, T5N, R1E, thence south along section lines to the southeast corner of Section 10, T3N, R1E, thence east along section lines to the south 1/4 corner of Section 8, T3N, R2E, thence east to the boundary between Solano and Sacramento Counties
Sutter County
Tehama County
Yolo County
Yuba County
Salton Sea Air Basin |  | Attainment/Unclassifiable.
Imperial County
Riverside County (part)
That portion of Riverside County which lies east of a line described as follows: Beginning at the Riverside-San Diego County boundary and running north along the range line common to R. 4 E and R. 3 E; then east along the township line common to T. 8 S and T. 7 S; then north along the range line common to R. 5 E and R. 4 E; then west along the township line common to T. 6 S and T. 7 S to the southwest corner of Section 34, T. 6 S, R. 4 E; then north along the west boundaries of Sections 34, 27, 22, 15, 10, 3, T. 6 S, R. 4 E; then west along the township line common to T. 5 S and T. 6 S; then north along the range line common to R. 4 E and R. 3 E; then west along the south boundaries of Sections 13, 14, 15, 16, 17 and 18, T. 5 S. R. 3 E; then north along the range line common to R. 2 E and R. 3 E to the Riverside-San Bernardino County line; and west of a line described as follows: That segment of the southwestern boundary line of Hydrologic Unit Number 18100100 within Riverside County, further described as follows: Beginning at the Riverside-Imperial County boundary and running north along the range line common to R. 17 E. and R. 16 E., San Bernardino Base and Meridian; then northwest along the ridge line of the Chuckwalla Mountains, through T. 8 S., R. 16 E. and T. 7 S., R. 16 E., until the Black Butte Mountain, elev. 4504′; then west and northwest along the ridge line to the southwest corner of T. 5 S., R. 14 E.; then north along the range line common to R. 14 E. and R. 13 E.; then west and northwest along the ridge line to Monument Mountain, elev. 4834′; then southwest and then northwest along the ridge line of the Little San Bernardino Mountains to Quail Mountain, elev. 5814′; then northwest along the ridge line to the Riverside-San Bernardino County line
San Diego Air Basin |  | Attainment/Unclassifiable.
San Diego County
San Francisco Bay Area Air Basin |  | Attainment/Unclassifiable.
Alameda County
Contra Costa County
Marin County
Napa County
San Francisco County
San Mateo County
Santa Clara County
Solano County (part)
That portion of Solano County which lies south and west of a line described as follows: Beginning at the intersection of the westerly boundary of Solano County and the 1/4 section line running east and west through the center of Section 34, T6N, R2W, M.D.B. & M., thence east along said 1/4 section line to the east boundary of Section 36, T6N, R2W, thence south 1/2 mile and east 2.0 miles, more or less, along the west and south boundary of Los Putos Rancho to the northwest corner of Section 4, T5N, R1W, thence east along a line common to T5N and T6N to the northeast corner of Section 3, T5N, R1E, thence south along section lines to the southeast corner of Section 10, T3N, R1E, thence east along section lines to the south 1/4 corner of Section 8, T3N, R2E, thence east to the boundary between Solano and Sacramento Counties
Sonoma County (part)
That portion of Sonoma County which lies south and east of a line described as follows: Beginning at the southeasterly corner of the Rancho Estero Americano, being on the boundary line between Marin and Sonoma Counties, California; thence running northerly along the easterly boundary line of said Rancho Estero Americano to the northeasterly corner thereof, being an angle corner in the westerly boundary line of Rancho Canada de Jonive; thence running along said boundary of Rancho Canada de Jonive westerly, northerly and easterly to its intersection with the easterly line of Graton Road; thence running along the easterly and southerly line of Graton Road, northerly and easterly to its intersection with the easterly line of Sullivan Road; thence running northerly along said easterly line of Sullivan Road to the southerly line of Green Valley Road; thence running easterly along the said southerly line of Green Valley Road and easterly along the southerly line of State Highway 116, to the westerly line of Vine Hill Road; thence running along the westerly and northerly line of Vine Hill Road, northerly and easterly to its intersection with the westerly line of Laguna Road; thence running northerly along the westerly line of Laguna Road and the northerly projection thereof to the northerly line of Trenton Road; thence running westerly along the northerly line of said Trenton Road to the easterly line of Trenton-Healdsburg Road; thence running northerly along said easterly line of Trenton-Healdsburg Road to the easterly line of Eastside Road; thence running northerly along said easterly line of Eastside Road to its intersection with the southerly line of Rancho Sotoyome; thence running easterly along said southerly line of Rancho Sotoyome to its intersection with the Township line common to Townships 8 and 9 North, M.D.M.; thence running easterly along said township line to its intersection with the boundary line between Sonoma and Napa Counties, State of California
San Joaquin Valley Air Basin |  | Attainment/Unclassifiable.
Fresno County
Kern County (part)
That portion of Kern County which lies west and north of a line described as follows: Beginning at the Kern-Los Angeles County boundary and running north and east along the northwest boundary of the Rancho La Libre Land Grant to the point of intersection with the range line common to R. 16 W. and R. 17 W., San Bernardino Base and Meridian; north along the range line to the point of intersection with the Rancho El Tejon Land Grant boundary; then southeast, northeast, and northwest along the boundary of the Rancho El Tejon Land Grant to the northwest corner of S. 3, T. 11 N., R. 17 W.; then west 1.2 miles; then north to the Rancho El Tejon Land Grant boundary; then northwest along the Rancho El Tejon line to the southeast corner of S. 34, T. 32 S., R. 30 E., Mount Diablo Base and Meridian; then north to the northwest corner of S. 35, T. 31 S., R. 30 E.; then northeast along the boundary of the Rancho El Tejon Land Grant to the southwest corner of S. 18, T. 31 S., R. 31 E.; then east to the southeast corner of S. 13, T. 31 S., R. 31 E.; then north along the range line common to R. 31 E. and R. 32 E., Mount Diablo Base and Meridian, to the northwest corner of S. 6, T. 29 S., R. 32 E.; then east to the southwest corner of S. 31, T. 28 S., R. 32 E.; then north along the range line common to R. 31 E. and R. 32 E. to the northwest corner of S. 6, T. 28 S., R. 32 E., then west to the southeast corner of S. 36, T. 27 S., R. 31 E., then north along the range line common to R. 31 E. and R. 32 E. to the Kern-Tulare County boundary
Kings County
Madera County
Merced County
San Joaquin County
Stanislaus County
Tulare County
South Central Air Basin |  | Attainment/Unclassifiable.
San Luis Obispo County
Santa Barbara County
Ventura County
South Coast Air Basin |  | Attainment/Unclassifiable.
Los Angeles County (part)
That portion of Los Angeles County which lies south and west of a line described as follows: Beginning at the Los Angeles-San Bernardino County boundary and running west along the township line common to T.3 N and T.2 N, San Bernardino Base and Meridian; then north along the range line common to R.8 W and R.9 W; then west along the township line common to T.4 N and T.3 N; then north along the range line common to R.12 W and R.13 W to the southeast corner of Section 12, T.5 N, R. 13 W; then west along the south boundaries of Sections 12, 11, 10, 9, 8, 7, T.5 N, R. 13 W to the boundary of the Angeles National Forest which is collinear with the range line common to R. 13 W and R. 14 W; then north and west along the Angeles National Forest boundary to the point of intersection with the township line common to T.7 N and T. 6 N (point is at the northwest corner of Section 4 in T.6 N, R. 14 W); then west along the township line common to T.7 N and T.6 N; then north along the range line common to R. 15 W and R. 16 W to the southeast corner of Section 13, T.7 N, R. 16 W; then along the south boundaries of Sections 13, 14, 15, 16, 17, 18, T.7 N, R. 16 W; then north along the range line common to R.16 W and R. 17 W to the north boundary of the Angeles National Forest (collinear with township line common to T.8 N and T.7 N); then west and north along the Angeles National Forest boundary to the point of intersection with the south boundary of the Rancho La Liebre Land Grant; then west and north along this land grant boundary to the Los Angeles-Kern County boundary
Orange County
Riverside County (part)
That portion of Riverside County which lies west of a line described as follows: Beginning at the Riverside-San Diego County boundary and running north along the range line common to R. 4 E and R. 3 E; then east along the township line common to T. 8 S and T. 7 S; then north along the range line common to R. 5 E and R. 4 E; then west along the township line common to T. 6 S and T. 7 S to the southwest corner of Section 34, T. 6 S, R. 4 E; then north along the west boundaries of Sections 34, 27, 22, 15, 10, 3, T. 6 S, R. 4 E; then west along the township line common to T. 5 S and T. 6 S; then north along the range line common to R. 4 E and R. 3 E; then west along the south boundaries of Sections 13, 14, 15, 16, 17 and 18, T. 5 S. R. 3 E; then north along the range line common to R. 2 E and R. 3 E to the Riverside-San Bernardino County line
San Bernardino County (part)
That portion of San Bernardino County west and south of a line described as follows: Beginning at the San Bernardino-Riverside County boundary and running north along the range line common to R. 3 E and R. 2 E; then west along the township line common to T. 3 N and T. 2 N to the San Bernardino-Los Angeles County boundary
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is April 9, 2018, unless otherwise noted.

* * * * *

7. Section 81.306 is amended by revising the table entitled “Colorado—2010 Sulfur Dioxide NAAQS (Primary)” to read as follows:

§ 81.306 Colorado.

* * * * *

Colorado—2010 Sulfur Dioxide NAAQS (Primary)
Designated area ¹ | Designation: Date ³ | Designation: Type
Colorado Springs, CO | 9/12/16 | Unclassifiable.
El Paso County (part)
Manitou Springs
Colorado Springs (and certain unincorporated areas) as follows; Areas east of the western city limits of Colorado Springs, north of the southern city limits of Colorado Springs with the addition of the area termed “Stratmoor” bounded on the south by South Academy Boulevard, west of Powers Blvd, and south of East Woodman Blvd (east of Academy Blvd. N) and the northern city limits of Colorado Springs (west of Academy Blvd. N).
Eastern Morgan County, CO | 9/12/16 | Unclassifiable.
Morgan County (part)
Circle with a 12-kilometer radius centered on the Pawnee Power Plant
State AQCR 01 (remainder) |  | Attainment/Unclassifiable.
Logan County
Morgan County (part) (remainder)
Phillips County
Sedgwick County
Washington County
Yuma County
State AQCR 02 |  | Attainment/Unclassifiable.
Larimer County
Weld County
State AQCR 03 |  | Attainment/Unclassifiable.
Adams County
Arapahoe County
Boulder County
Broomfield County
Clear Creek County
Denver County
Douglas County
Gilpin County
Jefferson County
State AQCR 04 (remainder) |  | Attainment/Unclassifiable.
El Paso County (part) (remainder)
Park County
Teller County
State AQCR 05 |  | Attainment/Unclassifiable.
Cheyenne County
Elbert County
Kit Carson County
Lincoln County
State AQCR 06 |  | Attainment/Unclassifiable.
Baca County
Bent County
Crowley County
Kiowa County
Otero County
Prowers County
State AQCR 07 |  | Attainment/Unclassifiable.
Huerfano
Las Animas
Pueblo
State AQCR 08 |  | Attainment/Unclassifiable.
Alamosa County
Conejos County
Costilla County
Mineral County
Rio Grande County
Saguache County
State AQCR 09 |  | Attainment/Unclassifiable.
Archuleta County ²
Dolores
La Plata ²
Montezuma ²
San Juan
State AQCR 10 |  | Attainment/Unclassifiable.
Delta County
Gunnison County
Hinsdale County
Montrose County
Ouray County
San Miguel County
State AQCR 11 |  | Attainment/Unclassifiable.
Garfield County
Mesa County
Moffat County
Rio Blanco County
State AQCR 12 |  | Attainment/Unclassifiable.
Eagle County
Grand County
Jackson County
Pitkin County
Routt County
Summit County
State AQCR 13 |  | Attainment/Unclassifiable.
Chaffee County
Custer County
Fremont County
Lake County
Southern Ute Indian Reservation |  | Attainment/Unclassifiable.
¹ Includes any Indian country in each county or area, unless otherwise specified. EPA is not determining the boundaries of any area of Indian country in this table, including any area of Indian country located in the larger designation area. The inclusion of any Indian country in the designation area is not a determination that the state has regulatory authority under the Clean Air Act for such Indian country.
² Does not include the Southern Ute Indian Reservation, which is being designated separately.
³ This date is April 9, 2018, unless otherwise noted.

* * * * *

8. Section 81.307 is amended by adding a table entitled “Connecticut—2010 Sulfur Dioxide NAAQS (Primary)” following the table “Connecticut—1971 Sulfur Dioxide NAAQS (Primary and Secondary)” to read as follows:

§ 81.307 Connecticut.

* * * * *

Connecticut—2010 Sulfur Dioxide NAAQS (Primary)
Designated area ¹ | Designation: Date ² | Designation: Type
State of Connecticut |  | Attainment/Unclassifiable.
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is April 9, 2018, unless otherwise noted.

* * * * *

9. Section 81.308 is amended by adding a new table entitled “Delaware—2010 Sulfur Dioxide NAAQS (Primary)” following the table “Delaware—1971 Sulfur Dioxide NAAQS (Primary and Secondary)” to read as follows:

§ 81.308 Delaware.

* * * * *

Delaware—2010 Sulfur Dioxide NAAQS (Primary)
Designated area ¹ | Designation: Date ² | Designation: Type
Entire State |  | Attainment/Unclassifiable.
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is April 9, 2018, unless otherwise noted.

* * * * *

10. Section 81.309 is amended by adding a table titled “District of Columbia—2010 Sulfur Dioxide NAAQS (Primary)” following the table titled “District of Columbia—1971 Sulfur Dioxide NAAQS (Primary and Secondary)” to read as follows:

§ 81.309 District of Columbia.

* * * * *

District of Columbia—2010 Sulfur Dioxide NAAQS (Primary)
Designated area ¹ | Designation: Date ² | Designation: Type
District of Columbia |  | Attainment/Unclassifiable.
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is April 9, 2018, unless otherwise noted.

* * * * *

11. Section 81.310 is amended by revising the table entitled “Florida—2010 Sulfur Dioxide NAAQS (Primary)” to read as follows:

§ 81.310 Florida.

* * * * *

Florida—2010 Sulfur Dioxide NAAQS (Primary)
Designated area | Designation: Date ¹ | Designation: Type
Hillsborough County, FL ² | 10/4/13 | Nonattainment.
Hillsborough County (part)
That portion of Hillsborough County encompassed by the polygon with the vertices using Universal Traverse Mercator (UTM) coordinates in UTM zone 17 with datum NAD83 as follows: (1) Vertices-UTM Easting (m) 358581, UTM Northing 3076066; (2) vertices-UTM Easting (m) 355673, UTM Northing 3079275; (3) UTM Easting (m) 360300, UTM Northing 3086380; (4) vertices-UTM Easting (m) 366850, UTM Northing 3086692; (5) vertices-UTM Easting (m) 368364, UTM Northing 3083760; and (6) vertices-UTM Easting (m) 365708, UTM Northing 3079121
Hillsborough—Polk County, FL ³ |  | Nonattainment.
Hillsborough County (part)
Polk County (part)
That portion of Hillsborough and Polk Counties encompassed by the polygon with the vertices using Universal Traverse Mercator (UTM) coordinates in UTM zone 17 with datum NAD83 as follows: 390,500 E, 3,073,500 N; 390,500 E, 3,083,500 N; 400,500 E, 3,083,500 N; 400,500 E, 3,073,500 N
Nassau County, FL ² | 10/4/13 | Nonattainment.
Nassau County (part)
That portion of Nassau County encompassing the circular boundary with the center being UTM Easting 455530 meters, UTM Northing 3391737 meters, UTM zone 17, using the NAD83 datum (the location of the violating ambient monitor) and the radius being 2.4 kilometers
Citrus County, FL ³ |  | Unclassifiable.
Citrus County (part)
Census Block Groups 4504004 and 4505002
Mulberry, FL Area ³ |  | Unclassifiable.
Hillsborough County (part)
Polk County (part)
That portion of Hillsborough and Polk Counties encompassed by the polygon with the vertices using Universal Traverse Mercator (UTM) coordinates in UTM zone 17 with datum NAD83 starting with the Northwest Corner and proceeding to the Northeast as follows: 390,500 E, 3,083,500 N; 410,700 E, 3,091,600 N; 412,900 E, 3,089,800 N; 412,900 E, 3,084,600 N; 400,500 E, 3,073,500 N; 400,500 E, 3,083,500 N
Rest of State: ³
Alachua County |  | Attainment/Unclassifiable.
Baker County |  | Attainment/Unclassifiable.
Bay County |  | Attainment/Unclassifiable.
Bradford County |  | Attainment/Unclassifiable.
Brevard County |  | Attainment/Unclassifiable.
Broward County |  | Attainment/Unclassifiable.
Calhoun County |  | Attainment/Unclassifiable.
Charlotte County |  | Attainment/Unclassifiable.
Citrus County (part) (remainder) |  | Attainment/Unclassifiable.
Clay County |  | Attainment/Unclassifiable.
Collier County |  | Attainment/Unclassifiable.
Columbia County |  | Attainment/Unclassifiable.
DeSoto County |  | Attainment/Unclassifiable.
Dixie County |  | Attainment/Unclassifiable.
Duval County |  | Attainment/Unclassifiable.
Escambia County |  | Attainment/Unclassifiable.
Flagler County |  | Attainment/Unclassifiable.
Franklin County |  | Attainment/Unclassifiable.
Gadsden County |  | Attainment/Unclassifiable.
Gilchrist County |  | Attainment/Unclassifiable.
Glades County |  | Attainment/Unclassifiable.
Gulf County |  | Attainment/Unclassifiable.
Hamilton County |  | Attainment/Unclassifiable.
Hardee County |  | Attainment/Unclassifiable.
Hendry County |  | Attainment/Unclassifiable.
Hernando County |  | Attainment/Unclassifiable.
Highlands County |  | Attainment/Unclassifiable.
Hillsborough County (part) (remainder) |  | Attainment/Unclassifiable.
Holmes County |  | Attainment/Unclassifiable.
Indian River County |  | Attainment/Unclassifiable.
Jackson County |  | Attainment/Unclassifiable.
Jefferson County |  | Attainment/Unclassifiable.
Lafayette County |  | Attainment/Unclassifiable.
Lake County |  | Attainment/Unclassifiable.
Lee County |  | Attainment/Unclassifiable.
Leon County |  | Attainment/Unclassifiable.
Levy County |  | Attainment/Unclassifiable.
Liberty County |  | Attainment/Unclassifiable.
Madison County |  | Attainment/Unclassifiable.
Manatee County |  | Attainment/Unclassifiable.
Marion County |  | Attainment/Unclassifiable.
Martin County |  | Attainment/Unclassifiable.
Miami-Dade County |  | Attainment/Unclassifiable.
Monroe County |  | Attainment/Unclassifiable.
Nassau County (part) (remainder) |  | Attainment/Unclassifiable.
Okaloosa County |  | Attainment/Unclassifiable.
Okeechobee County |  | Attainment/Unclassifiable.
Orange County |  | Attainment/Unclassifiable.
Osceola County |  | Attainment/Unclassifiable.
Palm Beach County |  | Attainment/Unclassifiable.
Pasco County |  | Attainment/Unclassifiable.
Pinellas County |  | Attainment/Unclassifiable.
Polk County (part) (remainder) |  | Attainment/Unclassifiable.
Putnam County |  | Attainment/Unclassifiable.
St. Johns County |  | Attainment/Unclassifiable.
St. Lucie County |  | Attainment/Unclassifiable.
Santa Rosa County |  | Attainment/Unclassifiable.
Sarasota County |  | Attainment/Unclassifiable.
Seminole County |  | Attainment/Unclassifiable.
Sumter County |  | Attainment/Unclassifiable.
Suwannee County |  | Attainment/Unclassifiable.
Taylor County |  | Attainment/Unclassifiable.
Union County |  | Attainment/Unclassifiable.
Volusia County |  | Attainment/Unclassifiable.
Wakulla County |  | Attainment/Unclassifiable.
Walton County |  | Attainment/Unclassifiable.
Washington County |  | Attainment/Unclassifiable.
¹ This date is April 9, 2018, unless otherwise noted.
² Excludes Indian country located in each area, if any, unless otherwise specified.
³ Includes any Indian country in each county or area, unless otherwise specified. EPA is not determining the boundaries of any area of Indian country in this table, including any area of Indian country located in the larger designation area. The inclusion of any Indian country in the designation area is not a determination that the state has regulatory authority under the Clean Air Act for such Indian country.

* * * * *

12. Section 81.311 is amended by revising the table entitled “Georgia—2010 Sulfur Dioxide NAAQS (Primary)” to read as follows:

§ 81.311 Georgia.

* * * * *

Georgia—2010 Sulfur Dioxide NAAQS (Primary)
Designated area ¹ ³ | Designation: Date ² | Designation: Type
Juliette, GA | 9/12/16 | Attainment/Unclassifiable.
Butts County
Crawford County
Jasper County
Jones County
Lamar County
Monroe County
Upson County
Rest of State: ³
Appling County |  | Attainment/Unclassifiable.
Atkinson County |  | Attainment/Unclassifiable.
Bacon County |  | Attainment/Unclassifiable.
Baker County |  | Attainment/Unclassifiable.
Baldwin County |  | Attainment/Unclassifiable.
Banks County |  | Attainment/Unclassifiable.
Barrow County |  | Attainment/Unclassifiable.
Bartow County |  | Attainment/Unclassifiable.
Ben Hill County |  | Attainment/Unclassifiable.
Berrien County |  | Attainment/Unclassifiable.
Bibb County |  | Attainment/Unclassifiable.
Bleckley County |  | Attainment/Unclassifiable.
Brantley County |  | Attainment/Unclassifiable.
Brooks County |  | Attainment/Unclassifiable.
Bryan County |  | Attainment/Unclassifiable.
Bulloch County |  | Attainment/Unclassifiable.
Burke County |  | Attainment/Unclassifiable.
Calhoun County |  | Attainment/Unclassifiable.
Camden County |  | Attainment/Unclassifiable.
Candler County |  | Attainment/Unclassifiable.
Carroll County |  | Attainment/Unclassifiable.
Catoosa County |  | Attainment/Unclassifiable.
Charlton County |  | Attainment/Unclassifiable.
Chatham County |  | Attainment/Unclassifiable.
Chattahoochee County |  | Attainment/Unclassifiable.
Chattooga County |  | Attainment/Unclassifiable.
Cherokee County |  | Attainment/Unclassifiable.
Clarke County |  | Attainment/Unclassifiable.
Clay County |  | Attainment/Unclassifiable.
Clayton County |  | Attainment/Unclassifiable.
Clinch County |  | Attainment/Unclassifiable.
Cobb County |  | Attainment/Unclassifiable.
Coffee County |  | Attainment/Unclassifiable.
Colquitt County |  | Attainment/Unclassifiable.
Columbia County |  | Attainment/Unclassifiable.
Cook County |  | Attainment/Unclassifiable.
Coweta County |  | Attainment/Unclassifiable.
Crisp County |  | Attainment/Unclassifiable.
Dade County |  | Attainment/Unclassifiable.
Dawson County |  | Attainment/Unclassifiable.
Decatur County |  | Attainment/Unclassifiable.
DeKalb County |  | Attainment/Unclassifiable.
Dodge County |  | Attainment/Unclassifiable.
Dooly County |  | Attainment/Unclassifiable.
Dougherty County |  | Attainment/Unclassifiable.
Douglas County |  | Attainment/Unclassifiable.
Early County |  | Attainment/Unclassifiable.
Echols County |  | Attainment/Unclassifiable.
Effingham County |  | Attainment/Unclassifiable.
Elbert County |  | Attainment/Unclassifiable.
Emanuel County |  | Attainment/Unclassifiable.
Evans County |  | Attainment/Unclassifiable.
Fannin County |  | Attainment/Unclassifiable.
Fayette County |  | Attainment/Unclassifiable.
Forsyth County |  | Attainment/Unclassifiable.
Franklin County |  | Attainment/Unclassifiable.
Fulton County |  | Attainment/Unclassifiable.
Gilmer County |  | Attainment/Unclassifiable.
Glascock County |  | Attainment/Unclassifiable.
Glynn County |  | Attainment/Unclassifiable.
Gordon County |  | Attainment/Unclassifiable.
Grady County |  | Attainment/Unclassifiable.
Greene County |  | Attainment/Unclassifiable.
Gwinnett County |  | Attainment/Unclassifiable.
Habersham County |  | Attainment/Unclassifiable.
Hall County |  | Attainment/Unclassifiable.
Hancock County |  | Attainment/Unclassifiable.
Harris County |  | Attainment/Unclassifiable.
Hart County |  | Attainment/Unclassifiable.
Heard County |  | Attainment/Unclassifiable.
Henry County |  | Attainment/Unclassifiable.
Houston County |  | Attainment/Unclassifiable.
Irwin County |  | Attainment/Unclassifiable.
Jackson County |  | Attainment/Unclassifiable.
Jeff Davis County |  | Attainment/Unclassifiable.
Jefferson County |  | Attainment/Unclassifiable.
Jenkins County |  | Attainment/Unclassifiable.
Johnson County |  | Attainment/Unclassifiable.
Lanier County |  | Attainment/Unclassifiable.
Laurens County |  | Attainment/Unclassifiable.
Lee County |  | Attainment/Unclassifiable.
Liberty County |  | Attainment/Unclassifiable.
Lincoln County |  | Attainment/Unclassifiable.
Long County |  | Attainment/Unclassifiable.
Lowndes County |  | Attainment/Unclassifiable.
Lumpkin County |  | Attainment/Unclassifiable.
Macon County |  | Attainment/Unclassifiable.
Madison County |  | Attainment/Unclassifiable.
Marion County |  | Attainment/Unclassifiable.
McDuffie County |  | Attainment/Unclassifiable.
McIntosh County |  | Attainment/Unclassifiable.
Miller County |  | Attainment/Unclassifiable.
Mitchell County |  | Attainment/Unclassifiable.
Montgomery County |  | Attainment/Unclassifiable.
Morgan County |  | Attainment/Unclassifiable.
Murray County |  | Attainment/Unclassifiable.
Muscogee County |  | Attainment/Unclassifiable.
Newton County |  | Attainment/Unclassifiable.
Oconee County |  | Attainment/Unclassifiable.
Oglethorpe County |  | Attainment/Unclassifiable.
Paulding County |  | Attainment/Unclassifiable.
Peach County |  | Attainment/Unclassifiable.
Pickens County |  | Attainment/Unclassifiable.
Pierce County |  | Attainment/Unclassifiable.
Pike County |  | Attainment/Unclassifiable.
Polk County |  | Attainment/Unclassifiable.
Pulaski County |  | Attainment/Unclassifiable.
Putnam County |  | Attainment/Unclassifiable.
Quitman County |  | Attainment/Unclassifiable.
Rabun County |  | Attainment/Unclassifiable.
Randolph County |  | Attainment/Unclassifiable.
Richmond County |  | Attainment/Unclassifiable.
Rockdale County |  | Attainment/Unclassifiable.
Schley County |  | Attainment/Unclassifiable.
Screven County |  | Attainment/Unclassifiable.
Seminole County |  | Attainment/Unclassifiable.
Spalding County |  | Attainment/Unclassifiable.
Stephens County |  | Attainment/Unclassifiable.
Stewart County |  | Attainment/Unclassifiable.
Sumter County |  | Attainment/Unclassifiable.
Talbot County |  | Attainment/Unclassifiable.
Taliaferro County |  | Attainment/Unclassifiable.
Tattnall County |  | Attainment/Unclassifiable.
Taylor County |  | Attainment/Unclassifiable.
Telfair County |  | Attainment/Unclassifiable.
Terrell County |  | Attainment/Unclassifiable.
Thomas County |  | Attainment/Unclassifiable.
Tift County |  | Attainment/Unclassifiable.
Toombs County |  | Attainment/Unclassifiable.
Towns County |  | Attainment/Unclassifiable.
Treutlen County |  | Attainment/Unclassifiable.
Troup County |  | Attainment/Unclassifiable.
Turner County |  | Attainment/Unclassifiable.
Twiggs County |  | Attainment/Unclassifiable.
Union County |  | Attainment/Unclassifiable.
Walker County |  | Attainment/Unclassifiable.
Walton County |  | Attainment/Unclassifiable.
Ware County |  | Attainment/Unclassifiable.
Warren County |  | Attainment/Unclassifiable.
Washington County |  | Attainment/Unclassifiable.
Wayne County |  | Attainment/Unclassifiable.
Webster County |  | Attainment/Unclassifiable.
Wheeler County |  | Attainment/Unclassifiable.
White County |  | Attainment/Unclassifiable.
Whitfield County |  | Attainment/Unclassifiable.
Wilcox County |  | Attainment/Unclassifiable.
Wilkes County |  | Attainment/Unclassifiable.
Wilkinson County |  | Attainment/Unclassifiable.
Worth County |  | Attainment/Unclassifiable.
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is April 9, 2018, unless otherwise noted.
³ Floyd County will be designated by December 31, 2020.

* * * * *

13. Section 81.312 is amended by revising the table entitled “Hawaii—2010 Sulfur Dioxide NAAQS (Primary)” to read as follows:

§ 81.312 Hawaii.

* * * * *

Hawaii—2010 Sulfur Dioxide NAAQS (Primary)
Designated area ¹ ³ | Designation: Date ² | Designation: Type
Hawaii County | 9/12/16 | Attainment/Unclassifiable.
Kalawao County |  | Attainment/Unclassifiable.
Kauai County |  | Attainment/Unclassifiable.
Maui County |  | Attainment/Unclassifiable.
¹Includes any Indian country in each county or area, unless otherwise specified. EPA is not determining the boundaries of any area of Indian country in this table, including any area of Indian country located in the larger designation area. The inclusion of any Indian country in the designation area is not a determination that the state has regulatory authority under the Clean Air Act for such Indian country.
² This date is April 9, 2018, unless otherwise noted.
³ Honolulu County will be designated by December 31, 2020.

* * * * *

14. Section 81.313 is amended by adding a table entitled “Idaho—2010 Sulfur Dioxide NAAQS (Primary)” following the table “Idaho—1971 Sulfur Dioxide NAAQS (Primary and Secondary)” to read as follows:

§ 81.313 Idaho.

* * * * *

Idaho—2010 Sulfur Dioxide NAAQS (Primary)
Designated area ¹ | Designation: Date ² | Designation: Type
Entire State |  | Attainment/Unclassifiable.
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is April 9, 2018, unless otherwise noted.

* * * * *

15. Section 81.314 is amended by revising the table entitled “Illinois—2010 Sulfur Dioxide NAAQS (Primary)” to read as follows:

§ 81.314 Illinois.

* * * * *

Illinois—2010 Sulfur Dioxide NAAQS (Primary)
Designated area ¹ ³ | Designation: Date ² | Designation: Type
Alton Township, IL | 9/12/16 | Nonattainment.
Madison County (part)
Within Alton Township: Area east of Corporal Belchik Memorial Expressway, south of East Broadway, south of Route 3, and north of Route 143
Lemont, IL | 10/4/13 | Nonattainment.
Cook County (part)
Lemont Township
Will County (part)
DuPage Township and Lockport Township
Pekin, IL | 10/4/13 | Nonattainment.
Tazewell County (part)
Cincinnati Township and Pekin Township
Peoria County (part)
Hollis Township
Williamson County, IL | 9/12/16 | Nonattainment.
Williamson County
Jasper County, IL | 9/12/16 | Attainment/Unclassifiable.
Jasper County
Massac County, IL | 9/12/16 | Attainment/Unclassifiable.
Massac County
Putnam/Bureau Counties, IL | 9/12/16 | Attainment/Unclassifiable.
Bureau County
Putnam County
Wood River Township, IL | 9/12/16 | Attainment/Unclassifiable.
Madison County (part)
All of Wood River Township, and the area in Chouteau Township north of Cahokia Diversion Channel
Adams County |  | Attainment/Unclassifiable.
Alexander County |  | Attainment/Unclassifiable.
Bond County |  | Attainment/Unclassifiable.
Boone County |  | Attainment/Unclassifiable.
Brown County |  | Attainment/Unclassifiable.
Calhoun County |  | Attainment/Unclassifiable.
Carroll County |  | Attainment/Unclassifiable.
Cass County |  | Attainment/Unclassifiable.
Champaign County |  | Attainment/Unclassifiable.
Christian County |  | Attainment/Unclassifiable.
Clark County |  | Attainment/Unclassifiable.
Clay County |  | Attainment/Unclassifiable.
Clinton County |  | Attainment/Unclassifiable.
Coles County |  | Attainment/Unclassifiable.
Cook County (part) (remainder) |  | Attainment/Unclassifiable.
Crawford County |  | Attainment/Unclassifiable.
Cumberland County |  | Attainment/Unclassifiable.
De Kalb County |  | Attainment/Unclassifiable.
De Witt County |  | Attainment/Unclassifiable.
Douglas County |  | Attainment/Unclassifiable.
Du Page County |  | Attainment/Unclassifiable.
Edgar County |  | Attainment/Unclassifiable.
Edwards County |  | Attainment/Unclassifiable.
Effingham County |  | Attainment/Unclassifiable.
Fayette County |  | Attainment/Unclassifiable.
Ford County |  | Attainment/Unclassifiable.
Franklin County |  | Attainment/Unclassifiable.
Fulton County |  | Attainment/Unclassifiable.
Gallatin County |  | Attainment/Unclassifiable.
Greene County |  | Attainment/Unclassifiable.
Grundy County |  | Attainment/Unclassifiable.
Hamilton County |  | Attainment/Unclassifiable.
Hancock County |  | Attainment/Unclassifiable.
Hardin County |  | Attainment/Unclassifiable.
Henderson County |  | Attainment/Unclassifiable.
Henry County |  | Attainment/Unclassifiable.
Iroquois County |  | Attainment/Unclassifiable.
Jackson County |  | Attainment/Unclassifiable.
Jefferson County |  | Attainment/Unclassifiable.
Jersey County |  | Attainment/Unclassifiable.
Jo Daviess County |  | Attainment/Unclassifiable.
Johnson County |  | Attainment/Unclassifiable.
Kane County |  | Attainment/Unclassifiable.
Kankakee County |  | Attainment/Unclassifiable.
Kendall County |  | Attainment/Unclassifiable.
Knox County |  | Attainment/Unclassifiable.
Lake County |  | Attainment/Unclassifiable.
La Salle County |  | Attainment/Unclassifiable.
Lawrence County |  | Attainment/Unclassifiable.
Lee County |  | Attainment/Unclassifiable.
Livingston County |  | Attainment/Unclassifiable.
Logan County |  | Attainment/Unclassifiable.
McDonough County |  | Attainment/Unclassifiable.
McHenry County |  | Attainment/Unclassifiable.
McLean County |  | Attainment/Unclassifiable.
Macoupin County |  | Attainment/Unclassifiable.
Madison County (part) (remainder) |  | Attainment/Unclassifiable.
Marion County |  | Attainment/Unclassifiable.
Marshall County |  | Attainment/Unclassifiable.
Mason County |  | Attainment/Unclassifiable.
Menard County |  | Attainment/Unclassifiable.
Mercer County |  | Attainment/Unclassifiable.
Monroe County |  | Attainment/Unclassifiable.
Montgomery County |  | Attainment/Unclassifiable.
Morgan County |  | Attainment/Unclassifiable.
Moultrie County |  | Attainment/Unclassifiable.
Ogle County |  | Attainment/Unclassifiable.
Peoria County (part) (remainder) |  | Attainment/Unclassifiable.
Perry County |  | Attainment/Unclassifiable.
Piatt County |  | Attainment/Unclassifiable.
Pike County |  | Attainment/Unclassifiable.
Pope County |  | Attainment/Unclassifiable.
Pulaski County |  | Attainment/Unclassifiable.
Randolph County |  | Attainment/Unclassifiable.
Richland County |  | Attainment/Unclassifiable.
Rock Island County |  | Attainment/Unclassifiable.
St. Clair County |  | Attainment/Unclassifiable.
Saline County |  | Attainment/Unclassifiable.
Sangamon County |  | Attainment/Unclassifiable.
Schuyler County |  | Attainment/Unclassifiable.
Scott County |  | Attainment/Unclassifiable.
Shelby County |  | Attainment/Unclassifiable.
Stark County |  | Attainment/Unclassifiable.
Stephenson County |  | Attainment/Unclassifiable.
Tazewell County (part) (remainder) |  | Attainment/Unclassifiable.
Union County |  | Attainment/Unclassifiable.
Vermilion County |  | Attainment/Unclassifiable.
Wabash County |  | Attainment/Unclassifiable.
Warren County |  | Attainment/Unclassifiable.
Washington County |  | Attainment/Unclassifiable.
Wayne County |  | Attainment/Unclassifiable.
White County |  | Attainment/Unclassifiable.
Whiteside County |  | Attainment/Unclassifiable.
Will County (part) (remainder) |  | Attainment/Unclassifiable.
Winnebago County |  | Attainment/Unclassifiable.
Woodford County |  | Attainment/Unclassifiable.
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is April 9, 2018, unless otherwise noted.
³ Macon County will be designated by December 31, 2020.

* * * * *

16. Section 81.315 is amended by revising the table entitled “Indiana—2010 Sulfur Dioxide NAAQS (Primary)” to read as follows:

§ 81.315 Indiana.

* * * * *

Indiana—2010 Sulfur Dioxide NAAQS (Primary)
Designated area ¹ ³ | Designation: Date ² | Designation: Type
Huntington, IN |  | Nonattainment.
Huntington County (part)
Huntington Township
Indianapolis, IN | 10/4/13 | Nonattainment.
Marion County (part)
Wayne Township, Center Township, Perry Township
Morgan County, IN | 10/4/13 | Nonattainment.
Morgan County (part)
Clay Township, Washington Township
Southwest Indiana, IN | 10/4/13 | Nonattainment.
Daviess County (part)
Veale Township
Pike County (part)
Washington Township
Terre Haute, IN | 10/4/13 | Nonattainment.
Vigo County (part)
Fayette Township, Harrison Township
Gibson County, IN | 9/12/16 | Attainment/Unclassifiable.
Gibson County
Jefferson County, IN | 9/12/16 | Attainment/Unclassifiable.
Jefferson County (part)
Graham, Lancaster, Madison, Monroe, Republican, Shelby, and Smyrna Townships
LaPorte County, IN | 9/12/16 | Attainment/Unclassifiable
LaPorte County
Posey County, IN | 9/12/16 | Attainment/Unclassifiable.
Posey County (part)
Bethel, Center, Harmony, Lynn, Marrs, Robb, Robinson, and Smith Townships
Spencer County, IN | 9/12/16 | Attainment/Unclassifiable.
Spencer County (part)
Ohio Township north of UTM 4187.580 km northing, and Carter, Clay, Grass, Hammond, Harrison, and Jackson Townships
Adams County |  | Attainment/Unclassifiable.
Allen County |  | Attainment/Unclassifiable.
Bartholomew County |  | Attainment/Unclassifiable.
Benton County |  | Attainment/Unclassifiable.
Blackford County |  | Attainment/Unclassifiable.
Boone County |  | Attainment/Unclassifiable.
Brown County |  | Attainment/Unclassifiable.
Carroll County |  | Attainment/Unclassifiable.
Cass County |  | Attainment/Unclassifiable.
Clark County |  | Attainment/Unclassifiable.
Clay County |  | Attainment/Unclassifiable.
Clinton County |  | Attainment/Unclassifiable.
Crawford County |  | Attainment/Unclassifiable.
Daviess County (part) (remainder) |  | Attainment/Unclassifiable.
Dearborn County |  | Attainment/Unclassifiable.
Decatur County |  | Attainment/Unclassifiable.
DeKalb County |  | Attainment/Unclassifiable.
Delaware County |  | Attainment/Unclassifiable.
Dubois County |  | Attainment/Unclassifiable.
Elkhart County |  | Attainment/Unclassifiable.
Fayette County |  | Attainment/Unclassifiable.
Floyd County |  | Attainment/Unclassifiable.
Fountain County |  | Attainment/Unclassifiable.
Franklin County |  | Attainment/Unclassifiable.
Fulton County |  | Attainment/Unclassifiable.
Grant County |  | Attainment/Unclassifiable.
Greene County |  | Attainment/Unclassifiable.
Hamilton County |  | Attainment/Unclassifiable.
Hancock County |  | Attainment/Unclassifiable.
Harrison County |  | Attainment/Unclassifiable.
Hendricks County |  | Attainment/Unclassifiable.
Henry County |  | Attainment/Unclassifiable.
Howard County |  | Attainment/Unclassifiable.
Huntington County (part) (remainder) |  | Attainment/Unclassifiable.
Jackson County |  | Attainment/Unclassifiable.
Jasper County |  | Attainment/Unclassifiable.
Jay County |  | Attainment/Unclassifiable.
Jefferson County |  | Attainment/Unclassifiable.
Jennings County |  | Attainment/Unclassifiable.
Johnson County |  | Attainment/Unclassifiable.
Knox County |  | Attainment/Unclassifiable.
Kosciusko County |  | Attainment/Unclassifiable.
LaGrange County |  | Attainment/Unclassifiable.
Lake County |  | Attainment/Unclassifiable.
Lawrence County |  | Attainment/Unclassifiable.
Madison County |  | Attainment/Unclassifiable.
Marion County (part) (remainder) |  | Attainment/Unclassifiable.
Marshall County |  | Attainment/Unclassifiable.
Martin County |  | Attainment/Unclassifiable.
Miami County |  | Attainment/Unclassifiable.
Monroe County |  | Attainment/Unclassifiable.
Montgomery County |  | Attainment/Unclassifiable.
Morgan County (part) (remainder) |  | Attainment/Unclassifiable.
Newton County |  | Attainment/Unclassifiable.
Noble County |  | Attainment/Unclassifiable.
Ohio County |  | Attainment/Unclassifiable.
Orange County |  | Attainment/Unclassifiable.
Owen County |  | Attainment/Unclassifiable.
Parke County |  | Attainment/Unclassifiable.
Perry County |  | Attainment/Unclassifiable.
Pike County (part) (remainder) |  | Attainment/Unclassifiable.
Posey County |  | Attainment/Unclassifiable.
Pulaski County |  | Attainment/Unclassifiable.
Putnam County |  | Attainment/Unclassifiable.
Randolph County |  | Attainment/Unclassifiable.
Ripley County |  | Attainment/Unclassifiable.
Rush County |  | Attainment/Unclassifiable.
St. Joseph County |  | Attainment/Unclassifiable.
Scott County |  | Attainment/Unclassifiable.
Shelby County |  | Attainment/Unclassifiable.
Spencer County |  | Attainment/Unclassifiable.
Starke County |  | Attainment/Unclassifiable.
Steuben County |  | Attainment/Unclassifiable.
Sullivan County |  | Attainment/Unclassifiable.
Switzerland County |  | Attainment/Unclassifiable.
Tippecanoe County |  | Attainment/Unclassifiable.
Tipton County |  | Attainment/Unclassifiable.
Union County |  | Attainment/Unclassifiable.
Vanderburgh County |  | Attainment/Unclassifiable.
Vermillion County |  | Attainment/Unclassifiable.
Vigo County (part) (remainder) |  | Attainment/Unclassifiable.
Wabash County |  | Attainment/Unclassifiable.
Warren County |  | Attainment/Unclassifiable.
Warrick County |  | Attainment/Unclassifiable.
Washington County |  | Attainment/Unclassifiable.
Wayne County |  | Attainment/Unclassifiable.
Wells County |  | Attainment/Unclassifiable.
White County |  | Attainment/Unclassifiable.
Whitley County |  | Attainment/Unclassifiable.
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is April 9, 2018, unless otherwise noted.
³ Porter County will be designated by December 31, 2020.

* * * * *

17. Section 81.316 is amended by revising the table entitled “Iowa—2010 Sulfur Dioxide NAAQS (Primary)” to read as follows:

§ 81.316 Iowa.

* * * * *

Iowa—2010 Sulfur Dioxide NAAQS (Primary)
Designated area ¹ | Designation: Date ² | Designation: Type
Muscatine, IA | 10/4/13 | Nonattainment.
Muscatine County (part)
Sections 1-3, 10-15, 22-27, 34-36 of T77N, R3W (Lake Township)
Sections 1-3, 10-15, 22-27, 34-36 of T76N, R3W (Seventy-six Township)
T77N, R2W (Bloomington Township)
T76N, R2W (Fruitland Township)
All sections except 1, 12, 13, 24, 25, 36 of T77N, R1W (Sweetland Township)
Linn County, IA |  | Unclassifiable.
Linn County
Woodbury County, IA | 9/12/16 | Unclassifiable.
Woodbury County
Des Moines County, IA | 9/12/16 | Attainment/Unclassifiable.
Des Moines County
Louisa County, IA |  | Attainment/Unclassifiable.
Louisa County
Pottawattamie County, IA |  | Attainment/Unclassifiable.
Pottawattamie County
Wapello County, IA | 9/12/16 | Attainment/Unclassifiable.
Wapello County
Statewide: |  | Attainment/Unclassifiable.
Adair County
Adams County
Allamakee County
Appanoose County
Audubon County
Benton County
Black Hawk County
Boone County
Bremer County
Buchanan County
Buena Vista County
Butler County
Calhoun County
Carroll County
Cass County
Cedar County
Cerro Gordo County
Cherokee County
Chickasaw County
Clarke County
Clay County
Clayton County
Clinton County
Crawford County
Dallas County
Davis County
Decatur County
Delaware County
Dickinson County
Dubuque County
Emmet County
Fayette County
Floyd County
Franklin County
Fremont County
Greene County
Grundy County
Guthrie County
Hamilton County
Hancock County
Hardin County
Harrison County
Henry County
Howard County
Humboldt County
Ida County
Iowa County
Jackson County
Jasper County
Jefferson County
Johnson County
Jones County
Keokuk County
Kossuth County
Lee County
Lucas County
Lyon County
Madison County
Mahaska County
Marion County
Marshall County
Mills County
Mitchell County
Monona County
Monroe County
Montgomery County
Muscatine County (portion of Muscatine County not designated Nonattainment on 10/4/13)
O'Brien County
Osceola County
Page County
Palo Alto County
Plymouth County
Pocahontas County
Polk County
Poweshiek County
Ringgold County
Sac County
Scott County
Shelby County
Sioux County
Story County
Tama County
Taylor County
Union County
Van Buren County
Warren County
Washington County
Wayne County
Webster County
Winnebago County
Winneshiek County
Worth County
Wright County
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is April 9, 2018, unless otherwise noted.

* * * * *

18. Section 81.317 is amended by revising the table entitled “Kansas—2010 Sulfur Dioxide NAAQS (Primary)” to read as follows:

§ 81.317 Kansas.

* * * * *

Kansas—2010 Sulfur Dioxide NAAQS (Primary)
Designated area ¹ | Designation: Date ² | Designation: Type
Shawnee County, KS | 9/12/16 | Unclassifiable.
Shawnee County
Wyandotte County, KS | 9/12/16 | Unclassifiable.
Wyandotte County
Linn County, KS | 9/12/16 | Attainment/Unclassifiable.
Linn County
Statewide: |  | Attainment/Unclassifiable.
Allen County
Anderson County
Atchison County
Barber County
Barton County
Bourbon County
Brown County
Butler County
Chase County
Chautauqua County
Cherokee County
Cheyenne County
Clark County
Clay County
Cloud County
Coffey County
Comanche County
Cowley County
Crawford County
Decatur County
Dickinson County
Doniphan County
Douglas County
Edwards County
Elk County
Ellis County
Ellsworth County
Finney County
Ford County
Franklin County
Geary County
Gove County
Graham County
Grant County
Gray County
Greeley County
Greenwood County
Hamilton County
Harper County
Harvey County
Haskell County
Hodgeman County
Jackson County
Jefferson County
Jewell County
Johnson County
Kearny County
Kingman County
Kiowa County
Labette County
Lane County
Leavenworth County
Lincoln County
Logan County
Lyon County
Marion County
Marshall County
McPherson County
Meade County
Miami County
Mitchell County
Montgomery County
Morris County
Morton County
Nemaha County
Neosho County
Ness County
Norton County
Osage County
Osborne County
Ottawa County
Pawnee County
Phillips County
Pottawatomie County
Pratt County
Rawlins County
Reno County
Republic County
Rice County
Riley County
Rooks County
Rush County
Russell County
Saline County
Scott County
Sedgwick County
Seward County
Sheridan County
Sherman County
Smith County
Stafford County
Stanton County
Stevens County
Sumner County
Thomas County
Trego County
Wabaunsee County
Wallace County
Washington County
Wichita County
Wilson County
Woodson County
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is April 9, 2018, unless otherwise noted.

* * * * *

19. Section 81.318 is amended by revising the table entitled “Kentucky—2010 Sulfur Dioxide NAAQS (Primary)” to read as follows:

§ 81.318 Kentucky.

* * * * *

Kentucky—2010 Sulfur Dioxide NAAQS (Primary)
Designated area ⁴ | Designation: Date ¹ | Designation: Type
Campbell-Clermont Counties, KY-OH: ² | 3/10/2017 | Attainment.
Campbell County (part)
That portion of Campbell County which lies south and west of the Ohio River described as follows: Beginning at geographic coordinates 38.9735 North Latitude, 84.3017 West Longitude (NAD 1983) on the edge of the Ohio River running southwesterly to KY Highway 1566; thence continuing running southwesterly along KY Highway 1566 to KY Highway 9 (AA Highway); thence running northwesterly along KY Highway 9 (AA Highway) from Hwy 1566 to Interstate 275; thence running northeasterly along Interstate 275 to Highway 2345 (John's Hill Road), Hwy 2345 to US-27, US-27 to I-275, I-275 to the Ohio River; thence running southeasterly along the Ohio River from Interstate 275 to geographic coordinates 38.9735 North Latitude, 84.3017 West Longitude (NAD 1983).
Jefferson County, KY ² | 10/4/13 | Nonattainment.
Jefferson County (part)
That portion of Jefferson County compassed by the polygon with the vertices using Universal Traverse Mercator (UTM) coordinates in UTM zone 16 with datum NAD83 as follows:
(1) Ethan Allen Way extended to the Ohio River at UTM Easting (m) 595738, UTM Northing 4214086 and Dixie Highway (US60 and US31W) at UTM Easting (m) 59751, UTM Northing 4212946;
(2) Along Dixie Highway from UTM Easting (m) 597515, UTM Northing 4212946 to UTM Easting (m) 595859, UTM Northing 4210678;
(3) Near the adjacent property lines of Louisville Gas and Electric-Mill Creek Electric Generating Station and Kosmos Cement where they join Dixie Highway at UTM Easting (m) 595859, UTM Northing 4210678 and the Ohio River at UTM Easting (m) 595326, UTM Northing 4211014;
(4) Along the Ohio River from UTM Easting (m) 595326, UTM Northing 4211014 to UTM Easting (m) 595738, UTM Northing 4214086
Ohio County, KY ² | 9/12/16 | Unclassifiable.
Ohio County
Pulaski County, KY ² | 9/12/16 | Unclassifiable.
Pulaski County
Rest of State: ³
Adair County |  | Attainment/Unclassifiable.
Allen County |  | Attainment/Unclassifiable.
Anderson County |  | Attainment/Unclassifiable.
Ballard County |  | Attainment/Unclassifiable.
Barren County |  | Attainment/Unclassifiable.
Bath County |  | Attainment/Unclassifiable.
Bell County |  | Attainment/Unclassifiable.
Boone County |  | Attainment/Unclassifiable.
Bourbon County |  | Attainment/Unclassifiable.
Boyd County |  | Attainment/Unclassifiable.
Boyle County |  | Attainment/Unclassifiable.
Bracken County |  | Attainment/Unclassifiable.
Breathitt County |  | Attainment/Unclassifiable.
Breckinridge County |  | Attainment/Unclassifiable.
Bullitt County |  | Attainment/Unclassifiable.
Butler County |  | Attainment/Unclassifiable.
Caldwell County |  | Attainment/Unclassifiable.
Calloway County |  | Attainment/Unclassifiable.
Campbell County (part) (remainder) |  | Attainment/Unclassifiable.
Carlisle County |  | Attainment/Unclassifiable.
Carroll County |  | Attainment/Unclassifiable.
Carter County |  | Attainment/Unclassifiable.
Casey County |  | Attainment/Unclassifiable.
Christian County |  | Attainment/Unclassifiable.
Clark County |  | Attainment/Unclassifiable.
Clay County |  | Attainment/Unclassifiable.
Clinton County |  | Attainment/Unclassifiable.
Crittenden County |  | Attainment/Unclassifiable.
Cumberland County |  | Attainment/Unclassifiable.
Daviess County |  | Attainment/Unclassifiable.
Edmonson County |  | Attainment/Unclassifiable.
Elliott County |  | Attainment/Unclassifiable.
Estill County |  | Attainment/Unclassifiable.
Fayette County |  | Attainment/Unclassifiable.
Fleming County |  | Attainment/Unclassifiable.
Floyd County |  | Attainment/Unclassifiable.
Franklin County |  | Attainment/Unclassifiable.
Fulton County |  | Attainment/Unclassifiable.
Gallatin County |  | Attainment/Unclassifiable.
Garrard County |  | Attainment/Unclassifiable.
Grant County |  | Attainment/Unclassifiable.
Graves County |  | Attainment/Unclassifiable.
Grayson County |  | Attainment/Unclassifiable.
Green County |  | Attainment/Unclassifiable.
Greenup County |  | Attainment/Unclassifiable.
Hancock County |  | Attainment/Unclassifiable.
Hardin County |  | Attainment/Unclassifiable.
Harlan County |  | Attainment/Unclassifiable.
Harrison County |  | Attainment/Unclassifiable.
Hart County |  | Attainment/Unclassifiable.
Henderson County (part) ⁴ |  | Attainment/Unclassifiable.
Census Block Groups 211010207013, 211010207014, 211010207024, and 211010208004
Henry County |  | Attainment/Unclassifiable.
Hickman County |  | Attainment/Unclassifiable.
Hopkins County |  | Attainment/Unclassifiable.
Jackson County |  | Attainment/Unclassifiable.
Jefferson County (part) (remainder) |  | Attainment/Unclassifiable.
Jessamine County |  | Attainment/Unclassifiable.
Johnson County |  | Attainment/Unclassifiable.
Kenton County |  | Attainment/Unclassifiable.
Knott County |  | Attainment/Unclassifiable.
Knox County |  | Attainment/Unclassifiable.
LaRue County |  | Attainment/Unclassifiable.
Laurel County |  | Attainment/Unclassifiable.
Lawrence County |  | Attainment/Unclassifiable.
Lee County |  | Attainment/Unclassifiable.
Leslie County |  | Attainment/Unclassifiable.
Letcher County |  | Attainment/Unclassifiable.
Lewis County |  | Attainment/Unclassifiable.
Lincoln County |  | Attainment/Unclassifiable.
Livingston County |  | Attainment/Unclassifiable.
Logan County |  | Attainment/Unclassifiable.
Lyon County |  | Attainment/Unclassifiable.
Madison County |  | Attainment/Unclassifiable.
Magoffin County |  | Attainment/Unclassifiable.
Marion County |  | Attainment/Unclassifiable.
Marshall County |  | Attainment/Unclassifiable.
Martin County |  | Attainment/Unclassifiable.
Mason County |  | Attainment/Unclassifiable.
McCracken County |  | Attainment/Unclassifiable.
McCreary County |  | Attainment/Unclassifiable.
McLean County |  | Attainment/Unclassifiable.
Meade County |  | Attainment/Unclassifiable.
Menifee County |  | Attainment/Unclassifiable.
Mercer County |  | Attainment/Unclassifiable.
Metcalfe County |  | Attainment/Unclassifiable.
Monroe County |  | Attainment/Unclassifiable.
Montgomery County |  | Attainment/Unclassifiable.
Morgan County |  | Attainment/Unclassifiable.
Muhlenberg County |  | Attainment/Unclassifiable.
Nelson County |  | Attainment/Unclassifiable.
Nicholas County |  | Attainment/Unclassifiable.
Oldham County |  | Attainment/Unclassifiable.
Owen County |  | Attainment/Unclassifiable.
Owsley County |  | Attainment/Unclassifiable.
Pendleton County |  | Attainment/Unclassifiable.
Perry County |  | Attainment/Unclassifiable.
Pike County |  | Attainment/Unclassifiable.
Powell County |  | Attainment/Unclassifiable.
Robertson County |  | Attainment/Unclassifiable.
Rockcastle County |  | Attainment/Unclassifiable.
Rowan County |  | Attainment/Unclassifiable.
Russell County |  | Attainment/Unclassifiable.
Scott County |  | Attainment/Unclassifiable.
Shelby County |  | Attainment/Unclassifiable.
Simpson County |  | Attainment/Unclassifiable.
Spencer County |  | Attainment/Unclassifiable.
Taylor County |  | Attainment/Unclassifiable.
Todd County |  | Attainment/Unclassifiable.
Trigg County |  | Attainment/Unclassifiable.
Trimble County |  | Attainment/Unclassifiable.
Union County |  | Attainment/Unclassifiable.
Warren County |  | Attainment/Unclassifiable.
Washington County |  | Attainment/Unclassifiable.
Wayne County |  | Attainment/Unclassifiable.
Whitley County |  | Attainment/Unclassifiable.
Wolfe County |  | Attainment/Unclassifiable.
Woodford County |  | Attainment/Unclassifiable.
¹ This date is April 9, 2018, unless otherwise noted.
² Excludes Indian country located in each area, if any, unless otherwise specified.
³ Includes any Indian country in each county or area, if any, unless otherwise specified. EPA is not determining the boundaries of any area of Indian country in this table, including any area of Indian country located in the larger designation area. The inclusion of any Indian country in the designation area is not a determination that the state has regulatory authority under the Clean Air Act for such Indian country.
⁴ Webster County and the remainder of Henderson County will be designated by December 31, 2020.

* * * * *

20. Section 81.319 is amended by revising the table entitled “Louisiana—2010 Sulfur Dioxide NAAQS (Primary)” to read as follows:

§ 81.319 Louisiana.

* * * * *

Louisiana—2010 Sulfur Dioxide NAAQS (Primary)
Designated area ¹ ³ | Designation: Date ² | Designation: Type
Evangeline Parish (Partial) |  | Nonattainment.
Portion of Evangeline Parish bounded by:
570250m E, 3400300m N
570250m E, 3403300m N
572400m E, 3403300m N
572400m E, 3400300m N
NAD83 15R
St. Bernard Parish, LA | 10/4/13 | Nonattainment.
Calcasieu Parish, LA | 9/12/16 | Unclassifiable.
St. Mary Parish |  | Unclassifiable.
Acadia Parish |  | Attainment/Unclassifiable.
Allen Parish |  | Attainment/Unclassifiable.
Assumption Parish |  | Attainment/Unclassifiable.
Avoyelles Parish |  | Attainment/Unclassifiable.
Beauregard Parish |  | Attainment/Unclassifiable.
Bienville Parish |  | Attainment/Unclassifiable.
Bossier Parish |  | Attainment/Unclassifiable.
Caddo Parish |  | Attainment/Unclassifiable.
Caldwell Parish |  | Attainment/Unclassifiable.
Cameron Parish |  | Attainment/Unclassifiable.
Catahoula Parish |  | Attainment/Unclassifiable.
Claiborne Parish |  | Attainment/Unclassifiable.
Concordia Parish |  | Attainment/Unclassifiable.
De Soto Parish | 9/12/16 | Attainment/Unclassifiable.
East Carroll Parish |  | Attainment/Unclassifiable.
East Feliciana Parish |  | Attainment/Unclassifiable.
Evangeline Parish (part) (remainder) |  | Attainment/Unclassifiable.
Franklin Parish |  | Attainment/Unclassifiable.
Grant Parish |  | Attainment/Unclassifiable.
Iberia Parish |  | Attainment/Unclassifiable.
Iberville Parish |  | Attainment/Unclassifiable.
Jackson Parish |  | Attainment/Unclassifiable.
Jefferson Parish |  | Attainment/Unclassifiable.
Jefferson Davis Parish |  | Attainment/Unclassifiable.
Lafayette Parish |  | Attainment/Unclassifiable.
Lafourche Parish |  | Attainment/Unclassifiable.
LaSalle Parish |  | Attainment/Unclassifiable.
Lincoln Parish |  | Attainment/Unclassifiable.
Livingston Parish |  | Attainment/Unclassifiable.
Madison Parish |  | Attainment/Unclassifiable.
Morehouse Parish |  | Attainment/Unclassifiable.
Natchitoches Parish |  | Attainment/Unclassifiable.
Orleans Parish |  | Attainment/Unclassifiable.
Ouachita Parish |  | Attainment/Unclassifiable.
Plaquemines Parish |  | Attainment/Unclassifiable.
Point Coupee |  | Attainment/Unclassifiable.
Rapides Parish |  | Attainment/Unclassifiable.
Red River Parish |  | Attainment/Unclassifiable.
Richland Parish |  | Attainment/Unclassifiable.
Sabine Parish |  | Attainment/Unclassifiable.
St. Helena Parish |  | Attainment/Unclassifiable.
St. John the Baptist Parish |  | Attainment/Unclassifiable.
St. Landry Parish |  | Attainment/Unclassifiable.
St. Martin Parish |  | Attainment/Unclassifiable.
St. Mary Parish |  | Attainment/Unclassifiable.
St. Tammany Parish |  | Attainment/Unclassifiable.
Tangipahoa Parish |  | Attainment/Unclassifiable.
Tensas Parish |  | Attainment/Unclassifiable.
Terrebonne Parish |  | Attainment/Unclassifiable.
Union Parish |  | Attainment/Unclassifiable.
Vermilion Parish |  | Attainment/Unclassifiable.
Vernon Parish |  | Attainment/Unclassifiable.
Washington Parish |  | Attainment/Unclassifiable.
Webster Parish |  | Attainment/Unclassifiable.
West Carroll Parish |  | Attainment/Unclassifiable.
Winn Parish |  | Attainment/Unclassifiable.
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is April 9, 2018, unless otherwise noted.
³ East Baton Rouge, St. Charles, St. James, and West Baton Rouge Parishes will be designated by December 31, 2020.

* * * * *

21. Section 81.320 is amended by adding a table entitled “Maine—2010 Sulfur Dioxide NAAQS (Primary)” following the table “Maine—1971 Sulfur Dioxide NAAQS (Primary and Secondary)” to read as follows:

§ 81.320 Maine.

* * * * *

Maine—2010 Sulfur Dioxide NAAQS (Primary)
Designated area ¹ | Designation: Date ² | Designation: Type
Statewide: |  | Attainment/Unclassifiable.
Androscoggin County
Aroostook County
Cumberland County
Franklin County
Hancock County
Kennebec County
Knox County
Lincoln County
Oxford County
Penobscot County
Piscataquis County
Sagadahoc County
Somerset County
Waldo County
Washington County
York County
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is April 9, 2018, unless otherwise noted.

* * * * *

22. Section 81.321 is amended by revising the table entitled “Maryland—2010 Sulfur Dioxide NAAQS (Primary)” to read as follows:

§ 81.321 Maryland.

* * * * *

Maryland—2010 Sulfur Dioxide NAAQS (Primary)
Designated area ¹ ³ | Designation: Date ² | Designation: Type
Anne Arundel County and Baltimore County, MD¹ | 9/12/16 | Nonattainment.
Anne Arundel County (part)
Portions of Anne Arundel County that are within 26.8 kilometers of Herbert A. Wagner's Unit 3 stack, which is located at 39.17765 N. latitude, 76.52752 W. longitude
Baltimore County (part)
Portions of Baltimore County that are within 26.8 kilometers of Herbert A. Wagner's Unit 3 stack, which is located at 39.17765 N. latitude, 76.52752 W. longitude
Anne Arundel County (part) |  | Attainment/Unclassifiable.
Remainder of County
Baltimore City, MD | 9/12/16 | Attainment/Unclassifiable.
Baltimore County (part) |  | Attainment/Unclassifiable.
Remainder of County
Calvert County |  | Attainment/Unclassifiable.
Caroline County |  | Attainment/Unclassifiable.
Carroll County |  | Attainment/Unclassifiable.
Cecil County |  | Attainment/Unclassifiable.
Charles County |  | Attainment/Unclassifiable.
Dorchester County |  | Attainment/Unclassifiable.
Frederick County |  | Attainment/Unclassifiable.
Garrett County |  | Attainment/Unclassifiable.
Harford County |  | Attainment/Unclassifiable.
Howard County |  | Attainment/Unclassifiable.
Kent County |  | Attainment/Unclassifiable.
Montgomery County |  | Attainment/Unclassifiable.
Prince George's County |  | Attainment/Unclassifiable.
Queen Anne's County |  | Attainment/Unclassifiable.
Somerset County |  | Attainment/Unclassifiable.
St. Mary's County |  | Attainment/Unclassifiable.
Talbot County |  | Attainment/Unclassifiable.
Washington County |  | Attainment/Unclassifiable.
Wicomico County |  | Attainment/Unclassifiable.
Worcester County |  | Attainment/Unclassifiable.
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is April 9, 2018, unless otherwise noted.
³ Allegany County will be designated by December 31, 2020.

* * * * *

23. Section 81.322 is amended by adding a table entitled “Massachusetts—2010 Sulfur Dioxide NAAQS (Primary)” following the table “Massachusetts—1971 Sulfur Dioxide NAAQS (Primary and Secondary)” to read as follows:

§ 81.322 Massachusetts.

* * * * *

Massachusetts—2010 Sulfur Dioxide NAAQS (Primary)
Designated area ¹ | Designation: Date ² | Designation: Type
Statewide:
Barnstable County |  | Attainment/Unclassifiable.
Berkshire County |  | Attainment/Unclassifiable.
Bristol County |  | Attainment/Unclassifiable.
Dukes County |  | Attainment/Unclassifiable.
Essex County |  | Attainment/Unclassifiable.
Franklin County |  | Attainment/Unclassifiable.
Hampden County |  | Attainment/Unclassifiable.
Hampshire County |  | Attainment/Unclassifiable.
Middlesex County |  | Attainment/Unclassifiable.
Nantucket County |  | Attainment/Unclassifiable.
Norfolk County |  | Attainment/Unclassifiable.
Plymouth County |  | Attainment/Unclassifiable.
Suffolk County |  | Attainment/Unclassifiable.
Worcester County |  | Attainment/Unclassifiable.
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is April 9, 2018, unless otherwise noted.

* * * * *

24. Section 81.323 is amended by revising the table entitled “Michigan—2010 Sulfur Dioxide NAAQS (Primary)” to read as follows:

§ 81.323 Michigan.

* * * * *

Michigan—2010 Sulfur Dioxide NAAQS (Primary)
Designated area ¹ | Designation: Date ² | Designation: Type
Detroit, MI | 10/4/13 | Nonattainment.
Wayne County (part)
The area bounded on the east by the Michigan-Ontario border, on the south by the Wayne County-Monroe County border, on the west by Interstate 75 north to Southfield Road, Southfield Road to Interstate 94, and Interstate 94 north to Michigan Avenue, and on the north by Michigan Avenue to Woodward Avenue and a line on Woodward Avenue extended to the Michigan-Ontario border.
St. Clair, MI | 9/12/16 | Nonattainment.
St. Clair County (part)
Area defined by the St. Clair River for the eastern boundary, an extension from the St. Clair River straight west to the intersection of State Highway M-29 and St. Clair River Drive, continuing west on State Highway M-29 to Church Road to Arnold Road to County Line Road for the southern boundary, County Line Road and the Macomb/St. Clair County boundary to Stoddard Road to Wales Ridge Road for the western boundary, and Alpine Road to Fitz Road to Smith Creek Road to Range Road to Huron Avenue, extending straight east from the intersection of Huron Road and River Road to the St. Clair River for the northern boundary.
Bay County, MI | 9/12/16 | Attainment/Unclassifiable.
Bay County
Lansing, MI | 9/12/16 | Attainment/Unclassifiable.
Eaton County
Ingham County
Marquette County, MI | 9/12/16 | Attainment/Unclassifiable.
Marquette County
Monroe County, MI | 9/12/16 | Attainment/Unclassifiable.
Monroe County
Ottawa County, MI | 9/12/16 | Attainment/Unclassifiable.
Ottawa County
Alcona County |  | Attainment/Unclassifiable.
Alger County |  | Attainment/Unclassifiable.
Allegan County |  | Attainment/Unclassifiable.
Alpena County |  | Attainment/Unclassifiable.
Antrim County |  | Attainment/Unclassifiable.
Arenac County |  | Attainment/Unclassifiable.
Baraga County |  | Attainment/Unclassifiable.
Barry County |  | Attainment/Unclassifiable.
Benzie County |  | Attainment/Unclassifiable.
Berrien County |  | Attainment/Unclassifiable.
Branch County |  | Attainment/Unclassifiable.
Calhoun County |  | Attainment/Unclassifiable.
Cass County |  | Attainment/Unclassifiable.
Charlevoix County |  | Attainment/Unclassifiable.
Cheboygan County |  | Attainment/Unclassifiable.
Chippewa County |  | Attainment/Unclassifiable.
Clare County |  | Attainment/Unclassifiable.
Clinton County |  | Attainment/Unclassifiable.
Crawford County |  | Attainment/Unclassifiable.
Delta County |  | Attainment/Unclassifiable.
Dickinson County |  | Attainment/Unclassifiable.
Emmet County |  | Attainment/Unclassifiable.
Genesee County |  | Attainment/Unclassifiable.
Gladwin County |  | Attainment/Unclassifiable.
Gogebic County |  | Attainment/Unclassifiable.
Grand Traverse County |  | Attainment/Unclassifiable.
Gratiot County |  | Attainment/Unclassifiable.
Hillsdale County |  | Attainment/Unclassifiable.
Houghton County |  | Attainment/Unclassifiable.
Huron County |  | Attainment/Unclassifiable.
Ionia County |  | Attainment/Unclassifiable.
Iosco County |  | Attainment/Unclassifiable.
Iron County |  | Attainment/Unclassifiable.
Isabella County |  | Attainment/Unclassifiable.
Jackson County |  | Attainment/Unclassifiable.
Kalamazoo County |  | Attainment/Unclassifiable.
Kalkaska County |  | Attainment/Unclassifiable.
Kent County |  | Attainment/Unclassifiable.
Keweenaw County |  | Attainment/Unclassifiable.
Lake County |  | Attainment/Unclassifiable.
Lapeer County |  | Attainment/Unclassifiable.
Leelanau County |  | Attainment/Unclassifiable.
Lenawee County |  | Attainment/Unclassifiable.
Livingston County |  | Attainment/Unclassifiable.
Luce County |  | Attainment/Unclassifiable.
Mackinac County |  | Attainment/Unclassifiable.
Macomb County |  | Attainment/Unclassifiable.
Manistee County |  | Attainment/Unclassifiable.
Mason County |  | Attainment/Unclassifiable.
Mecosta County |  | Attainment/Unclassifiable.
Menominee County |  | Attainment/Unclassifiable.
Midland County |  | Attainment/Unclassifiable.
Missaukee County |  | Attainment/Unclassifiable.
Montcalm County |  | Attainment/Unclassifiable.
Montmorency County |  | Attainment/Unclassifiable.
Muskegon County |  | Attainment/Unclassifiable.
Newaygo County |  | Attainment/Unclassifiable.
Oakland County |  | Attainment/Unclassifiable.
Oceana County |  | Attainment/Unclassifiable.
Ogemaw County |  | Attainment/Unclassifiable.
Ontonagon County |  | Attainment/Unclassifiable.
Osceola County |  | Attainment/Unclassifiable.
Oscoda County |  | Attainment/Unclassifiable.
Otsego County |  | Attainment/Unclassifiable.
Presque Isle County |  | Attainment/Unclassifiable.
Roscommon County |  | Attainment/Unclassifiable.
Saginaw County |  | Attainment/Unclassifiable.
St. Clair County (remainder) |  | Attainment/Unclassifiable.
St. Joseph County |  | Attainment/Unclassifiable.
Sanilac County |  | Attainment/Unclassifiable.
Schoolcraft County |  | Attainment/Unclassifiable.
Shiawassee County |  | Attainment/Unclassifiable.
Tuscola County |  | Attainment/Unclassifiable.
Van Buren County |  | Attainment/Unclassifiable.
Washtenaw County |  | Attainment/Unclassifiable.
Wayne County (remainder) |  | Attainment/Unclassifiable.
Wexford County |  | Attainment/Unclassifiable.
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is April 9, 2018, unless otherwise noted.

* * * * *

25. Section 81.324 is amended by adding a table entitled “Minnesota—2010 Sulfur Dioxide NAAQS (Primary)” following the table “Minnesota—1971 Sulfur Dioxide NAAQS (Primary and Secondary)” to read as follows:

§ 81.324 Minnesota.

* * * * *

Minnesota—2010 Sulfur Dioxide NAAQS (Primary)
Designated area ¹ | Designation: Date ² | Designation: Type
Goodhue County |  | Unclassifiable.
Aitkin County |  | Attainment/Unclassifiable.
Anoka County |  | Attainment/Unclassifiable.
Becker County |  | Attainment/Unclassifiable.
Beltrami County |  | Attainment/Unclassifiable.
Benton County |  | Attainment/Unclassifiable.
Big Stone County |  | Attainment/Unclassifiable.
Blue Earth County |  | Attainment/Unclassifiable.
Brown County |  | Attainment/Unclassifiable.
Carlton County |  | Attainment/Unclassifiable.
Carver County |  | Attainment/Unclassifiable.
Cass County |  | Attainment/Unclassifiable.
Chippewa County |  | Attainment/Unclassifiable.
Chisago County |  | Attainment/Unclassifiable.
Clay County |  | Attainment/Unclassifiable.
Clearwater County |  | Attainment/Unclassifiable.
Cook County |  | Attainment/Unclassifiable.
Cottonwood County |  | Attainment/Unclassifiable.
Crow Wing County |  | Attainment/Unclassifiable.
Dakota County |  | Attainment/Unclassifiable.
Dodge County |  | Attainment/Unclassifiable.
Douglas County |  | Attainment/Unclassifiable.
Faribault County |  | Attainment/Unclassifiable.
Fillmore County |  | Attainment/Unclassifiable.
Freeborn County |  | Attainment/Unclassifiable.
Grant County |  | Attainment/Unclassifiable.
Hennepin County |  | Attainment/Unclassifiable.
Houston County |  | Attainment/Unclassifiable.
Hubbard County |  | Attainment/Unclassifiable.
Isanti County |  | Attainment/Unclassifiable.
Itasca County |  | Attainment/Unclassifiable.
Jackson County |  | Attainment/Unclassifiable.
Kanabec County |  | Attainment/Unclassifiable.
Kandiyohi County |  | Attainment/Unclassifiable.
Kittson County |  | Attainment/Unclassifiable.
Koochiching County |  | Attainment/Unclassifiable.
Lac qui Parle County |  | Attainment/Unclassifiable.
Lake County |  | Attainment/Unclassifiable.
Lake of the Woods County |  | Attainment/Unclassifiable.
Le Sueur County |  | Attainment/Unclassifiable.
Lincoln County |  | Attainment/Unclassifiable.
Lyon County |  | Attainment/Unclassifiable.
McLeod County |  | Attainment/Unclassifiable.
Mahnomen County |  | Attainment/Unclassifiable.
Marshall County |  | Attainment/Unclassifiable.
Martin County |  | Attainment/Unclassifiable.
Meeker County |  | Attainment/Unclassifiable.
Mille Lacs County |  | Attainment/Unclassifiable.
Morrison County |  | Attainment/Unclassifiable.
Mower County |  | Attainment/Unclassifiable.
Murray County |  | Attainment/Unclassifiable.
Nicollet County |  | Attainment/Unclassifiable.
Nobles County |  | Attainment/Unclassifiable.
Norman County |  | Attainment/Unclassifiable.
Olmsted County |  | Attainment/Unclassifiable.
Otter Tail County |  | Attainment/Unclassifiable.
Pennington County |  | Attainment/Unclassifiable.
Pine County |  | Attainment/Unclassifiable.
Pipestone County |  | Attainment/Unclassifiable.
Polk County |  | Attainment/Unclassifiable.
Pope County |  | Attainment/Unclassifiable.
Ramsey County |  | Attainment/Unclassifiable.
Red Lake County |  | Attainment/Unclassifiable.
Redwood County |  | Attainment/Unclassifiable.
Renville County |  | Attainment/Unclassifiable.
Rice County |  | Attainment/Unclassifiable.
Rock County |  | Attainment/Unclassifiable.
Roseau County |  | Attainment/Unclassifiable.
St. Louis County |  | Attainment/Unclassifiable.
Scott County |  | Attainment/Unclassifiable.
Sherburne County |  | Attainment/Unclassifiable.
Sibley County |  | Attainment/Unclassifiable.
Stearns County |  | Attainment/Unclassifiable.
Steele County |  | Attainment/Unclassifiable.
Stevens County |  | Attainment/Unclassifiable.
Swift County |  | Attainment/Unclassifiable.
Todd County |  | Attainment/Unclassifiable.
Traverse County |  | Attainment/Unclassifiable.
Wabasha County |  | Attainment/Unclassifiable.
Wadena County |  | Attainment/Unclassifiable.
Waseca County |  | Attainment/Unclassifiable.
Washington County |  | Attainment/Unclassifiable.
Watonwan County |  | Attainment/Unclassifiable.
Wilkin County |  | Attainment/Unclassifiable.
Winona County |  | Attainment/Unclassifiable.
Wright County |  | Attainment/Unclassifiable.
Yellow Medicine County |  | Attainment/Unclassifiable.
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is April 9, 2018, unless otherwise noted.

* * * * *

26. Section 81.325 is amended by revising the table entitled “Mississippi—2010 Sulfur Dioxide NAAQS (Primary)” to read as follows:

§ 81.325 Mississippi.

* * * * *

Mississippi—2010 Sulfur Dioxide NAAQS (Primary)
Designated area ¹ | Designation: Date ² | Designation: Type
Adams County |  | Attainment/Unclassifiable.
Alcorn County |  | Attainment/Unclassifiable.
Amite County |  | Attainment/Unclassifiable.
Attala County |  | Attainment/Unclassifiable.
Benton County |  | Attainment/Unclassifiable.
Bolivar County |  | Attainment/Unclassifiable.
Calhoun County |  | Attainment/Unclassifiable.
Carroll County |  | Attainment/Unclassifiable.
Chickasaw County |  | Attainment/Unclassifiable.
Choctaw County |  | Attainment/Unclassifiable.
Claiborne County |  | Attainment/Unclassifiable.
Clarke County |  | Attainment/Unclassifiable.
Clay County |  | Attainment/Unclassifiable.
Coahoma County |  | Attainment/Unclassifiable.
Copiah County |  | Attainment/Unclassifiable.
Covington County |  | Attainment/Unclassifiable.
DeSoto County |  | Attainment/Unclassifiable.
Forrest County |  | Attainment/Unclassifiable.
Franklin County |  | Attainment/Unclassifiable.
George County |  | Attainment/Unclassifiable.
Greene County |  | Attainment/Unclassifiable.
Grenada County |  | Attainment/Unclassifiable.
Hancock County |  | Attainment/Unclassifiable.
Harrison County |  | Attainment/Unclassifiable.
Hinds County |  | Attainment/Unclassifiable.
Holmes County |  | Attainment/Unclassifiable.
Humphreys County |  | Attainment/Unclassifiable.
Issaquena County |  | Attainment/Unclassifiable.
Itawamba County |  | Attainment/Unclassifiable.
Jackson County |  | Attainment/Unclassifiable.
Jasper County |  | Attainment/Unclassifiable.
Jefferson County |  | Attainment/Unclassifiable.
Jefferson Davis County |  | Attainment/Unclassifiable.
Jones County |  | Attainment/Unclassifiable.
Kemper County |  | Attainment/Unclassifiable.
Lafayette County |  | Attainment/Unclassifiable.
Lamar County, MS | 9/12/16 | Attainment/Unclassifiable.
Lauderdale County |  | Attainment/Unclassifiable.
Lawrence County |  | Attainment/Unclassifiable.
Leake County |  | Attainment/Unclassifiable.
Lee County |  | Attainment/Unclassifiable.
Leflore County |  | Attainment/Unclassifiable.
Lincoln County |  | Attainment/Unclassifiable.
Lowndes County |  | Attainment/Unclassifiable.
Madison County |  | Attainment/Unclassifiable.
Marion County |  | Attainment/Unclassifiable.
Marshall County |  | Attainment/Unclassifiable.
Monroe County |  | Attainment/Unclassifiable.
Montgomery County |  | Attainment/Unclassifiable.
Neshoba County |  | Attainment/Unclassifiable.
Newton County |  | Attainment/Unclassifiable.
Noxubee County |  | Attainment/Unclassifiable.
Oktibbeha County |  | Attainment/Unclassifiable.
Panola County |  | Attainment/Unclassifiable.
Pearl River County |  | Attainment/Unclassifiable.
Perry County |  | Attainment/Unclassifiable.
Pike County |  | Attainment/Unclassifiable.
Pontotoc County |  | Attainment/Unclassifiable.
Prentiss County |  | Attainment/Unclassifiable.
Quitman County |  | Attainment/Unclassifiable.
Rankin County |  | Attainment/Unclassifiable.
Scott County |  | Attainment/Unclassifiable.
Sharkey County |  | Attainment/Unclassifiable.
Simpson County |  | Attainment/Unclassifiable.
Smith County |  | Attainment/Unclassifiable.
Stone County |  | Attainment/Unclassifiable.
Sunflower County |  | Attainment/Unclassifiable.
Tallahatchie County |  | Attainment/Unclassifiable.
Tate County |  | Attainment/Unclassifiable.
Tippah County |  | Attainment/Unclassifiable.
Tishomingo County |  | Attainment/Unclassifiable.
Tunica County |  | Attainment/Unclassifiable.
Union County |  | Attainment/Unclassifiable.
Walthall County |  | Attainment/Unclassifiable.
Warren County |  | Attainment/Unclassifiable.
Washington County |  | Attainment/Unclassifiable.
Wayne County |  | Attainment/Unclassifiable.
Webster County |  | Attainment/Unclassifiable.
Wilkinson County |  | Attainment/Unclassifiable.
Winston County |  | Attainment/Unclassifiable.
Yalobusha County |  | Attainment/Unclassifiable.
Yazoo County |  | Attainment/Unclassifiable.
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is April 9, 2018, unless otherwise noted.

* * * * *

27. Section 81.326 is amended by revising the table entitled “Missouri—2010 Sulfur Dioxide NAAQS (Primary)” to read as follows:

§ 81.326 Missouri.

* * * * *

Missouri—2010 Sulfur Dioxide NAAQS (Primary)
Designated area 1 3 | Designation: Date ² | Designation: Type
Jackson County, MO | 10/4/13 | Nonattainment.
Jackson County (part)
The portion of Jackson County bounded by I-70/I-670 and the Missouri River to the north; and, to the west of I-435 to the state line separating Missouri and Kansas.
Jefferson County, MO | 10/4/13 | Nonattainment.
Jefferson County (part)
That portion within Jefferson County described by connecting the following four sets of UTM coordinates moving in a clockwise manner:
(Herculaneum USGS Quadrangle) 718360.283 4250477.056 729301.869 4250718.415 729704.134 4236840.30 718762.547 4236558.715
(Festus USGS Quadrangle) 718762.547 4236558.715 729704.134 4236840.30 730066.171 4223042.637 719124.585 4222680.6
(Selma USGS Quadrangle) 729704.134 4236840.30 730428.209 4236840.3 741047.984 4223283.996 730066.171 4223042.637
(Valmeyer USGS Quadrangle) 729301.869 4250718.415 731474.096 4250798.868 730428.209 4236840.3 729704.134 4236840.30
Franklin-St. Charles Counties, MO | 9/12/16 | Unclassifiable.
Franklin County (part)
The eastern and western boundaries are Boles Township boundaries. The northern boundary is the Franklin County-St. Charles County Line. The southern boundary is Interstate 44.
St. Charles County (part)
The eastern and western boundaries are Boone Township boundaries. The northern boundary is Missouri Route D and Highway 94. The southern boundary is the Franklin County-St. Charles County Line.
Jackson County, MO | 9/12/16 | Unclassifiable.
Jackson County (part)
The northern boundary is the county line separating Jackson County from Clay and Ray Counties. The eastern boundary is the county line separating Jackson County from Lafayette County. The southern boundary is Interstates 70 and 470. The western boundary is Missouri Highway 291.
Adair County |  | Attainment/Unclassifiable.
Andrew County |  | Attainment/Unclassifiable.
Atchison County |  | Attainment/Unclassifiable.
Audrain County |  | Attainment/Unclassifiable.
Barry County |  | Attainment/Unclassifiable.
Barton County |  | Attainment/Unclassifiable.
Bates County |  | Attainment/Unclassifiable.
Benton County |  | Attainment/Unclassifiable.
Bollinger County |  | Attainment/Unclassifiable.
Boone County |  | Attainment/Unclassifiable.
Buchanan County |  | Attainment/Unclassifiable.
Butler County |  | Attainment/Unclassifiable.
Caldwell County |  | Attainment/Unclassifiable.
Callaway County |  | Attainment/Unclassifiable.
Camden County |  | Attainment/Unclassifiable.
Cape Girardeau County |  | Attainment/Unclassifiable.
Carroll County |  | Attainment/Unclassifiable.
Carter County |  | Attainment/Unclassifiable.
Cass County |  | Attainment/Unclassifiable.
Cedar County |  | Attainment/Unclassifiable.
Chariton County |  | Attainment/Unclassifiable.
Christian County |  | Attainment/Unclassifiable.
Clark County |  | Attainment/Unclassifiable.
Clay County |  | Attainment/Unclassifiable.
Clinton County |  | Attainment/Unclassifiable.
Cole County |  | Attainment/Unclassifiable.
Cooper County |  | Attainment/Unclassifiable.
Crawford County |  | Attainment/Unclassifiable.
Dade County |  | Attainment/Unclassifiable.
Dallas County |  | Attainment/Unclassifiable.
Daviess County |  | Attainment/Unclassifiable.
DeKalb County |  | Attainment/Unclassifiable.
Dent County |  | Attainment/Unclassifiable.
Douglas County |  | Attainment/Unclassifiable.
Dunklin County |  | Attainment/Unclassifiable.
Franklin County (part) (remainder) |  | Attainment/Unclassifiable.
Gasconade County |  | Attainment/Unclassifiable.
Gentry County |  | Attainment/Unclassifiable.
Greene County |  | Attainment/Unclassifiable.
Grundy County |  | Attainment/Unclassifiable.
Harrison County |  | Attainment/Unclassifiable.
Henry County |  | Attainment/Unclassifiable.
Hickory County |  | Attainment/Unclassifiable.
Holt County |  | Attainment/Unclassifiable.
Howard County |  | Attainment/Unclassifiable.
Howell County |  | Attainment/Unclassifiable.
Jackson County (part) (remainder) |  | Attainment/Unclassifiable.
Jasper County |  | Attainment/Unclassifiable.
Jefferson County (part) (remainder) |  | Attainment/Unclassifiable.
Johnson County |  | Attainment/Unclassifiable.
Knox County |  | Attainment/Unclassifiable.
Laclede County |  | Attainment/Unclassifiable.
Lafayette County |  | Attainment/Unclassifiable.
Lawrence County |  | Attainment/Unclassifiable.
Lewis County |  | Attainment/Unclassifiable.
Lincoln County |  | Attainment/Unclassifiable.
Linn County |  | Attainment/Unclassifiable.
Livingston County |  | Attainment/Unclassifiable.
Macon County |  | Attainment/Unclassifiable.
Madison County |  | Attainment/Unclassifiable.
Maries County |  | Attainment/Unclassifiable.
Marion County |  | Attainment/Unclassifiable.
McDonald County |  | Attainment/Unclassifiable.
Mercer County |  | Attainment/Unclassifiable.
Miller County |  | Attainment/Unclassifiable.
Mississippi County |  | Attainment/Unclassifiable.
Moniteau County |  | Attainment/Unclassifiable.
Monroe County |  | Attainment/Unclassifiable.
Montgomery County |  | Attainment/Unclassifiable.
Morgan County |  | Attainment/Unclassifiable.
Newton County |  | Attainment/Unclassifiable.
Nodaway County |  | Attainment/Unclassifiable.
Oregon County |  | Attainment/Unclassifiable.
Osage County |  | Attainment/Unclassifiable.
Ozark County |  | Attainment/Unclassifiable.
Pemiscot County |  | Attainment/Unclassifiable.
Perry County |  | Attainment/Unclassifiable.
Pettis County |  | Attainment/Unclassifiable.
Phelps County |  | Attainment/Unclassifiable.
Pike County |  | Attainment/Unclassifiable.
Platte County |  | Attainment/Unclassifiable.
Polk County |  | Attainment/Unclassifiable.
Pulaski County |  | Attainment/Unclassifiable.
Putnam County |  | Attainment/Unclassifiable.
Ralls County |  | Attainment/Unclassifiable.
Randolph County |  | Attainment/Unclassifiable.
Ray County |  | Attainment/Unclassifiable.
Reynolds County |  | Attainment/Unclassifiable.
Ripley County |  | Attainment/Unclassifiable.
St. Charles County (part) (remainder) |  | Attainment/Unclassifiable.
St. Clair County |  | Attainment/Unclassifiable.
St. Francois County |  | Attainment/Unclassifiable.
Ste. Genevieve County |  | Attainment/Unclassifiable.
St. Louis City |  | Attainment/Unclassifiable.
St. Louis County |  | Attainment/Unclassifiable.
Saline County |  | Attainment/Unclassifiable.
Schuyler County |  | Attainment/Unclassifiable.
Scotland County |  | Attainment/Unclassifiable.
Scott County | 9/12/16 | Attainment/Unclassifiable.
Shannon County |  | Attainment/Unclassifiable.
Shelby County |  | Attainment/Unclassifiable.
Stoddard County |  | Attainment/Unclassifiable.
Stone County |  | Attainment/Unclassifiable.
Sullivan County |  | Attainment/Unclassifiable.
Taney County |  | Attainment/Unclassifiable.
Texas County |  | Attainment/Unclassifiable.
Vernon County |  | Attainment/Unclassifiable.
Warren County |  | Attainment/Unclassifiable.
Washington County |  | Attainment/Unclassifiable.
Wayne County |  | Attainment/Unclassifiable.
Webster County |  | Attainment/Unclassifiable.
Worth County |  | Attainment/Unclassifiable.
Wright County |  | Attainment/Unclassifiable.
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is April 9, 2018, unless otherwise noted.
³ Iron and New Madrid Counties will be designated by December 31, 2020.

* * * * *

28. Section 81.327 is amended by revising the table titled “Montana—2010 Sulfur Dioxide NAAQS (Primary) to read as follows:

§ 81.327 Montana.

* * * * *

Montana—2010 Sulfur Dioxide NAAQS (Primary)
Designated area ¹ | Designation: Date ² | Designation: Type
Yellowstone County (part) | 5/10/16 | Attainment.
The area originates at the point defined as the southwest corner of Section 11, Township 1S, Range 26E. From that point the boundary proceeds north along the western section line of Section 11 to the point of intersection with the midline of Interstate Highway 90. From that point the boundary follows the midline of Interstate Highway 90, across the Yellowstone River, to the point where the highway midline intersects the northern boundary of Section 35, Township 1N, Range 26E. From that point the boundary proceeds east along the northern section line of Sections 35 and 36 to the point where Old US 87/Hardin Road leaves the section line and turns southeast. The boundary follows the midline of Old US 87/Hardin Road southeast to the point where the road intersects the western boundary of the SE ¼ of the SE ¼ of Section 31, Township 1N, Range 27E. From that point the boundary proceeds south along the ¼ section line to the southern boundary of Township 1N, then east to the northeast corner of Section 5, Township 1S, Range 27E. The boundary then proceeds south along the eastern section line of sections 5 and 8 to the southeast corner of Section 8, Township 1S, Range 27E, where it turns west and follows the south section line of Sections 8 and 7, Township 1S, Range 27E; and Sections 12 and 11, Township 1S, Range 26E, back to the point of origin
Beaverhead County |  | Attainment/Unclassifiable.
Big Horn County |  | Attainment/Unclassifiable.
Blaine County |  | Attainment/Unclassifiable.
Broadwater County |  | Attainment/Unclassifiable.
Carbon County |  | Attainment/Unclassifiable.
Carter County |  | Attainment/Unclassifiable.
Cascade County |  | Attainment/Unclassifiable.
Chouteau County |  | Attainment/Unclassifiable.
Custer County |  | Attainment/Unclassifiable.
Daniels County |  | Attainment/Unclassifiable.
Dawson County |  | Attainment/Unclassifiable.
Deer Lodge County |  | Attainment/Unclassifiable.
Fallon County |  | Attainment/Unclassifiable.
Fergus County |  | Attainment/Unclassifiable.
Flathead County |  | Attainment/Unclassifiable.
Gallatin County |  | Attainment/Unclassifiable.
Garfield County |  | Attainment/Unclassifiable.
Glacier County |  | Attainment/Unclassifiable.
Golden Valley County |  | Attainment/Unclassifiable.
Granite County |  | Attainment/Unclassifiable.
Hill County |  | Attainment/Unclassifiable.
Jefferson County |  | Attainment/Unclassifiable.
Judith Basin County |  | Attainment/Unclassifiable.
Lake County |  | Attainment/Unclassifiable.
Lewis and Clark County |  | Attainment/Unclassifiable.
Liberty County |  | Attainment/Unclassifiable.
Lincoln County |  | Attainment/Unclassifiable.
McCone County |  | Attainment/Unclassifiable.
Madison County |  | Attainment/Unclassifiable.
Meagher County |  | Attainment/Unclassifiable.
Mineral County |  | Attainment/Unclassifiable.
Missoula County |  | Attainment/Unclassifiable.
Musselshell County |  | Attainment/Unclassifiable.
Park County |  | Attainment/Unclassifiable.
Petroleum County |  | Attainment/Unclassifiable.
Phillips County |  | Attainment/Unclassifiable.
Pondera County |  | Attainment/Unclassifiable.
Powder River County |  | Attainment/Unclassifiable.
Powell County |  | Attainment/Unclassifiable.
Prairie County |  | Attainment/Unclassifiable.
Ravalli County |  | Attainment/Unclassifiable.
Richland County |  | Attainment/Unclassifiable.
Roosevelt County |  | Attainment/Unclassifiable.
Rosebud County |  | Attainment/Unclassifiable.
Sanders County |  | Attainment/Unclassifiable.
Sheridan County |  | Attainment/Unclassifiable.
Silver Bow County |  | Attainment/Unclassifiable.
Stillwater County |  | Attainment/Unclassifiable.
Sweet Grass County |  | Attainment/Unclassifiable.
Teton County |  | Attainment/Unclassifiable.
Toole County |  | Attainment/Unclassifiable.
Treasure County |  | Attainment/Unclassifiable.
Valley County |  | Attainment/Unclassifiable.
Wheatland County |  | Attainment/Unclassifiable.
Wibaux County |  | Attainment/Unclassifiable.
Yellowstone County (part) (remainder) |  | Attainment/Unclassifiable.
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is April 9, 2018, unless otherwise noted.

* * * * *

29. Section 81.328 is amended by revising the table entitled “Nebraska—2010 Sulfur Dioxide NAAQS (Primary)” to read as follows:

§ 81.328 Nebraska.

* * * * *

Nebraska—2010 Sulfur Dioxide NAAQS (Primary)
Designated area 1 3 | Designation: Date ² | Designation: Type
Lancaster County | 9/12/16 | Unclassifiable.
Statewide: |  | Attainment/Unclassifiable.
Adams County
Antelope County
Arthur County
Banner County
Blaine County
Boone County
Box Butte County
Boyd County
Brown County
Buffalo County
Burt County
Butler County
Cass County
Cedar County
Chase County
Cherry County
Cheyenne County
Clay County
Colfax County
Cuming County
Custer County
Dakota County
Dawes County
Dawson County
Deuel County
Dixon County
Dodge County
Dundy County
Fillmore County
Franklin County
Frontier County
Furnas County
Gage County
Garden County
Garfield County
Gosper County
Grant County
Greeley County
Hall County
Hamilton County
Harlan County
Hayes County
Hitchcock County
Holt County
Hooker County
Howard County
Jefferson County
Johnson County
Kearney County
Keith County
Keya Paha County
Kimball County
Knox County
Lincoln County | 9/12/16 | Attainment/Unclassifiable.
Logan County
Loup County
Madison County
McPherson County
Merrick County
Morrill County
Nance County
Nemaha County
Nuckolls County
Otoe County | 9/12/16 | Attainment/Unclassifiable.
Pawnee County
Perkins County
Phelps County
Pierce County
Platte County
Polk County
Red Willow County
Richardson County
Rock County
Saline County
Sarpy County
Saunders County
Scotts Bluff County
Seward County
Sheridan County
Sherman County
Sioux County
Stanton County
Thayer County
Thomas County
Thurston County
Valley County
Washington County
Wayne County
Webster County
Wheeler County
York County
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is April 9, 2018, unless otherwise noted.
³ Douglas County will be designated by December 31, 2020.

* * * * *

30. Section 81.329 is amended by adding a table entitled “Nevada—2010 Sulfur Dioxide NAAQS (Primary)” following the table “Nevada—1971 Sulfur Dioxide NAAQS (Primary and Secondary)” to read as follows:

§ 81.329 Nevada.

* * * * *

Nevada—2010 Sulfur Dioxide NAAQS (Primary)
Designated area ¹ | Designation: Date ² | Designation: Type
State of Nevada ³ |  | Attainment/Unclassifiable.
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is April 9, 2018, unless otherwise noted.
³ Rest of State refers to hydrographic areas as shown on the State of Nevada Division of Water Resources' map titled “Water Resources and Inter-basin Flows” (September 1971), as revised to include a division of Carson Desert (area 101) into two areas, a smaller area 101 and area 101A, and a division of Boulder Flat (area 61) into an Upper Unit 61 and a Lower Unit 61. See also 67 FR 12474 (March 19, 2002).

* * * * *

31. Section 81.330 is amended by revising the table entitled “New Hampshire—2010 Sulfur Dioxide NAAQS (Primary)” to read as follows:

§ 81.330 New Hampshire.

* * * * *

New Hampshire—2010 Sulfur Dioxide NAAQS (Primary)
Designated area ¹ | Designation: Date ² | Designation: Type
Central New Hampshire, NH | 10/4/13 | Nonattainment.
Hillsborough County (part)
Goffstown Town
Merrimack County (part)
Allenstown Town, Bow Town, Chichester Town, Dunbarton Town, Epsom Town, Hooksett Town, Loudon Town, Pembroke Town, Pittsfield Town, City of Concord
Rockingham County (part)
Candia Town, Deerfield Town, Northwood Town
Rest of State:
Belknap County |  | Attainment/Unclassifiable.
Carroll County |  | Attainment/Unclassifiable.
Cheshire County |  | Attainment/Unclassifiable.
Coos County |  | Attainment/Unclassifiable.
Grafton County |  | Attainment/Unclassifiable.
Hillsborough County (part) |  | Attainment/Unclassifiable.
Amherst Town, Antrim Town, Bedford Town, Bennington Town, Brookline Town, Deering Town, Francestown Town, Greenfield Town, Greenville Town, Hancock Town, Hillsborough Town, Hollis Town, Hudson Town, Litchfield Town, Lyndeborough Town, City of Manchester, Mason Town, Merrimack Town, Milford Town, Mont Vernon Town, City of Nashua, New Boston Town, New Ipswich Town, Pelham Town, Peterborough Town, Sharon Town, Temple Town, Weare Town, Wilton Town, Windsor Town
Merrimack County (part) |  | Attainment/Unclassifiable.
Andover Town, Boscawen Town, Bradford Town, Canterbury Town, Danbury Town, City of Franklin, Henniker Town, Hill Town, Hopkinton Town, New London Town, Newbury Town, Northfield Town, Salisbury Town, Sutton Town, Warner Town, Webster Town, Wilmot Town
Rockingham County (part) |  | Attainment/Unclassifiable.
Atkinson Town, Auburn Town, Brentwood Town, Chester Town, Danville Town, Derry Town, East Kingston Town, Epping Town, Exeter Town, Fremont Town, Greenland Town, Hampstead Town, Hampton Town, Hampton Falls Town, Kensington Town, Kingston Town, Londonderry Town, New Castle Town, Newfields Town, Newington Town, Newmarket Town, Newton Town, North Hampton Town, Nottingham Town, Plainstow Town, City of Portsmouth, Raymond Town, Rye Town, Salem Town, Sandown Town, Seabrook Town, South Hampton Town, Stratham Town, Windham Town
Strafford County |  | Attainment/Unclassifiable.
Sullivan County |  | Attainment/Unclassifiable.
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is April 9, 2018, unless otherwise noted.

* * * * *

32. Section 81.331 is amended by adding a table entitled “New Jersey—2010 Sulfur Dioxide NAAQS (Primary)” following the table “New Jersey—1971 Sulfur Dioxide NAAQS (Primary and Secondary)” to read as follows:

§ 81.331 New Jersey.

* * * * *

New Jersey—2010 Sulfur Dioxide NAAQS (Primary)
Designated area ¹ | Designation: Date ² | Designation: Type
Entire State |  | Attainment/Unclassifiable.
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is April 9, 2018, unless otherwise noted.

* * * * *

33. Section 81.332 is amended by adding a table titled “New Mexico—2010 Sulfur Dioxide NAAQS (Primary)” following the table titled “New Mexico—1971 Sulfur Dioxide NAAQS (Primary and Secondary)” to read as follows:

§ 81.332 New Mexico.

* * * * *

New Mexico—2010 Sulfur Dioxide NAAQS (Primary)
Designated area ¹ | Designation: Date ² | Designation: Type
Bernalillo County |  | Attainment/Unclassifiable.
Catron County |  | Attainment/Unclassifiable.
Chaves County |  | Attainment/Unclassifiable.
Cibola County |  | Attainment/Unclassifiable.
Colfax County |  | Attainment/Unclassifiable.
Curry County |  | Attainment/Unclassifiable.
De Baca County |  | Attainment/Unclassifiable.
Dona Ana County |  | Attainment/Unclassifiable.
Eddy County |  | Attainment/Unclassifiable.
Grant County |  | Attainment/Unclassifiable.
Guadalupe County |  | Attainment/Unclassifiable.
Harding County |  | Attainment/Unclassifiable.
Hidalgo County |  | Attainment/Unclassifiable.
Lea County |  | Attainment/Unclassifiable.
Lincoln County |  | Attainment/Unclassifiable.
Los Alamos County |  | Attainment/Unclassifiable.
Luna County |  | Attainment/Unclassifiable.
McKinley County |  | Attainment/Unclassifiable.
Mora County |  | Attainment/Unclassifiable.
Quay County |  | Attainment/Unclassifiable.
Rio Arriba County |  | Attainment/Unclassifiable.
Roosevelt County |  | Attainment/Unclassifiable.
San Juan County |  | Attainment/Unclassifiable.
San Miguel County |  | Attainment/Unclassifiable.
Sandoval County |  | Attainment/Unclassifiable.
Santa Fe County |  | Attainment/Unclassifiable.
Socorro County |  | Attainment/Unclassifiable.
Taos County |  | Attainment/Unclassifiable.
Torrance County |  | Attainment/Unclassifiable.
Union County |  | Attainment/Unclassifiable.
Valencia County |  | Attainment/Unclassifiable.
¹ Includes any Indian country in each county or area, unless otherwise specified. EPA is not determining the boundaries of any area of Indian country in this table, including any area of Indian country located in the larger designation area. The inclusion of any Indian country in the designation area is not a determination that the state has regulatory authority under the Clean Air Act for such Indian country. The lands of the Navajo Nation, including those lands located geographically within New Mexico, are excluded, as they are separately designated under Section 81.303.
² This date is April 9, 2018, unless otherwise noted.

* * * * *

34. Section 81.333 is amended by revising the table entitled “New York—2010 Sulfur Dioxide NAAQS (Primary)” to read as follows:

§ 81.333 New York.

* * * * *

New York—2010 Sulfur Dioxide NAAQS (Primary)
Designated area ¹ ³ | Designation: Date ² | Designation: Type
Monroe County |  | Unclassifiable.
Erie-Niagara, NY | 9/12/16 | Attainment/Unclassifiable.
Erie County
Niagara County
Albany County |  | Attainment/Unclassifiable.
Allegany County |  | Attainment/Unclassifiable.
Broome County |  | Attainment/Unclassifiable.
Bronx County |  | Attainment/Unclassifiable.
Cattaraugus County |  | Attainment/Unclassifiable.
Chautauqua County |  | Attainment/Unclassifiable.
Chemung County |  | Attainment/Unclassifiable.
Chenango County |  | Attainment/Unclassifiable.
Clinton County |  | Attainment/Unclassifiable.
Columbia County |  | Attainment/Unclassifiable.
Cortland County |  | Attainment/Unclassifiable.
Delaware County |  | Attainment/Unclassifiable.
Dutchess County |  | Attainment/Unclassifiable.
Essex County |  | Attainment/Unclassifiable.
Franklin County |  | Attainment/Unclassifiable.
Fulton County |  | Attainment/Unclassifiable.
Genesee County |  | Attainment/Unclassifiable.
Greene County |  | Attainment/Unclassifiable.
Hamilton County |  | Attainment/Unclassifiable.
Herkimer County |  | Attainment/Unclassifiable.
Jefferson County |  | Attainment/Unclassifiable.
Kings County |  | Attainment/Unclassifiable.
Lewis County |  | Attainment/Unclassifiable.
Livingston County |  | Attainment/Unclassifiable.
Madison County |  | Attainment/Unclassifiable.
Montgomery County |  | Attainment/Unclassifiable.
Nassau County |  | Attainment/Unclassifiable.
New York County |  | Attainment/Unclassifiable.
Oneida County |  | Attainment/Unclassifiable.
Onondaga County |  | Attainment/Unclassifiable.
Ontario County |  | Attainment/Unclassifiable.
Orange County |  | Attainment/Unclassifiable.
Orleans County |  | Attainment/Unclassifiable.
Oswego County |  | Attainment/Unclassifiable.
Otsego County |  | Attainment/Unclassifiable.
Putnam County |  | Attainment/Unclassifiable.
Queens County |  | Attainment/Unclassifiable.
Rensselaer County |  | Attainment/Unclassifiable.
Richmond County |  | Attainment/Unclassifiable.
Rockland County |  | Attainment/Unclassifiable.
Saratoga County |  | Attainment/Unclassifiable.
Schenectady County |  | Attainment/Unclassifiable.
Schoharie County |  | Attainment/Unclassifiable.
Schuyler County |  | Attainment/Unclassifiable.
Steuben County |  | Attainment/Unclassifiable.
Suffolk County |  | Attainment/Unclassifiable.
Sullivan County |  | Attainment/Unclassifiable.
Tioga County |  | Attainment/Unclassifiable.
Ulster County |  | Attainment/Unclassifiable.
Warren County |  | Attainment/Unclassifiable.
Washington County |  | Attainment/Unclassifiable.
Wayne County |  | Attainment/Unclassifiable.
Westchester County |  | Attainment/Unclassifiable.
Wyoming County |  | Attainment/Unclassifiable.
Yates County |  | Attainment/Unclassifiable.
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is April 9, 2018, unless otherwise noted.
³ Cayuga, St. Lawrence, Seneca, and Tompkins Counties will be designated by December 31, 2020.

* * * * *

35. Section 81.334 is amended by revising the table entitled “North Carolina—2010 Sulfur Dioxide NAAQS (Primary)” to read as follows:

§ 81.334 North Carolina.

* * * * *

North Carolina—2010 Sulfur Dioxide NAAQS (Primary)
Designated area | Designation: Date ¹ | Designation: Type
Brunswick County, NC ² | 9/12/16 | Unclassifiable.
Brunswick County
Lockwood Folly Township, Northwest Township, Shallotte Township, Smithville Township, Town Creek Township, Waccamaw Township
Rest of State: ³
Alamance County |  | Attainment/Unclassifiable.
Each Individual Township
Alexander County |  | Attainment/Unclassifiable.
Each Individual Township
Alleghany County |  | Attainment/Unclassifiable.
Each Individual Township
Anson County |  | Attainment/Unclassifiable.
Each Individual Township
Ashe County |  | Attainment/Unclassifiable.
Each Individual Township
Avery County |  | Attainment/Unclassifiable.
Each Individual Township
Beaufort County |  | Attainment/Unclassifiable.
Each Individual Township
Bertie County |  | Attainment/Unclassifiable.
Each Individual Township
Bladen County |  | Attainment/Unclassifiable.
Each Individual Township
Buncombe County (part) ⁴ |  | Attainment/Unclassifiable.
All Townships except Limestone Township
Burke County |  | Attainment/Unclassifiable.
Each Individual Township
Cabarrus County |  | Attainment/Unclassifiable.
Each Individual Township
Caldwell County |  | Attainment/Unclassifiable.
Each Individual Township
Camden County |  | Attainment/Unclassifiable.
Each Individual Township
Carteret County |  | Attainment/Unclassifiable.
Each Individual Township
Caswell County |  | Attainment/Unclassifiable.
Each Individual Township
Catawba County |  | Attainment/Unclassifiable.
Each Individual Township
Chatham County |  | Attainment/Unclassifiable.
Each Individual Township
Cherokee County |  | Attainment/Unclassifiable.
Each Individual Township
Chowan County |  | Attainment/Unclassifiable.
Each Individual Township
Clay County |  | Attainment/Unclassifiable.
Each Individual Township
Cleveland County |  | Attainment/Unclassifiable.
Each Individual Township
Columbus County |  | Attainment/Unclassifiable.
Each Individual Township
Craven County |  | Attainment/Unclassifiable.
Each Individual Township
Cumberland County |  | Attainment/Unclassifiable.
Each Individual Township
Currituck County |  | Attainment/Unclassifiable.
Each Individual Township
Dare County |  | Attainment/Unclassifiable.
Each Individual Township
Davidson County |  | Attainment/Unclassifiable.
Each Individual Township
Davie County |  | Attainment/Unclassifiable.
Each Individual Township
Duplin County |  | Attainment/Unclassifiable.
Each Individual Township
Durham County |  | Attainment/Unclassifiable.
Each Individual Township
Edgecombe County |  | Attainment/Unclassifiable.
Each Individual Township
Forsyth County |  | Attainment/Unclassifiable.
Each Individual Township
Franklin County |  | Attainment/Unclassifiable.
Each Individual Township
Gaston County |  | Attainment/Unclassifiable.
Each Individual Township
Gates County |  | Attainment/Unclassifiable.
Each Individual Township
Graham County |  | Attainment/Unclassifiable.
Each Individual Township
Granville County |  | Attainment/Unclassifiable.
Each Individual Township
Greene County |  | Attainment/Unclassifiable.
Each Individual Township
Guilford County |  | Attainment/Unclassifiable.
Each Individual Township
Halifax County |  | Attainment/Unclassifiable.
Each Individual Township
Harnett County |  | Attainment/Unclassifiable.
Each Individual Township
Haywood County (part) ⁴ |  | Attainment/Unclassifiable.
All Townships except Beaverdam Township
Henderson County |  | Attainment/Unclassifiable.
Each Individual Township
Hertford County |  | Attainment/Unclassifiable.
Each Individual Township
Hoke County |  | Attainment/Unclassifiable.
Each Individual Township
Hyde County |  | Attainment/Unclassifiable.
Each Individual Township
Iredell County |  | Attainment/Unclassifiable.
Each Individual Township
Jackson County |  | Attainment/Unclassifiable.
Each Individual Township
Johnston County |  | Attainment/Unclassifiable.
Each Individual Township
Jones County |  | Attainment/Unclassifiable.
Each Individual Township
Lee County |  | Attainment/Unclassifiable.
Each Individual Township
Lenoir County |  | Attainment/Unclassifiable.
Each Individual Township
Lincoln County |  | Attainment/Unclassifiable.
Each Individual Township
McDowell County |  | Attainment/Unclassifiable.
Each Individual Township
Macon County |  | Attainment/Unclassifiable.
Each Individual Township
Madison County |  | Attainment/Unclassifiable.
Each Individual Township
Martin County |  | Attainment/Unclassifiable.
Each Individual Township
Mecklenburg County |  | Attainment/Unclassifiable.
Each Individual Township
Mitchell County |  | Attainment/Unclassifiable.
Each Individual Township
Montgomery County |  | Attainment/Unclassifiable.
Each Individual Township
Moore County |  | Attainment/Unclassifiable.
Each Individual Township
Nash County |  | Attainment/Unclassifiable.
Each Individual Township
New Hanover County |  | Attainment/Unclassifiable.
Each Individual Township
Northampton County |  | Attainment/Unclassifiable.
Each Individual Township
Onslow County |  | Attainment/Unclassifiable.
Each Individual Township
Orange County |  | Attainment/Unclassifiable.
Each Individual Township
Pamlico County |  | Attainment/Unclassifiable.
Each Individual Township
Pasquotank County |  | Attainment/Unclassifiable.
Each Individual Township
Pender County |  | Attainment/Unclassifiable.
Each Individual Township
Perquimans County |  | Attainment/Unclassifiable.
Each Individual Township
Person County (part) ⁴ |  | Attainment/Unclassifiable.
All Townships except Cunningham Township
Pitt County |  | Attainment/Unclassifiable.
Each Individual Township
Polk County |  | Attainment/Unclassifiable.
Each Individual Township
Randolph County |  | Attainment/Unclassifiable.
Each Individual Township
Richmond County |  | Attainment/Unclassifiable.
Each Individual Township
Robeson County |  | Attainment/Unclassifiable.
Each Individual Township
Rockingham County |  | Attainment/Unclassifiable.
Each Individual Township
Rowan County |  | Attainment/Unclassifiable.
Each Individual Township
Rutherford County |  | Attainment/Unclassifiable.
Each Individual Township
Sampson County |  | Attainment/Unclassifiable.
Each Individual Township
Scotland County |  | Attainment/Unclassifiable.
Each Individual Township
Stanly County |  | Attainment/Unclassifiable.
Each Individual Township
Stokes County |  | Attainment/Unclassifiable.
Each Individual Township
Surry County |  | Attainment/Unclassifiable.
Each Individual Township
Swain County |  | Attainment/Unclassifiable.
Each Individual Township
Transylvania County |  | Attainment/Unclassifiable.
Each Individual Township
Tyrrell County |  | Attainment/Unclassifiable.
Each Individual Township
Union County |  | Attainment/Unclassifiable.
Each Individual Township
Vance County |  | Attainment/Unclassifiable.
Each Individual Township
Wake County |  | Attainment/Unclassifiable.
Each Individual Township
Warren County |  | Attainment/Unclassifiable.
Each Individual Township
Washington County |  | Attainment/Unclassifiable.
Each Individual Township
Watauga County |  | Attainment/Unclassifiable.
Each Individual Township
Wayne County |  | Attainment/Unclassifiable.
Each Individual Township
Wilkes County |  | Attainment/Unclassifiable.
Each Individual Township
Wilson County |  | Attainment/Unclassifiable.
Each Individual Township
Yadkin County |  | Attainment/Unclassifiable.
Each Individual Township
Yancey County |  | Attainment/Unclassifiable.
Each Individual Township
¹ This date is April 9, 2018, unless otherwise noted.
² Excludes Indian country located in each area, if any, unless otherwise specified.
³ Includes any Indian country in each county or area, unless otherwise specified. EPA is not determining the boundaries of any area of Indian country in this table, including any area of Indian country located in the larger designation area. The inclusion of any Indian country in the designation area is not a determination that the state has regulatory authority under the Clean Air Act for such Indian country.
⁴ The remaining portions of Buncombe, Haywood, and Person Counties will be designated by December 31, 2020.

* * * * *

36. Section 81.335 is amended by revising the table entitled “North Dakota—2010 Sulfur Dioxide NAAQS (Primary)” to read as follows:

§ 81.335 North Dakota.

* * * * *

North Dakota—2010 Sulfur Dioxide NAAQS (Primary)
Designated area ¹ | Designation: Date ² | Designation: Type
McLean County/Eastern Mercer County, ND | 9/12/16 | Attainment/Unclassifiable.
McLean County
Mercer County (part)
Area east of CR-37/ND 31, east/north of ND 200 ALT, west of the eastern border of Mercer County/Missouri River, south of the Knife River National Historic Site.
Central Mercer County, ND | 9/12/16 | Attainment/Unclassifiable.
Mercer County (part)
Area west of ND 49/61st Ave SW, north of Co. Rd 15/17th St. SW, east of Co. Rd 13, south and east of the town Zap, south of 8th St. SW/ND 200
Rest of State: ³ |  | Attainment/Unclassifiable.
Adams County
Barnes County
Benson County
Billings County
Bottineau County
Bowman County
Burke County
Burleigh County
Cass County
Cavalier County
Dickey County
Divide County
Dunn County
Eddy County
Emmons County
Foster County
Golden Valley County
Grand Forks County
Grant County
Griggs County
Hettinger County
Kidder County
LaMoure County
Logan County
McHenry County
McIntosh County
McKenzie County
Mercer County (part) (remainder)
Morton County
Mountrail County
Nelson County
Oliver County
Pembina County
Pierce County
Ramsey County
Ransom County
Renville County
Richland County
Rolette County
Sargent County
Sheridan County
Sioux County
Slope County
Stark County
Steele County
Stutsman County
Towner County
Traill County
Walsh County
Ward County
Wells County
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is April 9, 2018, unless otherwise noted.
³ Williams County will be designated by December 31, 2020.

* * * * *

37. Section 81.336 is amended by revising the table entitled “Ohio—2010 Sulfur Dioxide NAAQS (Primary)” to read as follows:

§ 81.336 Ohio.

* * * * *

Ohio—2010 Sulfur Dioxide NAAQS (Primary)
Designated area ¹ | Designation: Date ² | Designation: Type
Campbell-Clermont Counties, KY-OH | 11/21/16 | Attainment.
Clermont County (part)
Pierce Township
Lake County, OH | 10/4/13 | Nonattainment.
Lake County
Muskingum River, OH | 10/4/13 | Nonattainment.
Morgan County (part)
Center Township
Washington County (part)
Waterford Township
Steubenville, OH-WV | 10/4/13 | Nonattainment.
Jefferson County (part)
Cross Creek Township, Steubenville Township, Warren Township, Wells Township, Steubenville City
Gallia County, OH | 9/12/16 | Unclassifiable.
Gallia County
Meigs County (part)
Bedford, Columbia, Rutland, Salem, Salisbury, and Scipio Townships
Clermont County, Ohio ² | 9/12/16 | Attainment/Unclassifiable.
Clermont County (part)
Clermont County excluding Pierce Township
Adams County |  | Attainment/Unclassifiable.
Allen County |  | Attainment/Unclassifiable.
Ashland County |  | Attainment/Unclassifiable.
Ashtabula County |  | Attainment/Unclassifiable.
Athens County |  | Attainment/Unclassifiable.
Auglaize County |  | Attainment/Unclassifiable.
Belmont County |  | Attainment/Unclassifiable.
Brown County |  | Attainment/Unclassifiable.
Butler County |  | Attainment/Unclassifiable
Carroll County |  | Attainment/Unclassifiable.
Champaign County |  | Attainment/Unclassifiable.
Clark County |  | Attainment/Unclassifiable.
Clinton County |  | Attainment/Unclassifiable.
Columbiana County |  | Attainment/Unclassifiable.
Coshocton County |  | Attainment/Unclassifiable.
Crawford County |  | Attainment/Unclassifiable.
Cuyahoga County |  | Attainment/Unclassifiable.
Darke County |  | Attainment/Unclassifiable.
Defiance County |  | Attainment/Unclassifiable.
Delaware County |  | Attainment/Unclassifiable.
Erie County |  | Attainment/Unclassifiable.
Fairfield County |  | Attainment/Unclassifiable.
Fayette County |  | Attainment/Unclassifiable.
Franklin County |  | Attainment/Unclassifiable.
Fulton County |  | Attainment/Unclassifiable.
Geauga County |  | Attainment/Unclassifiable.
Greene County |  | Attainment/Unclassifiable.
Guernsey County |  | Attainment/Unclassifiable.
Hamilton County |  | Attainment/Unclassifiable.
Hancock County |  | Attainment/Unclassifiable.
Hardin County |  | Attainment/Unclassifiable.
Harrison County |  | Attainment/Unclassifiable.
Henry County |  | Attainment/Unclassifiable.
Highland County |  | Attainment/Unclassifiable.
Hocking County |  | Attainment/Unclassifiable.
Holmes County |  | Attainment/Unclassifiable.
Huron County |  | Attainment/Unclassifiable.
Jackson County |  | Attainment/Unclassifiable.
Jefferson County (part) (remainder) |  | Attainment/Unclassifiable.
Knox County |  | Attainment/Unclassifiable.
Lawrence County |  | Attainment/Unclassifiable.
Licking County |  | Attainment/Unclassifiable.
Logan County |  | Attainment/Unclassifiable.
Lorain County |  | Attainment/Unclassifiable.
Lucas County |  | Attainment/Unclassifiable.
Madison County |  | Attainment/Unclassifiable.
Mahoning County |  | Attainment/Unclassifiable.
Marion County |  | Attainment/Unclassifiable.
Medina County |  | Attainment/Unclassifiable.
Meigs County (part) (remainder) |  | Attainment/Unclassifiable.
Mercer County |  | Attainment/Unclassifiable.
Miami County |  | Attainment/Unclassifiable.
Monroe County |  | Attainment/Unclassifiable.
Montgomery County |  | Attainment/Unclassifiable.
Morgan County (part) (remainder) |  | Attainment/Unclassifiable.
Morrow County |  | Attainment/Unclassifiable.
Muskingum County |  | Attainment/Unclassifiable.
Noble County |  | Attainment/Unclassifiable.
Ottawa County |  | Attainment/Unclassifiable.
Paulding County |  | Attainment/Unclassifiable.
Perry County |  | Attainment/Unclassifiable.
Pickaway County |  | Attainment/Unclassifiable.
Pike County |  | Attainment/Unclassifiable.
Portage County |  | Attainment/Unclassifiable.
Preble County |  | Attainment/Unclassifiable.
Putnam County |  | Attainment/Unclassifiable.
Richland County |  | Attainment/Unclassifiable.
Ross County |  | Attainment/Unclassifiable.
Sandusky County |  | Attainment/Unclassifiable.
Scioto County |  | Attainment/Unclassifiable.
Seneca County |  | Attainment/Unclassifiable.
Shelby County |  | Attainment/Unclassifiable.
Stark County |  | Attainment/Unclassifiable.
Summit County |  | Attainment/Unclassifiable.
Trumbull County |  | Attainment/Unclassifiable.
Tuscarawas County |  | Attainment/Unclassifiable.
Union County |  | Attainment/Unclassifiable.
Van Wert County |  | Attainment/Unclassifiable.
Vinton County |  | Attainment/Unclassifiable.
Warren County |  | Attainment/Unclassifiable.
Washington County (part) (remainder) |  | Attainment/Unclassifiable.
Wayne County |  | Attainment/Unclassifiable.
Williams County |  | Attainment/Unclassifiable.
Wood County |  | Attainment/Unclassifiable.
Wyandot County |  | Attainment/Unclassifiable.
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is April 9, 2018, unless otherwise noted.

* * * * *

38. Section 81.337 is amended by revising the table entitled “Oklahoma—2010 Sulfur Dioxide NAAQS (Primary)” to read as follows:

§ 81.337 Oklahoma.

* * * * *

Oklahoma—2010 Sulfur Dioxide NAAQS (Primary)
Designated area 1 3 | Designation: Date ² | Designation: Type
Adair County |  | Attainment/Unclassifiable.
Alfalfa County |  | Attainment/Unclassifiable.
Atoka County |  | Attainment/Unclassifiable.
Beaver County |  | Attainment/Unclassifiable.
Beckham County |  | Attainment/Unclassifiable.
Blaine County |  | Attainment/Unclassifiable.
Bryan County |  | Attainment/Unclassifiable.
Caddo County |  | Attainment/Unclassifiable.
Canadian County |  | Attainment/Unclassifiable.
Carter County |  | Attainment/Unclassifiable.
Cherokee County |  | Attainment/Unclassifiable.
Choctaw County | 9/12/16 | Attainment/Unclassifiable.
Cimarron County |  | Attainment/Unclassifiable.
Cleveland County |  | Attainment/Unclassifiable.
Coal County |  | Attainment/Unclassifiable.
Comanche County |  | Attainment/Unclassifiable.
Cotton County |  | Attainment/Unclassifiable.
Craig County |  | Attainment/Unclassifiable.
Creek County |  | Attainment/Unclassifiable.
Custer County |  | Attainment/Unclassifiable.
Delaware County |  | Attainment/Unclassifiable.
Dewey County |  | Attainment/Unclassifiable.
Ellis County |  | Attainment/Unclassifiable.
Garvin County |  | Attainment/Unclassifiable.
Grady County |  | Attainment/Unclassifiable.
Grant County |  | Attainment/Unclassifiable.
Greer County |  | Attainment/Unclassifiable.
Harmon County |  | Attainment/Unclassifiable.
Harper County |  | Attainment/Unclassifiable.
Haskell County |  | Attainment/Unclassifiable.
Hughes County |  | Attainment/Unclassifiable.
Jackson County |  | Attainment/Unclassifiable.
Jefferson County |  | Attainment/Unclassifiable.
Johnston County |  | Attainment/Unclassifiable.
Kay County |  | Attainment/Unclassifiable.
Kingfisher County |  | Attainment/Unclassifiable.
Kiowa County |  | Attainment/Unclassifiable.
Latimer County |  | Attainment/Unclassifiable.
Le Flore County |  | Attainment/Unclassifiable.
Lincoln County |  | Attainment/Unclassifiable.
Logan County |  | Attainment/Unclassifiable.
Love County |  | Attainment/Unclassifiable.
McClain County |  | Attainment/Unclassifiable.
McCurtain County |  | Attainment/Unclassifiable.
McIntosh County |  | Attainment/Unclassifiable.
Major County |  | Attainment/Unclassifiable.
Marshall County |  | Attainment/Unclassifiable.
Murray County |  | Attainment/Unclassifiable.
Noble County | 9/12/16 | Attainment/Unclassifiable.
Nowata County |  | Attainment/Unclassifiable.
Okfuskee County |  | Attainment/Unclassifiable.
Oklahoma County |  | Attainment/Unclassifiable.
Okmulgee County |  | Attainment/Unclassifiable.
Osage County |  | Attainment/Unclassifiable.
Ottawa County |  | Attainment/Unclassifiable.
Pawnee County |  | Attainment/Unclassifiable.
Payne County |  | Attainment/Unclassifiable.
Pittsburg County |  | Attainment/Unclassifiable.
Pontotoc County |  | Attainment/Unclassifiable.
Pottawatomie County |  | Attainment/Unclassifiable.
Pushmataha County |  | Attainment/Unclassifiable.
Roger Mills County |  | Attainment/Unclassifiable.
Rogers County |  | Attainment/Unclassifiable.
Seminole County |  | Attainment/Unclassifiable.
Sequoyah County |  | Attainment/Unclassifiable.
Stephens County |  | Attainment/Unclassifiable.
Texas County |  | Attainment/Unclassifiable.
Tillman County |  | Attainment/Unclassifiable.
Tulsa County |  | Attainment/Unclassifiable.
Wagoner County |  | Attainment/Unclassifiable.
Washington County |  | Attainment/Unclassifiable.
Washita County |  | Attainment/Unclassifiable.
Woods County |  | Attainment/Unclassifiable.
Woodward County |  | Attainment/Unclassifiable.
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is April 9, 2018, unless otherwise noted.
³ Garfield and Mayes Counties will be designated by December 31, 2020.

* * * * *

39. Section 81.338 is amended by adding a table titled “Oregon—2010 Sulfur Dioxide NAAQS (Primary)” following the table titled “Oregon—1971 Sulfur Dioxide NAAQS (Primary and Secondary)” to read as follows:

§ 81.338 Oregon.

* * * * *

Oregon—2010 Sulfur Dioxide NAAQS (Primary)
Designated area ¹ | Designation: Date ² | Designation: Type
Entire State |  | Attainment/Unclassifiable.
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is April 9, 2018, unless otherwise noted.

* * * * *

40. Section 81.339 is amended by revising the table entitled “Pennsylvania—2010 Sulfur Dioxide NAAQS (Primary)” to read as follows:

§ 81.339 Pennsylvania.

* * * * *

Pennsylvania—2010 Sulfur Dioxide NAAQS (Primary)
Designated area 1 3 | Designation: Date ² | Designation: Type
Allegheny, PA
Allegheny County (part) | 10/4/13 | Nonattainment.
The area consisting of: Borough of Braddock Borough of Dravosburg Borough of East McKeesport Borough of East Pittsburgh Borough of Elizabeth Borough of Glassport Borough of Jefferson Hills Borough of Liberty Borough of Lincoln Borough of North Braddock Borough of Pleasant Hills Borough of Port Vue Borough of Versailles Borough of Wall Borough of West Elizabeth Borough of West Mifflin City of Clairton City of Duquesne City of McKeesport Elizabeth Township Forward Township North Versailles Township
Beaver, PA
Beaver County (part) | 10/4/13 | Nonattainment.
Area consisting of Industry Borough, Shippingport Borough, Midland Borough, Brighton Township, Potter Township and Vanport Township
Indiana, PA | 10/4/13 | Nonattainment.
Indiana County
Armstrong County (part)
Area consisting of Plumcreek Township, South Bend Township, and Elderton Borough
Warren, PA
Warren County (part) | 10/4/13 | Nonattainment.
Area consisting of Conewango Township, Glade Township, Pleasant Township, and the City of Warren
Allegheny (part) |  | Unclassifiable.
Remainder of County
Cambria County |  | Unclassifiable.
Carbon-Schuylkill Area |  | Unclassifiable.
Carbon County
Schuylkill County
Clearfield County |  | Unclassifiable.
Lawrence County |  | Unclassifiable.
Lehigh-Northampton Area |  | Unclassifiable.
Lehigh County
Northampton County
Adams County |  | Attainment/Unclassifiable.
Armstrong County (part) |  | Attainment/Unclassifiable.
Remainder of County
Beaver County (part) |  | Attainment/Unclassifiable.
Remainder of County
Bedford County |  | Attainment/Unclassifiable.
Berks County |  | Attainment/Unclassifiable.
Blair County |  | Attainment/Unclassifiable.
Bradford County |  | Attainment/Unclassifiable.
Bucks County |  | Attainment/Unclassifiable.
Butler County |  | Attainment/Unclassifiable.
Cameron County |  | Attainment/Unclassifiable.
Centre County |  | Attainment/Unclassifiable.
Chester County |  | Attainment/Unclassifiable.
Clarion County |  | Attainment/Unclassifiable.
Clinton County |  | Attainment/Unclassifiable.
Columbia County |  | Attainment/Unclassifiable.
Crawford County |  | Attainment/Unclassifiable.
Cumberland County |  | Attainment/Unclassifiable.
Dauphin County |  | Attainment/Unclassifiable.
Elk County |  | Attainment/Unclassifiable.
Erie County |  | Attainment/Unclassifiable.
Fayette County |  | Attainment/Unclassifiable.
Forest County |  | Attainment/Unclassifiable.
Franklin County |  | Attainment/Unclassifiable.
Fulton County |  | Attainment/Unclassifiable.
Greene County |  | Attainment/Unclassifiable.
Huntingdon County |  | Attainment/Unclassifiable.
Jefferson County |  | Attainment/Unclassifiable.
Juniata County |  | Attainment/Unclassifiable.
Lackawanna County |  | Attainment/Unclassifiable.
Lancaster County |  | Attainment/Unclassifiable.
Lebanon County |  | Attainment/Unclassifiable.
Luzerne County |  | Attainment/Unclassifiable.
Lycoming County |  | Attainment/Unclassifiable.
McKean County |  | Attainment/Unclassifiable.
Mercer County |  | Attainment/Unclassifiable.
Mifflin County |  | Attainment/Unclassifiable.
Monroe County |  | Attainment/Unclassifiable.
Montgomery County |  | Attainment/Unclassifiable.
Montour County |  | Attainment/Unclassifiable.
Northumberland County |  | Attainment/Unclassifiable.
Perry County |  | Attainment/Unclassifiable.
Philadelphia-Delaware |  | Attainment/Unclassifiable.
Delaware County
Philadelphia County
Pike County |  | Attainment/Unclassifiable.
Potter County |  | Attainment/Unclassifiable.
Snyder County |  | Attainment/Unclassifiable.
Somerset County |  | Attainment/Unclassifiable.
Sullivan County |  | Attainment/Unclassifiable.
Susquehanna County |  | Attainment/Unclassifiable.
Tioga County |  | Attainment/Unclassifiable.
Union County |  | Attainment/Unclassifiable.
Venango County |  | Attainment/Unclassifiable.
Warren County (part) |  | Attainment/Unclassifiable.
Remainder of County
Washington County |  | Attainment/Unclassifiable.
Wayne County |  | Attainment/Unclassifiable.
Westmoreland County |  | Attainment/Unclassifiable.
Wyoming County |  | Attainment/Unclassifiable.
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is April 9, 2018, unless otherwise noted.
³ York County will be designated by December 31, 2020.

* * * * *

41. Section 81.340 is amended by adding a table titled “Rhode Island —2010 Sulfur Dioxide NAAQS (Primary)” following the table titled “Rhode Island —1971 Sulfur Dioxide NAAQS (Primary and Secondary)” to read as follows:

§ 81.340 Rhode Island.

* * * * *

Rhode Island—2010 Sulfur Dioxide NAAQS (Primary)
Designated area ¹ | Designation: Date ² | Designation: Type
State of Rhode Island |  | Attainment/Unclassifiable.
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is April 9, 2018, unless otherwise noted.

* * * * *

42. Section 81.341 is amended by adding a new table titled “South Carolina—2010 Sulfur Dioxide NAAQS (Primary)” following the table titled “South Carolina—1971 Sulfur Dioxide NAAQS (Primary and Secondary)” to read as follows:

§ 81.341 South Carolina.

* * * * *

South Carolina—2010 Sulfur Dioxide NAAQS (Primary)
Designated area ¹ | Designation: Date ² | Designation: Type
Abbeville County |  | Attainment/Unclassifiable.
Aiken County |  | Attainment/Unclassifiable.
Allendale County |  | Attainment/Unclassifiable.
Anderson County |  | Attainment/Unclassifiable.
Bamberg County |  | Attainment/Unclassifiable.
Barnwell County |  | Attainment/Unclassifiable.
Beaufort County |  | Attainment/Unclassifiable.
Berkeley County |  | Attainment/Unclassifiable.
Calhoun County |  | Attainment/Unclassifiable.
Charleston County |  | Attainment/Unclassifiable.
Cherokee County |  | Attainment/Unclassifiable.
Chester County |  | Attainment/Unclassifiable.
Chesterfield County |  | Attainment/Unclassifiable.
Clarendon County |  | Attainment/Unclassifiable.
Colleton County |  | Attainment/Unclassifiable.
Darlington County |  | Attainment/Unclassifiable.
Dillon County |  | Attainment/Unclassifiable.
Dorchester County |  | Attainment/Unclassifiable.
Edgefield County |  | Attainment/Unclassifiable.
Fairfield County |  | Attainment/Unclassifiable.
Florence County |  | Attainment/Unclassifiable.
Georgetown County |  | Attainment/Unclassifiable.
Greenville County |  | Attainment/Unclassifiable.
Greenwood County |  | Attainment/Unclassifiable.
Hampton County |  | Attainment/Unclassifiable.
Horry County |  | Attainment/Unclassifiable.
Jasper County |  | Attainment/Unclassifiable.
Kershaw County |  | Attainment/Unclassifiable.
Lancaster County |  | Attainment/Unclassifiable.
Laurens County |  | Attainment/Unclassifiable.
Lee County |  | Attainment/Unclassifiable.
Lexington County |  | Attainment/Unclassifiable.
Marion County |  | Attainment/Unclassifiable.
Marlboro County |  | Attainment/Unclassifiable.
McCormick County |  | Attainment/Unclassifiable.
Newberry County |  | Attainment/Unclassifiable.
Oconee County |  | Attainment/Unclassifiable.
Orangeburg County |  | Attainment/Unclassifiable.
Pickens County |  | Attainment/Unclassifiable.
Richland County |  | Attainment/Unclassifiable.
Saluda County |  | Attainment/Unclassifiable.
Spartanburg County |  | Attainment/Unclassifiable.
Sumter County |  | Attainment/Unclassifiable.
Union County |  | Attainment/Unclassifiable.
Williamsburg County |  | Attainment/Unclassifiable.
York County |  | Attainment/Unclassifiable.
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is April 9, 2018, unless otherwise noted.

* * * * *

43. Section 81.342 is amended by revising the table entitled “South Dakota—2010 Sulfur Dioxide NAAQS (Primary)” to read as follows:

§ 81.342 South Dakota.

* * * * *

South Dakota—2010 Sulfur Dioxide NAAQS (Primary)
Designated area ¹ | Designation: Date ² | Designation: Type
Statewide: |  | Attainment/Unclassifiable.
Aurora County
Beadle County
Bennett County
Bon Homme County
Brookings County
Brown County
Brule County
Buffalo County
Butte County
Campbell County
Charles Mix County
Clark County
Clay County
Codington County
Corson County
Custer County
Davison County
Day County
Deuel County
Dewey County
Douglas County
Edmunds County
Fall River County
Faulk County
Grant County | 9/12/16 | Attainment/Unclassifiable.
Gregory County
Haakon County
Hamlin County
Hand County
Hanson County
Harding County
Hughes County
Hutchinson County
Hyde County
Jackson County
Jerauld County
Jones County
Kingsbury County
Lake County
Lawrence County
Lincoln County
Lyman County
McCook County
McPherson County
Marshall County
Meade County
Mellette County
Miner County
Minnehaha County
Moody County
Oglala Lakota County
Pennington County
Perkins County
Potter County
Roberts County
Sanborn County
Spink County
Stanley County
Sully County
Todd County
Tripp County
Turner County
Union County
Walworth County
Yankton County
Ziebach County
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is April 9, 2018, unless otherwise noted.

* * * * *

44. Section 81.343 is amended by revising the table entitled “Tennessee—2010 Sulfur Dioxide NAAQS (Primary)” to read as follows:

§ 81.343 Tennessee.

* * * * *

Tennessee—2010 Sulfur Dioxide NAAQS (Primary)
Designated area | Designation: Date ¹ | Designation: Type
Sullivan County, TN ² | 10/4/13 | Nonattainment.
Sullivan County (part)
That portion of Sullivan County encompassing a circle having its center at the B-253 power house coordinates 36.5186 N; 82.5350 W and having a 3-kilometer radius
Sumner County, TN ² | 9/12/16 | Unclassifiable.
Sumner County
Rest of State: ³
Anderson County |  | Attainment/Unclassifiable.
Bedford County |  | Attainment/Unclassifiable.
Benton County |  | Attainment/Unclassifiable.
Bledsoe County |  | Attainment/Unclassifiable.
Blount County |  | Attainment/Unclassifiable.
Bradley County |  | Attainment/Unclassifiable.
Campbell County |  | Attainment/Unclassifiable.
Cannon County |  | Attainment/Unclassifiable.
Carroll County |  | Attainment/Unclassifiable.
Carter County |  | Attainment/Unclassifiable.
Cheatham County |  | Attainment/Unclassifiable.
Chester County |  | Attainment/Unclassifiable.
Claiborne County |  | Attainment/Unclassifiable.
Clay County |  | Attainment/Unclassifiable.
Cocke County |  | Attainment/Unclassifiable.
Coffee County |  | Attainment/Unclassifiable.
Crockett County |  | Attainment/Unclassifiable.
Cumberland County |  | Attainment/Unclassifiable.
Davidson County |  | Attainment/Unclassifiable.
Decatur County |  | Attainment/Unclassifiable.
DeKalb County |  | Attainment/Unclassifiable.
Dickson County |  | Attainment/Unclassifiable.
Dyer County |  | Attainment/Unclassifiable.
Fayette County |  | Attainment/Unclassifiable.
Fentress County |  | Attainment/Unclassifiable.
Franklin County |  | Attainment/Unclassifiable.
Gibson County |  | Attainment/Unclassifiable.
Giles County |  | Attainment/Unclassifiable.
Grainger County |  | Attainment/Unclassifiable.
Greene County |  | Attainment/Unclassifiable.
Grundy County |  | Attainment/Unclassifiable.
Hamblen County |  | Attainment/Unclassifiable.
Hamilton County |  | Attainment/Unclassifiable.
Hancock County |  | Attainment/Unclassifiable.
Hardeman County |  | Attainment/Unclassifiable.
Hardin County |  | Attainment/Unclassifiable.
Hawkins County |  | Attainment/Unclassifiable.
Haywood County |  | Attainment/Unclassifiable.
Henderson County |  | Attainment/Unclassifiable.
Henry County |  | Attainment/Unclassifiable.
Hickman County |  | Attainment/Unclassifiable.
Houston County |  | Attainment/Unclassifiable.
Humphreys County |  | Attainment/Unclassifiable.
Jackson County |  | Attainment/Unclassifiable.
Jefferson County |  | Attainment/Unclassifiable.
Johnson County |  | Attainment/Unclassifiable.
Knox County |  | Attainment/Unclassifiable.
Lake County |  | Attainment/Unclassifiable.
Lauderdale County |  | Attainment/Unclassifiable.
Lawrence County |  | Attainment/Unclassifiable.
Lewis County |  | Attainment/Unclassifiable.
Lincoln County |  | Attainment/Unclassifiable.
Loudon County |  | Attainment/Unclassifiable.
Macon County |  | Attainment/Unclassifiable.
Madison County |  | Attainment/Unclassifiable.
Marion County |  | Attainment/Unclassifiable.
Marshall County |  | Attainment/Unclassifiable.
Maury County |  | Attainment/Unclassifiable.
McMinn County |  | Attainment/Unclassifiable.
McNairy County |  | Attainment/Unclassifiable.
Meigs County |  | Attainment/Unclassifiable.
Monroe County |  | Attainment/Unclassifiable.
Montgomery County |  | Attainment/Unclassifiable.
Moore County |  | Attainment/Unclassifiable.
Morgan County |  | Attainment/Unclassifiable.
Obion County |  | Attainment/Unclassifiable.
Overton County |  | Attainment/Unclassifiable.
Perry County |  | Attainment/Unclassifiable.
Pickett County |  | Attainment/Unclassifiable.
Polk County |  | Attainment/Unclassifiable.
Putnam County |  | Attainment/Unclassifiable.
Rhea County |  | Attainment/Unclassifiable.
Roane County |  | Attainment/Unclassifiable.
Robertson County |  | Attainment/Unclassifiable.
Rutherford County |  | Attainment/Unclassifiable.
Scott County |  | Attainment/Unclassifiable.
Sequatchie County |  | Attainment/Unclassifiable.
Sevier County |  | Attainment/Unclassifiable.
Shelby County |  | Attainment/Unclassifiable.
Smith County |  | Attainment/Unclassifiable.
Stewart County |  | Attainment/Unclassifiable.
Sullivan County (part) (remainder) |  | Attainment/Unclassifiable.
Tipton County |  | Attainment/Unclassifiable.
Trousdale County |  | Attainment/Unclassifiable.
Unicoi County |  | Attainment/Unclassifiable.
Union County |  | Attainment/Unclassifiable.
Van Buren County |  | Attainment/Unclassifiable.
Warren County |  | Attainment/Unclassifiable.
Washington County |  | Attainment/Unclassifiable.
Wayne County |  | Attainment/Unclassifiable.
Weakley County |  | Attainment/Unclassifiable.
White County |  | Attainment/Unclassifiable.
Williamson County |  | Attainment/Unclassifiable.
Wilson County |  | Attainment/Unclassifiable.
¹ This date is April 9, 2018, unless otherwise noted.
² Excludes Indian country located in each area, if any, unless otherwise specified.
³ Includes any Indian country in each county or area, unless otherwise specified. EPA is not determining the boundaries of any area of Indian country in this table, including any area of Indian country located in the larger designation area. The inclusion of any Indian country in the designation area is not a determination that the state has regulatory authority under the Clean Air Act for such Indian country.

* * * * *

45. Section 81.344 is amended by revising the table entitled “Texas—2010 Sulfur Dioxide NAAQS (Primary)” to read as follows:

§ 81.344 Texas.

* * * * *

Texas—2010 Sulfur Dioxide NAAQS (Primary)
Designated area ¹ ³ | Designation: Date ² | Designation: Type
Freestone and Anderson Counties, TX
Freestone County (part) and Anderson County (part) | 1/12/17 | Nonattainment.
Those portions of Freestone and Anderson Counties encompassed by the rectangle with the vertices using Universal Traverse Mercator (UTM) coordinates in UTM zone 14 with datum NAD83 as follows: (1) Vertices—UTM Easting (m) 766752.69, UTM Northing (m) 3536333.0, (2) vertices—UTM Easting (m) 784752.69, UTM Northing (m) 3536333.0, (3) vertices—UTM Easting (m) 784752.69, UTM Northing (m) 3512333.0, (4) vertices—UTM Easting (m) 766752.69, UTM Northing (m) 3512333.0 |  |
Rusk and Panola Counties, TX |  |
Rusk County (part) and Panola County (part) | 1/12/17 | Nonattainment.
Those portions of Rusk and Panola Counties encompassed by the rectangle with the vertices using Universal Traverse Mercator (UTM) coordinates in UTM zone 15 with datum NAD83 as follows: (1) Vertices—UTM Easting (m) 340067.31, UTM Northing (m) 3575814.75 (2) vertices—UTM Easting (m) 356767.31, UTM Northing (m) 3575814.75 (3) vertices—UTM Easting (m) 356767.31, UTM Northing (m) 3564314.75 (4) vertices—UTM Easting (m) 340067.31, UTM Northing (m) 3564314.75 |  |
Titus County (part) | 1/12/17 | Nonattainment.
That portion of Titus County encompassed by the rectangle with the vertices using Universal Traverse Mercator (UTM) coordinates in UTM zone 15 with datum NAD83 as follows: (1) Vertices—UTM Easting (m) 304329.030, UTM Northing (m) 3666971.0, (2) vertices—UTM Easting (m) 311629.030, UTM Northing (m) 3666971.0, (3) vertices—UTM Easting (m) 311629.03, UTM Northing (m) 3661870.5, (4) vertices—UTM Easting (m) 304329.03, UTM Northing (m) 3661870.5 |  |
Milam County, TX | 1/12/17 | Unclassifiable.
Potter County, TX | 9/12/16 | Unclassifiable.
Anderson County (part) (remainder) |  | Attainment/Unclassifiable.
Andrews County |  | Attainment/Unclassifiable.
Angelina County |  | Attainment/Unclassifiable.
Aransas County |  | Attainment/Unclassifiable.
Archer County |  | Attainment/Unclassifiable.
Armstrong County |  | Attainment/Unclassifiable.
Atascosa County | 9/12/16 | Attainment/Unclassifiable.
Austin County |  | Attainment/Unclassifiable.
Bailey County |  | Attainment/Unclassifiable.
Bandera County |  | Attainment/Unclassifiable.
Bastrop County |  | Attainment/Unclassifiable.
Baylor County |  | Attainment/Unclassifiable.
Bee County |  | Attainment/Unclassifiable.
Bell County |  | Attainment/Unclassifiable.
Blanco County |  | Attainment/Unclassifiable.
Borden County |  | Attainment/Unclassifiable.
Bosque County |  | Attainment/Unclassifiable.
Bowie County |  | Attainment/Unclassifiable.
Brazoria County |  | Attainment/Unclassifiable.
Brazos County |  | Attainment/Unclassifiable.
Brewster County |  | Attainment/Unclassifiable.
Briscoe County |  | Attainment/Unclassifiable.
Brooks County |  | Attainment/Unclassifiable.
Brown County |  | Attainment/Unclassifiable.
Burleson County |  | Attainment/Unclassifiable.
Burnet County |  | Attainment/Unclassifiable.
Caldwell County |  | Attainment/Unclassifiable.
Calhoun County |  | Attainment/Unclassifiable.
Callahan County |  | Attainment/Unclassifiable.
Cameron County |  | Attainment/Unclassifiable.
Camp County |  | Attainment/Unclassifiable.
Carson County |  | Attainment/Unclassifiable.
Cass County |  | Attainment/Unclassifiable.
Castro County |  | Attainment/Unclassifiable.
Chambers County |  | Attainment/Unclassifiable.
Cherokee County |  | Attainment/Unclassifiable.
Childress County |  | Attainment/Unclassifiable.
Clay County |  | Attainment/Unclassifiable.
Cochran County |  | Attainment/Unclassifiable.
Coke County |  | Attainment/Unclassifiable.
Coleman County |  | Attainment/Unclassifiable.
Collin County |  | Attainment/Unclassifiable.
Collingsworth County |  | Attainment/Unclassifiable.
Colorado County |  | Attainment/Unclassifiable.
Comal County |  | Attainment/Unclassifiable.
Comanche County |  | Attainment/Unclassifiable.
Concho County |  | Attainment/Unclassifiable.
Cooke County |  | Attainment/Unclassifiable.
Coryell County |  | Attainment/Unclassifiable.
Cottle County |  | Attainment/Unclassifiable.
Crane County |  | Attainment/Unclassifiable.
Crockett County |  | Attainment/Unclassifiable.
Crosby County |  | Attainment/Unclassifiable.
Culberson County |  | Attainment/Unclassifiable.
Dallam County |  | Attainment/Unclassifiable.
Dallas County |  | Attainment/Unclassifiable.
Dawson County |  | Attainment/Unclassifiable.
Deaf Smith County |  | Attainment/Unclassifiable.
Delta County |  | Attainment/Unclassifiable.
Denton County |  | Attainment/Unclassifiable.
DeWitt County |  | Attainment/Unclassifiable.
Dickens County |  | Attainment/Unclassifiable.
Dimmit County |  | Attainment/Unclassifiable.
Donley County |  | Attainment/Unclassifiable.
Duval County |  | Attainment/Unclassifiable.
Eastland County |  | Attainment/Unclassifiable.
Ector County |  | Attainment/Unclassifiable.
Edwards County |  | Attainment/Unclassifiable.
El Paso County |  | Attainment/Unclassifiable.
Ellis County |  | Attainment/Unclassifiable.
Erath County |  | Attainment/Unclassifiable.
Falls County |  | Attainment/Unclassifiable.
Fannin County |  | Attainment/Unclassifiable.
Fayette County |  | Attainment/Unclassifiable.
Fisher County |  | Attainment/Unclassifiable.
Floyd County |  | Attainment/Unclassifiable.
Foard County |  | Attainment/Unclassifiable.
Fort Bend County | 9/12/16 | Attainment/Unclassifiable.
Franklin County |  | Attainment/Unclassifiable.
Freestone County (part) (remainder) |  | Attainment/Unclassifiable.
Frio County |  | Attainment/Unclassifiable.
Gaines County |  | Attainment/Unclassifiable.
Galveston County |  | Attainment/Unclassifiable.
Garza County |  | Attainment/Unclassifiable.
Gillespie County |  | Attainment/Unclassifiable.
Glasscock County |  | Attainment/Unclassifiable.
Goliad County | 9/12/16 | Attainment/Unclassifiable.
Gonzales County |  | Attainment/Unclassifiable.
Gray County |  | Attainment/Unclassifiable.
Grayson County |  | Attainment/Unclassifiable.
Gregg County |  | Attainment/Unclassifiable.
Grimes County |  | Attainment/Unclassifiable.
Guadalupe County |  | Attainment/Unclassifiable.
Hale County |  | Attainment/Unclassifiable.
Hall County |  | Attainment/Unclassifiable.
Hamilton County |  | Attainment/Unclassifiable.
Hansford County |  | Attainment/Unclassifiable.
Hardeman County |  | Attainment/Unclassifiable.
Hardin County |  | Attainment/Unclassifiable.
Harris County |  | Attainment/Unclassifiable.
Hartley County |  | Attainment/Unclassifiable.
Haskell County |  | Attainment/Unclassifiable.
Hays County |  | Attainment/Unclassifiable.
Hemphill County |  | Attainment/Unclassifiable.
Henderson County |  | Attainment/Unclassifiable.
Hidalgo County |  | Attainment/Unclassifiable.
Hill County |  | Attainment/Unclassifiable.
Hockley County |  | Attainment/Unclassifiable.
Hood County |  | Attainment/Unclassifiable.
Hopkins County |  | Attainment/Unclassifiable.
Houston County |  | Attainment/Unclassifiable.
Hudspeth County |  | Attainment/Unclassifiable.
Hunt County |  | Attainment/Unclassifiable.
Irion County |  | Attainment/Unclassifiable.
Jack County |  | Attainment/Unclassifiable.
Jackson County |  | Attainment/Unclassifiable.
Jasper County |  | Attainment/Unclassifiable.
Jeff Davis County |  | Attainment/Unclassifiable.
Jim Hogg County |  | Attainment/Unclassifiable.
Jim Wells County |  | Attainment/Unclassifiable.
Johnson County |  | Attainment/Unclassifiable.
Jones County |  | Attainment/Unclassifiable.
Karnes County |  | Attainment/Unclassifiable.
Kaufman County |  | Attainment/Unclassifiable.
Kendall County |  | Attainment/Unclassifiable.
Kenedy County |  | Attainment/Unclassifiable.
Kent County |  | Attainment/Unclassifiable.
Kerr County |  | Attainment/Unclassifiable.
Kimble County |  | Attainment/Unclassifiable.
King County |  | Attainment/Unclassifiable.
Kinney County |  | Attainment/Unclassifiable.
Kleberg County |  | Attainment/Unclassifiable.
Knox County |  | Attainment/Unclassifiable.
Lamar County |  | Attainment/Unclassifiable.
Lamb County | 9/12/16 | Attainment/Unclassifiable.
Lampasas County |  | Attainment/Unclassifiable.
La Salle County |  | Attainment/Unclassifiable.
Lavaca County |  | Attainment/Unclassifiable.
Lee County |  | Attainment/Unclassifiable.
Leon County |  | Attainment/Unclassifiable.
Liberty County |  | Attainment/Unclassifiable.
Limestone County | 9/12/16 | Attainment/Unclassifiable.
Lipscomb County |  | Attainment/Unclassifiable.
Live Oak County |  | Attainment/Unclassifiable.
Llano County |  | Attainment/Unclassifiable.
Loving County |  | Attainment/Unclassifiable.
Lubbock County |  | Attainment/Unclassifiable.
Lynn County |  | Attainment/Unclassifiable.
McCulloch County |  | Attainment/Unclassifiable.
McLennan County | 9/12/16 | Attainment/Unclassifiable.
McMullen County |  | Attainment/Unclassifiable.
Madison County |  | Attainment/Unclassifiable.
Marion County |  | Attainment/Unclassifiable.
Martin County |  | Attainment/Unclassifiable.
Mason County |  | Attainment/Unclassifiable.
Matagorda County |  | Attainment/Unclassifiable.
Maverick County |  | Attainment/Unclassifiable.
Medina County |  | Attainment/Unclassifiable.
Menard County |  | Attainment/Unclassifiable.
Midland County |  | Attainment/Unclassifiable.
Mills County |  | Attainment/Unclassifiable.
Mitchell County |  | Attainment/Unclassifiable.
Montague County |  | Attainment/Unclassifiable.
Montgomery County |  | Attainment/Unclassifiable.
Moore County |  | Attainment/Unclassifiable.
Morris County |  | Attainment/Unclassifiable.
Motley County |  | Attainment/Unclassifiable.
Nacogdoches County |  | Attainment/Unclassifiable.
Newton County |  | Attainment/Unclassifiable.
Nolan County |  | Attainment/Unclassifiable.
Nueces County |  | Attainment/Unclassifiable.
Ochiltree County |  | Attainment/Unclassifiable.
Oldham County |  | Attainment/Unclassifiable.
Panola County (part) (remainder) |  | Attainment/Unclassifiable.
Palo Pinto County |  | Attainment/Unclassifiable.
Parker County |  | Attainment/Unclassifiable.
Parmer County |  | Attainment/Unclassifiable.
Pecos County |  | Attainment/Unclassifiable.
Polk County |  | Attainment/Unclassifiable.
Presidio County |  | Attainment/Unclassifiable.
Rains County |  | Attainment/Unclassifiable.
Randall County |  | Attainment/Unclassifiable.
Reagan County |  | Attainment/Unclassifiable.
Real County |  | Attainment/Unclassifiable.
Red River County |  | Attainment/Unclassifiable.
Reeves County |  | Attainment/Unclassifiable.
Refugio County |  | Attainment/Unclassifiable.
Roberts County |  | Attainment/Unclassifiable.
Robertson County | 9/12/16 | Attainment/Unclassifiable.
Rockwall County |  | Attainment/Unclassifiable.
Runnels County |  | Attainment/Unclassifiable.
Rusk County (part) (remainder) |  | Attainment/Unclassifiable.
Sabine County |  | Attainment/Unclassifiable.
San Augustine County |  | Attainment/Unclassifiable.
San Jacinto |  | Attainment/Unclassifiable.
San Patricio County |  | Attainment/Unclassifiable.
San Saba County |  | Attainment/Unclassifiable.
Schleicher County |  | Attainment/Unclassifiable.
Scurry County |  | Attainment/Unclassifiable.
Shackelford County |  | Attainment/Unclassifiable.
Shelby County |  | Attainment/Unclassifiable.
Sherman County |  | Attainment/Unclassifiable.
Smith County |  | Attainment/Unclassifiable.
Somervell County |  | Attainment/Unclassifiable.
Starr County |  | Attainment/Unclassifiable.
Stephens County |  | Attainment/Unclassifiable.
Sterling County |  | Attainment/Unclassifiable.
Stonewall County |  | Attainment/Unclassifiable.
Sutton County |  | Attainment/Unclassifiable.
Swisher County |  | Attainment/Unclassifiable.
Tarrant County |  | Attainment/Unclassifiable.
Taylor County |  | Attainment/Unclassifiable.
Terrell County |  | Attainment/Unclassifiable.
Terry County |  | Attainment/Unclassifiable.
Throckmorton County |  | Attainment/Unclassifiable.
Titus County (part) |  | Attainment/Unclassifiable.
Tom Green County |  | Attainment/Unclassifiable.
Travis County |  | Attainment/Unclassifiable.
Trinity County |  | Attainment/Unclassifiable.
Tyler County |  | Attainment/Unclassifiable.
Upshur County |  | Attainment/Unclassifiable.
Upton County |  | Attainment/Unclassifiable.
Uvalde County |  | Attainment/Unclassifiable.
Val Verde County |  | Attainment/Unclassifiable.
Van Zandt County |  | Attainment/Unclassifiable.
Victoria County |  | Attainment/Unclassifiable.
Walker County |  | Attainment/Unclassifiable.
Waller County |  | Attainment/Unclassifiable.
Ward County |  | Attainment/Unclassifiable.
Washington County |  | Attainment/Unclassifiable.
Webb County |  | Attainment/Unclassifiable.
Wharton County |  | Attainment/Unclassifiable.
Wheeler County |  | Attainment/Unclassifiable.
Wichita County |  | Attainment/Unclassifiable.
Wilbarger County |  | Attainment/Unclassifiable.
Willacy County |  | Attainment/Unclassifiable.
Williamson County |  | Attainment/Unclassifiable.
Wilson County |  | Attainment/Unclassifiable.
Winkler County |  | Attainment/Unclassifiable.
Wise County |  | Attainment/Unclassifiable.
Wood County |  | Attainment/Unclassifiable.
Yoakum County |  | Attainment/Unclassifiable.
Young County |  | Attainment/Unclassifiable.
Zapata County |  | Attainment/Unclassifiable.
Zavala County |  | Attainment/Unclassifiable.
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is April 9, 2018, unless otherwise noted.
³ Bexar, Harrison, Howard, Hutchinson, Jefferson, Navarro, and Orange Counties and the remaining portion of Titus County will be designated by December 31, 2020.

* * * * *

46. Section 81.345 is amended by adding a table titled “Utah—2010 Sulfur Dioxide NAAQS (Primary)” following the table “Utah—1971 Sulfur Dioxide NAAQS (Primary and Secondary)” to read as follows:

§ 81.345 Utah.

* * * * *

Utah—2010 Sulfur Dioxide NAAQS (Primary)
Designated area ¹ | Designation: Date ² | Designation: Type
Statewide:
Beaver County |  | Attainment/Unclassifiable.
Box Elder County |  | Attainment/Unclassifiable.
Cache County |  | Attainment/Unclassifiable.
Carbon County |  | Attainment/Unclassifiable.
Daggett County |  | Attainment/Unclassifiable.
Davis County |  | Attainment/Unclassifiable.
Duchesne County |  | Attainment/Unclassifiable.
Emery County |  | Attainment/Unclassifiable.
Garfield County |  | Attainment/Unclassifiable.
Grand County |  | Attainment/Unclassifiable.
Iron County |  | Attainment/Unclassifiable.
Juab County |  | Attainment/Unclassifiable.
Kane County |  | Attainment/Unclassifiable.
Millard County |  | Attainment/Unclassifiable.
Morgan County |  | Attainment/Unclassifiable.
Piute County |  | Attainment/Unclassifiable.
Rich County |  | Attainment/Unclassifiable.
Salt Lake County |  | Attainment/Unclassifiable.
San Juan County |  | Attainment/Unclassifiable.
Sanpete County |  | Attainment/Unclassifiable.
Sevier County |  | Attainment/Unclassifiable.
Summit County |  | Attainment/Unclassifiable.
Tooele County |  | Attainment/Unclassifiable.
Uintah County |  | Attainment/Unclassifiable.
Utah County |  | Attainment/Unclassifiable.
Wasatch County |  | Attainment/Unclassifiable.
Washington County |  | Attainment/Unclassifiable.
Wayne County |  | Attainment/Unclassifiable.
Weber County |  | Attainment/Unclassifiable.
¹ Includes any Indian country in each county or area, unless otherwise specified. EPA is not determining the boundaries of any area of Indian country in this table, including any area of Indian country located in the larger designation area. The inclusion of any Indian country in the designation area is not a determination that the state has regulatory authority under the Clean Air Act for such Indian country. The lands of the Navajo Nation, including those lands located geographically within Utah, are excluded, as they are separately designated under Section 81.303.
² This date is April 9, 2018, unless otherwise noted.

* * * * *

47. Section 81.346 is amended by adding a table titled “Vermont—2010 Sulfur Dioxide NAAQS (Primary)” following the table “Vermont—1971 Sulfur Dioxide NAAQS (Primary and Secondary)” to read as follows:

§ 81.346 Vermont.

* * * * *

Vermont—2010 Sulfur Dioxide NAAQS (Primary)
Designated area ¹ | Designation: Date ² | Designation: Type
Statewide:
Addison |  | Attainment/Unclassifiable.
Bennington |  | Attainment/Unclassifiable.
Caledonia |  | Attainment/Unclassifiable.
Chittenden |  | Attainment/Unclassifiable.
Essex |  | Attainment/Unclassifiable.
Franklin |  | Attainment/Unclassifiable.
Grand Isle |  | Attainment/Unclassifiable.
Lamoille |  | Attainment/Unclassifiable.
Orange |  | Attainment/Unclassifiable.
Orleans |  | Attainment/Unclassifiable.
Rutland |  | Attainment/Unclassifiable.
Washington |  | Attainment/Unclassifiable.
Windham |  | Attainment/Unclassifiable.
Windsor |  | Attainment/Unclassifiable.
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is April 9, 2018, unless otherwise noted.

* * * * *

48. Section 81.347 is amended by adding a table titled “Virginia—2010 Sulfur Dioxide NAAQS (Primary)” following the table “Virginia—1971 Sulfur Dioxide NAAQS (Primary and Secondary)” to read as follows:

§ 81.347 Virginia.

* * * * *

Virginia—2010 Sulfur Dioxide NAAQS (Primary)
Designated area 1 3 | Designation: Date 2 | Designation: Type
Buchanan County |  | Unclassifiable.
Accomack County |  | Attainment/Unclassifiable.
Albemarle County |  | Attainment/Unclassifiable.
Amelia County |  | Attainment/Unclassifiable.
Amherst County |  | Attainment/Unclassifiable.
Appomattox County |  | Attainment/Unclassifiable.
Arlington County |  | Attainment/Unclassifiable.
Augusta County |  | Attainment/Unclassifiable.
Bath County |  | Attainment/Unclassifiable.
Bedford County |  | Attainment/Unclassifiable.
Bland County |  | Attainment/Unclassifiable.
Brunswick County |  | Attainment/Unclassifiable.
Buckingham County |  | Attainment/Unclassifiable.
Campbell County |  | Attainment/Unclassifiable.
Caroline County |  | Attainment/Unclassifiable.
Carroll County |  | Attainment/Unclassifiable.
Charles City County |  | Attainment/Unclassifiable.
Charlotte County |  | Attainment/Unclassifiable.
Chesterfield County |  | Attainment/Unclassifiable.
City of Alexandria |  | Attainment/Unclassifiable.
City of Bedford |  | Attainment/Unclassifiable.
City of Bristol |  | Attainment/Unclassifiable.
City of Buena Vista |  | Attainment/Unclassifiable.
City of Charlottesville |  | Attainment/Unclassifiable.
City of Chesapeake |  | Attainment/Unclassifiable.
City of Colonial Heights |  | Attainment/Unclassifiable.
City of Danville |  | Attainment/Unclassifiable.
City of Emporia |  | Attainment/Unclassifiable.
City of Fairfax |  | Attainment/Unclassifiable.
City of Falls Church |  | Attainment/Unclassifiable.
City of Franklin |  | Attainment/Unclassifiable.
City of Fredericksburg |  | Attainment/Unclassifiable.
City of Galax |  | Attainment/Unclassifiable.
City of Hampton |  | Attainment/Unclassifiable.
City of Harrisonburg |  | Attainment/Unclassifiable.
City of Hopewell |  | Attainment/Unclassifiable.
City of Lexington |  | Attainment/Unclassifiable.
City of Lynchburg |  | Attainment/Unclassifiable.
City of Manassas |  | Attainment/Unclassifiable.
City of Manassas Park |  | Attainment/Unclassifiable.
City of Martinsville |  | Attainment/Unclassifiable.
City of Newport News |  | Attainment/Unclassifiable.
City of Norfolk |  | Attainment/Unclassifiable.
City of Norton |  | Attainment/Unclassifiable.
City of Petersburg |  | Attainment/Unclassifiable.
City of Poquoson |  | Attainment/Unclassifiable.
City of Portsmouth |  | Attainment/Unclassifiable.
City of Radford |  | Attainment/Unclassifiable.
City of Richmond |  | Attainment/Unclassifiable.
City of Roanoke |  | Attainment/Unclassifiable.
City of Salem |  | Attainment/Unclassifiable.
City of Staunton |  | Attainment/Unclassifiable.
City of Suffolk |  | Attainment/Unclassifiable.
City of Virginia Beach |  | Attainment/Unclassifiable.
City of Waynesboro |  | Attainment/Unclassifiable.
City of Williamsburg |  | Attainment/Unclassifiable.
City of Winchester |  | Attainment/Unclassifiable.
Clarke County |  | Attainment/Unclassifiable.
Craig County |  | Attainment/Unclassifiable.
Culpeper County |  | Attainment/Unclassifiable.
Cumberland County |  | Attainment/Unclassifiable.
Dickenson County |  | Attainment/Unclassifiable.
Dinwiddie County |  | Attainment/Unclassifiable.
Essex County |  | Attainment/Unclassifiable.
Fairfax County |  | Attainment/Unclassifiable.
Fauquier County |  | Attainment/Unclassifiable.
Floyd County |  | Attainment/Unclassifiable.
Fluvanna County |  | Attainment/Unclassifiable.
Franklin County |  | Attainment/Unclassifiable.
Frederick County |  | Attainment/Unclassifiable.
Gloucester County |  | Attainment/Unclassifiable.
Goochland County |  | Attainment/Unclassifiable.
Grayson County |  | Attainment/Unclassifiable.
Greene County |  | Attainment/Unclassifiable.
Greensville County |  | Attainment/Unclassifiable.
Halifax County |  | Attainment/Unclassifiable.
Hanover County |  | Attainment/Unclassifiable.
Henrico County |  | Attainment/Unclassifiable.
Henry County |  | Attainment/Unclassifiable.
Highland County |  | Attainment/Unclassifiable.
Isle of Wight County |  | Attainment/Unclassifiable.
James City County |  | Attainment/Unclassifiable.
King and Queen County |  | Attainment/Unclassifiable.
King George County |  | Attainment/Unclassifiable.
King William County |  | Attainment/Unclassifiable.
Lancaster County |  | Attainment/Unclassifiable.
Lee County |  | Attainment/Unclassifiable.
Loudoun County |  | Attainment/Unclassifiable.
Louisa County |  | Attainment/Unclassifiable.
Lunenburg County |  | Attainment/Unclassifiable.
Madison County |  | Attainment/Unclassifiable.
Mathews County |  | Attainment/Unclassifiable.
Mecklenburg County |  | Attainment/Unclassifiable.
Middlesex County |  | Attainment/Unclassifiable.
Montgomery County |  | Attainment/Unclassifiable.
Nelson County |  | Attainment/Unclassifiable.
New Kent County |  | Attainment/Unclassifiable.
Northampton County |  | Attainment/Unclassifiable.
Northumberland County |  | Attainment/Unclassifiable.
Nottoway County |  | Attainment/Unclassifiable.
Orange County |  | Attainment/Unclassifiable.
Page County |  | Attainment/Unclassifiable.
Patrick County |  | Attainment/Unclassifiable.
Pittsylvania County |  | Attainment/Unclassifiable.
Powhatan County |  | Attainment/Unclassifiable.
Prince Edward County |  | Attainment/Unclassifiable.
Prince George County |  | Attainment/Unclassifiable.
Prince William County |  | Attainment/Unclassifiable.
Pulaski County |  | Attainment/Unclassifiable.
Rappahannock County |  | Attainment/Unclassifiable.
Richmond County |  | Attainment/Unclassifiable.
Roanoke County |  | Attainment/Unclassifiable.
Rockbridge County |  | Attainment/Unclassifiable.
Rockingham County |  | Attainment/Unclassifiable.
Russell County |  | Attainment/Unclassifiable.
Scott County |  | Attainment/Unclassifiable.
Shenandoah County |  | Attainment/Unclassifiable.
Smyth County |  | Attainment/Unclassifiable.
Southampton County |  | Attainment/Unclassifiable.
Spotsylvania County |  | Attainment/Unclassifiable.
Stafford County |  | Attainment/Unclassifiable.
Surry County |  | Attainment/Unclassifiable.
Sussex County |  | Attainment/Unclassifiable.
Tazewell County |  | Attainment/Unclassifiable.
Warren County |  | Attainment/Unclassifiable.
Washington County |  | Attainment/Unclassifiable.
Westmoreland County |  | Attainment/Unclassifiable.
Wise County |  | Attainment/Unclassifiable.
Wythe County |  | Attainment/Unclassifiable.
York County |  | Attainment/Unclassifiable.
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is April 9, 2018, unless otherwise noted.
³ Alleghany, Botetourt, Covington City, and Giles Counties will be designated by December 31, 2020.

* * * * *

49. Section 81.348 is amended by adding a table titled “Washington—2010 Sulfur Dioxide NAAQS (Primary)” following the table “Washington—1971 Sulfur Dioxide NAAQS (Primary and Secondary)” to read as follows:

§ 81.348 Washington.

* * * * *

Washington—2010 Sulfur Dioxide NAAQS (Primary)
Designated area 1 | Designation: Date 2 | Designation: Type
Lewis County |  | Unclassifiable.
Thurston County |  | Unclassifiable.
Rest of State: ³
Adams |  | Attainment/Unclassifiable.
Asotin |  | Attainment/Unclassifiable.
Benton |  | Attainment/Unclassifiable.
Clallam |  | Attainment/Unclassifiable.
Clark |  | Attainment/Unclassifiable.
Columbia |  | Attainment/Unclassifiable.
Cowlitz |  | Attainment/Unclassifiable.
Ferry |  | Attainment/Unclassifiable.
Franklin |  | Attainment/Unclassifiable.
Garfield |  | Attainment/Unclassifiable.
Grant |  | Attainment/Unclassifiable.
Grays Harbor |  | Attainment/Unclassifiable.
Island |  | Attainment/Unclassifiable.
Jefferson |  | Attainment/Unclassifiable.
King |  | Attainment/Unclassifiable.
Kitsap |  | Attainment/Unclassifiable.
Kittitas |  | Attainment/Unclassifiable.
Klickitat |  | Attainment/Unclassifiable.
Lincoln |  | Attainment/Unclassifiable.
Mason |  | Attainment/Unclassifiable.
Okanogan |  | Attainment/Unclassifiable.
Pacific |  | Attainment/Unclassifiable.
Pend Oreille |  | Attainment/Unclassifiable.
Pierce |  | Attainment/Unclassifiable.
San Juan |  | Attainment/Unclassifiable.
Skagit |  | Attainment/Unclassifiable.
Skamania |  | Attainment/Unclassifiable.
Snohomish |  | Attainment/Unclassifiable.
Spokane |  | Attainment/Unclassifiable.
Stevens |  | Attainment/Unclassifiable.
Wahkiakum |  | Attainment/Unclassifiable.
Walla Walla |  | Attainment/Unclassifiable.
Whitman |  | Attainment/Unclassifiable.
Yakima |  | Attainment/Unclassifiable.
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is April 9, 2018, unless otherwise noted.
³ Chelan, Douglas, and Whatcom Counties will be designated by December 31, 2020.

* * * * *

50. Section 81.349 is amended by revising the table entitled “West Virginia—2010 Sulfur Dioxide NAAQS (Primary)” to read as follows:

§ 81.349 West Virginia.

* * * * *

West Virginia—2010 Sulfur Dioxide NAAQS (Primary)
Designated area 1 3 | Designation: Date 2 | Designation: Type
Steubenville, OH-WV
Brooke County (part) | 10/4/13 | Nonattainment.
Area bounded by the Cross Creek Tax District.
Marshall, WV
Marshall County (part) | 10/4/13 | Nonattainment.
Area consisting of Clay Tax District, Franklin Tax District, and Washington Tax District.
Wood County |  | Unclassifiable.
Barbour County |  | Attainment/Unclassifiable.
Berkeley County |  | Attainment/Unclassifiable.
Boone County |  | Attainment/Unclassifiable.
Braxton County |  | Attainment/Unclassifiable.
Brooke County (part) |  | Attainment/Unclassifiable.
Area consisting of Buffalo Tax District.
Cabell County |  | Attainment/Unclassifiable.
Calhoun County |  | Attainment/Unclassifiable.
Clay County |  | Attainment/Unclassifiable.
Doddridge County |  | Attainment/Unclassifiable.
Fayette County |  | Attainment/Unclassifiable.
Gilmer County |  | Attainment/Unclassifiable.
Grant County |  | Attainment/Unclassifiable.
Greenbrier County |  | Attainment/Unclassifiable.
Hampshire County |  | Attainment/Unclassifiable.
Hancock County |  | Attainment/Unclassifiable.
Hardy County |  | Attainment/Unclassifiable.
Harrison County |  | Attainment/Unclassifiable.
Jackson County |  | Attainment/Unclassifiable.
Jefferson County |  | Attainment/Unclassifiable.
Kanawha County |  | Attainment/Unclassifiable.
Lewis County |  | Attainment/Unclassifiable.
Lincoln County |  | Attainment/Unclassifiable.
Logan County |  | Attainment/Unclassifiable.
Marion County |  | Attainment/Unclassifiable.
Marshall County (part) |  | Attainment/Unclassifiable.
Area consisting of Cameron Tax District, Liberty Tax District, Meade Tax District, Sand Hill Tax District, Union Tax District, and Webster Tax District.
Mason County |  | Attainment/Unclassifiable.
McDowell County |  | Attainment/Unclassifiable.
Mercer County |  | Attainment/Unclassifiable.
Mingo County |  | Attainment/Unclassifiable.
Monongalia County |  | Attainment/Unclassifiable.
Monroe County |  | Attainment/Unclassifiable.
Morgan County |  | Attainment/Unclassifiable.
Nicholas County |  | Attainment/Unclassifiable.
Ohio County |  | Attainment/Unclassifiable.
Pendleton County |  | Attainment/Unclassifiable.
Pleasants County |  | Attainment/Unclassifiable.
Pocahontas County |  | Attainment/Unclassifiable.
Preston County |  | Attainment/Unclassifiable.
Putnam County |  | Attainment/Unclassifiable.
Raleigh County |  | Attainment/Unclassifiable.
Randolph County |  | Attainment/Unclassifiable.
Ritchie County |  | Attainment/Unclassifiable.
Roane County |  | Attainment/Unclassifiable.
Summers County |  | Attainment/Unclassifiable.
Taylor County |  | Attainment/Unclassifiable.
Tucker County |  | Attainment/Unclassifiable.
Tyler County |  | Attainment/Unclassifiable.
Upshur County |  | Attainment/Unclassifiable.
Wayne County |  | Attainment/Unclassifiable.
Webster County |  | Attainment/Unclassifiable.
Wetzel County |  | Attainment/Unclassifiable.
Wirt County |  | Attainment/Unclassifiable.
Wyoming County |  | Attainment/Unclassifiable.
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is April 9, 2018, unless otherwise noted.
³ Mineral County will be designated by December 31, 2020.

* * * * *

51. Section 81.350 is amended by revising the table entitled “Wisconsin—2010 Sulfur Dioxide NAAQS (Primary)” to read as follows:

§ 81.350 Wisconsin.

* * * * *

Wisconsin—2010 Sulfur Dioxide NAAQS (Primary)
Designated Area 1 4 | Designation: Date 2 | Designation: Type
Rhinelander, WI | 10/4/13 | Nonattainment.
Oneida County (part)
City of Rhinelander, Crescent Town, Newbold Town, Pine Lake Town, and Pelican Town.
Columbia County, WI | 9/12/16 | Attainment/Unclassifiable.
Columbia County
Adams County |  | Attainment/Unclassifiable.
Ashland County |  | Attainment/Unclassifiable.
Barron County |  | Attainment/Unclassifiable.
Bayfield County |  | Attainment/Unclassifiable.
Brown County |  | Attainment/Unclassifiable.
Buffalo County |  | Attainment/Unclassifiable.
Burnett County |  | Attainment/Unclassifiable.
Calment County |  | Attainment/Unclassifiable.
Chippewa County |  | Attainment/Unclassifiable.
Clark County |  | Attainment/Unclassifiable.
Crawford County |  | Attainment/Unclassifiable.
Dane County |  | Attainment/Unclassifiable.
Dodge County |  | Attainment/Unclassifiable.
Door County |  | Attainment/Unclassifiable.
Douglas County |  | Attainment/Unclassifiable.
Dunn County |  | Attainment/Unclassifiable.
Eau Claire County |  | Attainment/Unclassifiable.
Florence County |  | Attainment/Unclassifiable.
Fond du Lac County |  | Attainment/Unclassifiable.
Forest County |  | Attainment/Unclassifiable.
Grant County |  | Attainment/Unclassifiable.
Green County |  | Attainment/Unclassifiable.
Green Lake County |  | Attainment/Unclassifiable.
Iowa County |  | Attainment/Unclassifiable.
Iron County |  | Attainment/Unclassifiable.
Jackson County |  | Attainment/Unclassifiable.
Jefferson County |  | Attainment/Unclassifiable.
Juneau County |  | Attainment/Unclassifiable.
Kenosha County |  | Attainment/Unclassifiable.
Kewaunee County |  | Attainment/Unclassifiable.
La Crosse County |  | Attainment/Unclassifiable.
Lafayette County |  | Attainment/Unclassifiable.
Langlade County |  | Attainment/Unclassifiable.
Lincoln County |  | Attainment/Unclassifiable.
Manitowoc County |  | Attainment/Unclassifiable.
Marathon County |  | Attainment/Unclassifiable.
Marinette County |  | Attainment/Unclassifiable.
Marquette County |  | Attainment/Unclassifiable.
Menominee County |  | Attainment/Unclassifiable.
Milwaukee County |  | Attainment/Unclassifiable.
Monroe County |  | Attainment/Unclassifiable.
Oconto County |  | Attainment/Unclassifiable.
Oneida County |  | Attainment/Unclassifiable.
Ozaukee County |  | Attainment/Unclassifiable.
Pepin County |  | Attainment/Unclassifiable.
Pierce County |  | Attainment/Unclassifiable.
Polk County |  | Attainment/Unclassifiable.
Portage County |  | Attainment/Unclassifiable.
Price County |  | Attainment/Unclassifiable.
Racine County |  | Attainment/Unclassifiable.
Richland County |  | Attainment/Unclassifiable.
Rock County |  | Attainment/Unclassifiable.
Rusk County |  | Attainment/Unclassifiable.
St. Croix County |  | Attainment/Unclassifiable.
Sauk County |  | Attainment/Unclassifiable.
Sawyer County |  | Attainment/Unclassifiable.
Shawano County |  | Attainment/Unclassifiable.
Sheboygan County |  | Attainment/Unclassifiable.
Taylor County |  | Attainment/Unclassifiable.
Trempealeau County |  | Attainment/Unclassifiable.
Vernon County |  | Attainment/Unclassifiable.
Vilas County |  | Attainment/Unclassifiable.
Walworth County |  | Attainment/Unclassifiable.
Washburn County |  | Attainment/Unclassifiable.
Washington County |  | Attainment/Unclassifiable.
Waukesha County |  | Attainment/Unclassifiable.
Waupaca County |  | Attainment/Unclassifiable.
Waushara County |  | Attainment/Unclassifiable.
Winnebago County |  | Attainment/Unclassifiable.
Wood County |  | Attainment/Unclassifiable.
Forest County Potawatomi Community Indian Tribe ³ |  | Attainment/Unclassifiable.
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is April 9, 2018, unless otherwise noted.
³ Includes Indian country of the tribe listed in this table located in Forest County, Wisconsin. Information pertaining to areas of Indian country in this table is intended for Clean Air Act planning purposes only and is not an EPA determination of Indian country status or any Indian country boundary. EPA lacks the authority to establish Indian country land status, and is making no determination of Indian country boundaries, in this table.
⁴ Outagamie County will be designated by December 31, 2020.

* * * * *

52. Section 81.351 is amended by adding a table titled “Wyoming—2010 Sulfur Dioxide NAAQS (Primary)” following the table “Wyoming—1971 Sulfur Dioxide NAAQS (Primary and Secondary)” to read as follows:

§ 81.351 Wyoming.

* * * * *

Wyoming—2010 Sulfur Dioxide NAAQS (Primary)
Designated area 1 2 | Designation: Date 3 | Designation: Type
Albany County |  | Attainment/Unclassifiable.
Big Horn County |  | Attainment/Unclassifiable.
Campbell County |  | Attainment/Unclassifiable.
Crook County |  | Attainment/Unclassifiable.
Fremont County (part) |  | Attainment/Unclassifiable.
All areas west of the western border of Township 40North-Range 93West, T39N-R93W, and T38N-R93W, and south of US Route 20. |  |
Goshen County |  | Attainment/Unclassifiable.
Hot Springs County |  | Attainment/Unclassifiable.
Johnson County |  | Attainment/Unclassifiable.
Lincoln County |  | Attainment/Unclassifiable.
Natrona County |  | Attainment/Unclassifiable.
Niobrara County |  | Attainment/Unclassifiable.
Park County |  | Attainment/Unclassifiable.
Platte County |  | Attainment/Unclassifiable.
Sheridan County |  | Attainment/Unclassifiable.
Sublette County |  | Attainment/Unclassifiable.
Sweetwater County (part) |  | Attainment/Unclassifiable.
All areas of the county east of US Route 191. |  |
Teton County |  | Attainment/Unclassifiable.
Uinta County |  | Attainment/Unclassifiable.
Washakie County |  | Attainment/Unclassifiable.
Weston County |  | Attainment/Unclassifiable.
¹ Includes any Indian country in each county or area, unless otherwise specified. EPA is not determining the boundaries of any area of Indian country in this table, including any area of Indian country located in the larger designation area. The inclusion of any Indian country in the designation area is not a determination that the state has regulatory authority under the Clean Air Act for such Indian country.
² Carbon and Converse Counties, and the remaining portions of Fremont and Sweetwater Counties, all which will be designated by December 31, 2020.
³ This date is April 9, 2018, unless otherwise noted.

* * * * *

53. Section 81.352 is amended by adding a table titled “American Samoa—2010 Sulfur Dioxide NAAQS (Primary)” following the table “American Samoa—1971 Sulfur Dioxide NAAQS (Primary and Secondary)” to read as follows:

§ 81.352 American Samoa.

* * * * *

American Samoa—2010 Sulfur Dioxide NAAQS (Primary)
Designated area 1 | Designation: Date 2 | Designation: Type
Territory Wide |  | Attainment/Unclassifiable.
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is April 9, 2018, unless otherwise noted.

* * * * *

54. Section 81.353 is amended by adding a table titled “Guam—2010 Sulfur Dioxide NAAQS (Primary)” following the table “Guam—1971 Sulfur Dioxide NAAQS (Primary and Secondary)” to read as follows:

§ 81.353 Guam.

* * * * *

Guam—2010 Sulfur Dioxide NAAQS (Primary)
Designated area 1 | Designation: Date 2 | Designation: Type
Piti-Cabras |  | Nonattainment.
The portion of Guam within a 6.074-km radius centered on UTM Easting 249,601.60 m, and UTM Northing 1,489,602.00 m (UTM Zone 55N). |  |
Rest of Territory |  | Attainment/Unclassifiable.
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is April 9, 2018, unless otherwise noted.

* * * * *

55. Section 81.354 is amended by adding a table titled “Northern Mariana Islands—2010 Sulfur Dioxide NAAQS (Primary)” following the table “Northern Mariana Islands—1971 Sulfur Dioxide NAAQS (Primary and Secondary)” to read as follows:

§ 81.354 Northern Mariana Islands.

* * * * *

Northern Mariana Islands—2010 Sulfur Dioxide NAAQS (Primary)
Designated area 1 | Designation: Date 2 | Designation: Type
Territory Wide |  | Attainment/Unclassifiable.
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is April 9, 2018, unless otherwise noted.

* * * * *

56. Section 81.355 is amended by adding a table titled “Puerto Rico—2010 Sulfur Dioxide NAAQS (Primary)” following the table “Puerto Rico—1971 Sulfur Dioxide NAAQS (Primary and Secondary)” to read as follows:

§ 81.355 Puerto Rico.

* * * * *

Puerto Rico—2010 Sulfur Dioxide NAAQS (Primary)
Designated area 1 | Designation: Date 2 | Designation: Type
San Juan, PR: |  |
Cataño Municipality |  | Nonattainment.
Toa Baja Municipality (part) |  | Nonattainment.
Palo Seco Ward. |  |
Sabana Seca Ward. |  |
San Juan Municipality (part) |  | Nonattainment.
San Juan Antiguo Ward. |  |
Santurce Ward. |  |
Hato Rey Norte Ward. |  |
Gobernador Pinero Ward. |  |
Guaynabo Municipality (part) |  | Nonattainment.
Pueblo Viejo Ward. |  |
Bayamón Municipality (part) |  | Nonattainment.
Juan Sánchez Ward. |  |
Guayama-Salinas, PR: |  |
Salinas Municipality (part) |  | Nonattainment.
Aguirre Ward. |  |
Lapa Ward. |  |
Rest of Territory |  | Attainment/Unclassifiable.
¹ Includes any Indian country in each county or area, unless otherwise specified. The EPA is not determining the boundaries of any area of Indian country in this table, including any area of Indian country located in the larger designation area. The inclusion of any Indian country in the designation area is not a determination that the state has regulatory authority under the Clean Air Act for such Indian country.
² This date is April 9, 2018, unless otherwise noted.

* * * * *

57. Section 81.356 is amended by adding a table entitled “Virgin Islands—2010 Sulfur Dioxide NAAQS (Primary)” following the table “Virgin Islands—1971 Sulfur Dioxide NAAQS (Primary and Secondary)” to read as follows:

§ 81.356 Virgin Islands.

* * * * *

Virgin Islands—2010 Sulfur Dioxide NAAQS (Primary)
Designated area ¹ | Designation: Date ² | Designation: Type
All of Virgin Islands AQCR 247 |  | Attainment/Unclassifiable.
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is April 9, 2018, unless otherwise noted.

* * * * *

[FR Doc. 2017-28423 Filed 1-8-18; 8:45 am]

BILLING CODE 6560-50-P